ENVIRONMENTAL PROTECTION AGENCY

40 CFR Part 52

[EPA-R05-OAR-2016-0599; FRL-9963-76-Region 5]

Air Plan Approval; Illinois; Revised Format for Materials Incorporated by Reference

AGENCY: Environmental Protection Agency (EPA).

ACTION: Final rule; administrative change.

SUMMARY: The Environmental Protection Agency (EPA) is revising the format for materials that are made part of the Illinois State Implementation Plan (SIP) through the process of incorporation by reference (IBR). The regulations and materials affected by this format change have all been previously submitted by Illinois and approved by EPA as part of the SIP.

DATES: This action is effective June 30, 2017.

ADDRESSES: EPA has established a docket for this action under Docket ID No. EPA-R05-OAR-2016-0599. SIP materials which are incorporated by reference into 40 CFR part 52 are available for inspection at the following locations: Environmental Protection Agency, Region 5, 77 West Jackson Boulevard, Chicago, Illinois 60604 and the National Archives and Records Administration (NARA). For information on the availability of this material at NARA, call 202-741-6030, or go to: http://www.archives.gov/federal-register/cfr/ibr-locations.html.

FOR FURTHER INFORMATION CONTACT: Christos Panos, Environmental Engineer, Attainment Planning and Maintenance Section, Air Programs Branch (AR 18J), Environmental Protection Agency, Region 5, 77 West Jackson Boulevard, Chicago, Illinois 60604, (312) 353-8328, panos.christos@epa.gov.

SUPPLEMENTARY INFORMATION: Throughout this document, wherever “we,” “us” or “our” is used, it is intended to refer to EPA. Information is organized as follows:

Table of Contents

I. Background

A. Description of a SIP

B. How EPA Enforces SIPs

C. How the State and EPA Update the SIP

D. How EPA Compiles the SIPs

E. How EPA Organizes the SIP Compilation

F. Where You Can Find a Copy of the SIP Compilation

G. The Format of the New Identification of Plan Section

H. When a SIP Revision Becomes Federally Enforceable

I. The Historical Record of SIP Revision Approvals

II. What EPA Is Doing in This Action

III. Incorporation by Reference

IV. Statutory and Executive Order Reviews

I. Background

A. Description of a SIP

Each state has a SIP containing, among other things, the control measures and strategies used to attain and maintain the national ambient air quality standards (NAAQS). The SIP is extensive, containing such elements as air pollution control regulations, emission inventories, monitoring networks, attainment demonstrations, and enforcement mechanisms.

B. How EPA Enforces SIPs

Each state must formally adopt the control measures and strategies to attain and maintain the NAAQS after the public has had an opportunity to comment on them. The states then submit them to EPA as SIP revision requests upon which EPA must formally act. EPA evaluates these submissions to determine whether they meet CAA requirements. If and when these control measures and strategies are approved by EPA, after notice and comment rulemaking, EPA uses the IBR process to make them part of the Federally approved SIP. IBR is a method of incorporating material into EPA regulations in the CFR by referencing the original document(s) without publishing the full text of the material. In this case, the SIP rules are identified in part 52 (Approval and Promulgation of Implementation Plans), title 40 of the Code of Federal Regulations (40 CFR part 52). These rules are approved by EPA with a specific effective date, but are not reproduced in their entirety in 40 CFR part 52. This format allows both EPA and the public to identify which regulations are contained in a given SIP and to help determine whether the state is enforcing those regulations. This format also assists EPA and the public in taking enforcement action, should a state not enforce its SIP-approved regulations.

C. How the State and EPA Update the SIP

The SIP is periodically revised as necessary to address the unique air pollution problems in the state. Therefore, EPA must periodically take action on state SIP submissions containing new and/or revised regulations and other materials; if approved, they become part of the SIP. On May 22, 1997 (62 FR 27968), EPA revised the formatting procedures of 40 CFR part 52 for incorporating by reference Federally approved SIP revisions. These procedures include: (1) A revised SIP document for each state that would use the IBR process under the provisions of title 1 CFR part 51; (2) a revised mechanism for announcing EPA approval of revisions to an applicable SIP and updating both the document that has gone through the IBR process and the CFR; and (3) a revised format of the “Identification of plan” sections for each applicable subpart in 40 CFR part 52 to reflect these revised IBR procedures. The description of the revised SIP document, IBR procedures, and “Identification of plan” format are discussed in further detail in the May 22, 1997 Federal Register document.

D. How EPA Compiles the SIPs

The Federally-approved regulations, source-specific requirements, and nonregulatory provisions (entirely or portions of) submitted by each state agency have been compiled by EPA into a “SIP compilation.” The SIP compilation contains the updated regulations, source-specific requirements, and nonregulatory provisions approved by EPA through previous rulemaking actions in the Federal Register.

E. How EPA Organizes the SIP Compilation

Each SIP compilation contains three parts. Part one contains the regulations, part two contains the source-specific requirements, and part three contains nonregulatory provisions. Each state's SIP compilation contains a table for each of the three parts that identifies each SIP-approved regulation, source-specific requirement, and nonregulatory provision. In this action, EPA is publishing the SIP compilation tables that summarize the applicable SIP requirements for Illinois and that will be codified at 40 CFR 52.720. The effective dates in the table indicate the date of the most recent revision to an approved regulation. EPA Regional Offices have the primary responsibility for updating the state SIP compilations and ensuring their accuracy.

F. Where You Can Find a Copy of the SIP Compilation

EPA Region 5 has developed and will maintain the SIP compilation for Illinois. A copy of the full text of Illinois's regulatory and source-specific SIP compilation will also be maintained at NARA.

G. The Format of the New Identification of Plan Section

In order to better serve the public, EPA revised the organization of the section titled “Identification of plan” at 40 CFR 52.720 and included additional information to clarify the enforceable elements of the SIP. The revised format does not affect Federal enforceability of the SIP and is consistent with the requirements of Section 110(h)(1) of the CAA concerning comprehensive SIP publication.

The revised Identification of plan section contains five subsections: (a) Purpose and scope, (b) Incorporation by reference, (c) EPA approved regulations, (d) EPA approved source specific requirements, and (e) EPA approved nonregulatory and quasi-regulatory provisions.

H. When a SIP Revision Becomes Federally Enforceable

All new requirements and revisions to the applicable SIP become Federally enforceable as of the effective date of the revisions to paragraphs (c), (d), or (e) of the applicable Identification of plan section found in each subpart of 40 CFR part 52.

I. The Historical Record of SIP Revision Approvals

To facilitate enforcement of previously approved SIP provisions and provide a smooth transition to the new SIP processing system, EPA will retain the original Identification of plan section, previously appearing in the CFR as the first or second section of part 52 for each state subpart. The original Identification of plan section will be moved to Section 52.750 of part 52 for Illinois. After an initial two-year period, EPA will review its experience with the new SIP processing system and decide whether to retain the original Identification of plan section for some further period.

II. What EPA Is Doing in This Action

We are revising the format of 40 CFR part 52 “Identification of plan” section for Illinois regarding incorporation by reference, by adding Section 52.720(c)(d) and (e), to be consistent with the format described above and in 62 FR 27968 (May 22, 1997). We are adding Section 52.720(b)(1) to further clarify that all SIP revisions listed in Section 52.720(c) and (d), regardless of inclusion in the most recent “update to the SIP compilation,” are Federally enforceable under sections 110 and 113 of the Clean Air Act (CAA) as of the effective date of the final rulemaking in which EPA approved the SIP revision. We are adding Section 52.720(b)(2) to certify that the materials provided by EPA at the addresses in paragraph (b)(3) are an exact duplicate of the official state rules/regulations. We are adding Section 52.720(b)(3) to update address and contact information. Additionally, we are removing sections 52.729 “Control strategy: Carbon monoxide”, 52.745 “Section 110(a)(2) infrastructure requirements” and 52.746 “Control strategy: Lead (Pb)” because the information within those sections is being incorporated into the tables at Section 52.720 and is, therefore, no longer necessary.

This action constitutes a recordkeeping and organizational exercise to ensure that all revisions to the state programs that have occurred are accurately reflected in 40 CFR part 52. State SIP revisions are controlled by EPA regulations at 40 CFR part 51.

EPA has determined that this action falls under the “good cause” exemption in sections 553(b)(3)(B) and 553(d)(3) of the Administrative Procedures Act (APA) which, upon finding “good cause,” authorizes agencies to dispense with public participation and allows an agency to make a rule effective immediately, thereby avoiding the 30-day delayed effective date otherwise provided for in the APA. This action simply reformats and codifies provisions which are already in effect as a matter of law in Federal and approved state programs. Under section 553(b)(3)(B) of the APA, an agency may find good cause where notice and public procedure are “impractical, unnecessary, or contrary to the public interest.” Public comment is unnecessary for this action because EPA is reformatting and codifying existing law. Immediate notice in the CFR benefits the public by removing outdated citations and making the IBR format clearer and more user-friendly.

III. Incorporation by Reference

In this rule, EPA is finalizing regulatory text that includes incorporation by reference. In accordance with requirements of 1 CFR 51.5, EPA is finalizing the incorporation by reference of the Illinois Regulations described in the amendments to 40 CFR part 52 set forth below. EPA has made, and will continue to make, these documents generally available electronically through www.regulations.gov and/or in hard copy at the appropriate EPA office (see the ADDRESSES section of this preamble for more information).

IV. Statutory and Executive Order Reviews

A. General Requirements

Under Executive Orders 12866 (58 FR 51735, October 4, 1993) and 13563 (76 FR 3821, January 21, 2011), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the SUPPLEMENTARY INFORMATION section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (63 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules is discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This action simply codifies provisions which are already in effect as a matter of law in Federal and approved state programs. 5 U.S.C. 802(2). As stated previously, EPA has made such a good cause finding, including the reasons therefore, and established an effective of June 30, 2017. EPA will submit a report containing this rule and other required information to the U.S. Senate, the U.S. House of Representatives, and the Comptroller General of the United States prior to publication of the rule in the Federal Register. The changes in format to the “Identification of plan” section for Illinois are not a `major rule' as defined by 5 U.S.C. 804(2).

C. Petitions for Judicial Review

EPA has also determined that the provisions of section 307(b)(1) of the Clean Air Act pertaining to petitions for judicial review are not applicable to this action. Prior EPA rulemaking actions for each individual component of the Illinois SIP compilations had previously afforded interested parties the opportunity to file a petition for judicial review in the United States Court of Appeals for the appropriate circuit within 60 days of such rulemaking action. Thus, EPA sees no need in this action to reopen the 60-day period for filing such petitions for judicial review for these “Identification of plan” reorganization actions for Illinois.

List of Subjects in 40 CFR Part 52

Environmental protection, Air pollution control, Carbon monoxide, Incorporation by reference, Intergovernmental relations, Lead, Nitrogen dioxide, Ozone, Particulate matter, Reporting and recordkeeping requirements, Sulfur dioxide, Volatile organic compounds.

Dated: June 5, 2017.
Robert A. Kaplan,
Acting Regional Administrator, Region 5.

Part 52 of chapter I, title 40 of the Code of Federal Regulations, is amended as follows:

PART 52—APROVAL AND PROMULGATION OF IMPLEMENTION PLANS

1. The authority citation for part 52 continues to read as follows:

Authority: 42 U.S.C. 7401 et seq.

Subpart O—Illinois

§ 52.720 [Redesignated as § 52.750 and amended]

2. Section 52.720 is redesignated as § 52.750 and the section heading and paragraph (a) are revised to read as follows:

§ 52.750 Original identification of plan section.

(a) This section identified the original “Air Quality Implementation Plan for the State of Illinois” and all revisions submitted by Illinois that were Federally-approved prior to June 1, 2017.

* * * * *

3. A new § 52.720 is added to read as follows:

§ 52.720 Identification of plan.

(a) Purpose and scope. This section sets forth the applicable State implementation plan for the State of Illinois under section 110 of the Clean Air Act, 42 U.S.C. 7401-7671q and 40 CFR part 51 to meet national ambient air quality standards.

(b) Incorporation by reference.

(1) Material listed in paragraphs (c) and (d) of this section with an EPA approval date prior to December 31, 2016, was approved for incorporation by reference by the Director of the Federal Register in accordance with 5 U.S.C. 552(a) and 1 CFR part 51. Entries in paragraphs (c) and (d) of this section with the EPA approval dates after December 31, 2016, have been approved by EPA for inclusion in the State implementation plan and for incorporation by reference into the plan as it is contained in this section, and will be considered by the Director of the Federal Register for approval in the next update to the SIP compilation.

(2) EPA Region 5 certifies that the materials provided by EPA at the addresses in paragraph (b)(3) of this section are an exact duplicate of the officially promulgated state rules/regulations which have been approved as part of the state implementation plan as of the dates referenced in paragraph (b)(1).

(3) Copies of the materials incorporated by reference into the SIP may be inspected at the Region 5 EPA Office at 77 West Jackson Boulevard, Chicago, IL 60604. To obtain the material, please contact the person identified in the FOR FURTHER INFORMATION CONTACT section of this preamble. You may also inspect the material with an EPA approval date prior to June 1, 2017, at the National Archives and Records Administration (NARA). For information on the availability of this material at NARA, go to: http://www.archives.gov/federal-register/cfr/ibr-locations.html.

(c) EPA approved regulations.

EPA-Approved Illinois Regulations and Statutes
Illinois citation | Title/subject | State effective date | EPA approval date | Comments
Title 35 of the Illinois Administrative Code
Subtitle A: General Provisions
Chapter I: Pollution Control Board
Part 106: Procedural Regulations
Subpart E: Alternative Opacity Procedures
106.501 | Scope and Applicability | 07/13/88 | 12/29/92, 57 FR 61834
106.502 | Joint or Single Petition | 07/13/88 | 12/29/92, 57 FR 61834
106.503 | Request to Agency to Join as Co-Petitioner | 07/13/88 | 12/29/92, 57 FR 61834
106.504 | Contents of Petition | 07/13/88 | 12/29/92, 57 FR 61834
106.505 | Response and Reply | 07/13/88 | 12/29/92, 57 FR 61834
106.506 | Notice and Conduct of Hearing | 06/05/90 | 12/29/92, 57 FR 61834
106.507 | Opinions and Orders | 07/13/88 | 12/29/92, 57 FR 61834
Subpart J: Culpability Determinations
106.930 | Applicability | 07/11/94 | 07/13/95, 60 FR 36060
106.931 | Petition for Review | 07/11/94 | 07/13/95, 60 FR 36060
106.932 | Response and Reply | 07/11/94 | 07/13/95, 60 FR 36060
106.933 | Notice and Hearing | 07/11/94 | 07/13/95, 60 FR 36060
106.934 | Opinion and Order | 07/11/94 | 07/13/95, 60 FR 36060
Subtitle B: Air Pollution
Chapter I: Pollution Control Board
Subchapter a: Permits and General Provisions
Part 201: Permits and General Provisions
Subpart A: Definitions
201.102 | Definitions | 04/14/72 | 05/31/72, 37 FR 10862 | Approved as Rule 101.
Subpart B: General Provisions
201.121 | Existence of Permit No Defense | 04/14/72 | 05/31/72, 37 FR 10862 | Approved as Rule 103(h).
201.122 | Proof of Emissions | 04/14/72 | 05/31/72, 37 FR 10862 | Approved as Rule 108.
201.123 | Burden of Persuasion Regarding Exceptions | 04/14/72 | 05/31/72, 37 FR 10862 | Approved as Rule 111.
201.124 | Annual Report | 04/14/72 | 05/31/72, 37 FR 10862 | Approved as Rule 112.
201.125 | Severability | 04/14/72 | 05/31/72, 37 FR 10862 | Approved as Rule 113.
201.126 | Repealer | 04/14/72 | 05/31/72, 37 FR 10862 | Approved as Rule 114.
Subpart C: Prohibitions
201.141 | Prohibition of Air Pollution | 04/14/72 | 05/31/72, 37 FR 10862 | Approved as Rule 102.
201.142 | Construction Permit Required | 04/14/72 | 05/31/72, 37 FR 10862 | Approved as Rule 103(a)(1).
201.143 | Operating Permits for New Sources | 04/14/72 | 05/31/72, 37 FR 10862 | Approved as Rule 103(b)(1).
201.144 | Operating Permits for Existing Sources | 04/14/72 | 05/31/72, 37 FR 10862 | Approved as Rule 103(b)(2).
201.146 | Exemptions From State Permit Requirements | 12/23/13 | 03/13/15, 80 FR 13248
201.147 | Former Permits | 04/14/72 | 05/31/72, 37 FR 10862 | Approved as Rule 103(j).
201.148 | Operation Without Compliance Program and Project Completion Schedule | 04/14/72 | 05/31/72, 37 FR 10862 | Approved as Rule 104(a).
201.149 | Operation During Malfunction, Breakdown or Startups | 04/14/72 | 05/31/72, 37 FR 10862 | Approved as Rule 105(a).
201.150 | Circumvention | 04/14/72 | 05/31/72, 37 FR 10862 | Approved as Rule 109.
201.151 | Design of Effluent Exhaust Systems | 04/14/72 | 05/31/72, 37 FR 10862 | Approved as Rule 110.
Subpart D: Permit Applications and Review Process
201.152 | Contents of Application for Construction Permit | 06/23/98 | 01/03/00, 65 FR 14
201.156 | Conditions | 04/14/72 | 05/31/72, 37 FR 10862 | Approved as Rule 103(a)(6).
201.157 | Contents of Application for Operating Permit | 06/23/98 | 01/03/00, 65 FR 14
201.158 | Incomplete Applications | 06/23/98 | 01/03/00, 65 FR 14
201.159 | Signatures | 06/23/98 | 01/03/00, 65 FR 14
201.160 | Standards for Issuance | 06/23/98 | 01/03/00, 65 FR 14
201.161 | Conditions | 04/14/72 | 05/31/72, 37 FR 10862 | Approved as Rule 103(b)(7).
201.162 | Duration | 12/01/10 | 04/07/14, 79 FR 18997
201.163 | Joint Construction and Operating Permits | 06/23/98 | 01/03/00, 65 FR 14
201.164 | Design Criteria | 06/23/98 | 01/03/00, 65 FR 14
201.165 | Hearings | 04/14/72 | 05/31/72, 37 FR 10862 | Approved as Rule 103(e).
201.166 | Revocation | 04/14/72 | 05/31/72, 37 FR 10862 | Approved as Rule 103(f).
201.167 | Revisions to Permits | 04/14/72 | 05/31/72, 37 FR 10862 | Approved as Rule 103(g).
201.168 | Appeals From Conditions | 04/14/72 | 05/31/72, 37 FR 10862 | Approved as Rule 103(k).
Subpart F: CAAPP Permits
201.207 | Applicability | 06/23/98 | 01/03/00, 65 FR 14
Subpart H: Compliance Programs and Project Completion Schedules
201.241 | Contents of Compliance Program | 04/14/72 | 05/31/72, 37 FR 10862 | Approved as Rule 104(b)(1).
201.242 | Contents of Project Completion Schedule | 04/14/72 | 05/31/72, 37 FR 10862 | Approved as Rule 104(b)(2, 3).
201.243 | Standards for Approval | 04/14/72 | 05/31/72, 37 FR 10862 | Approved as Rule 104(c).
201.244 | Revisions | 04/14/72 | 05/31/72, 37 FR 10862 | Approved as Rule 104(d).
201.245 | Effects of Approval | 04/14/72 | 05/31/72, 37 FR 10862 | Approved as Rule 104(e).
201.246 | Records and Reports | 04/14/72 | 05/31/72, 37 FR 10862 | Approved as Rule 104(f).
Subpart I: Malfunctions, Breakdowns or Startups
201.261 | Contents of Request for Permission To Operate During a Malfunction, Breakdown or Startup | 04/14/72 | 05/31/72, 37 FR 10862 | Approved as Rule 105(b).
201.262 | Standards for Granting Permission To Operate During a Malfunction, Breakdown or Startup | 04/14/72 | 05/31/72, 37 FR 10862 | Approved as Rule 105(c).
201.263 | Records and Reports | 04/14/72 | 05/31/72, 37 FR 10862 | Approved as Rule 105(d).
201.264 | Continued Operation or Startup Prior to Granting of Operating Permit | 04/14/72 | 05/31/72, 37 FR 10862 | Approved as Rule 105(e).
201.265 | Effect of Granting of Permission To Operate During a Malfunction, Breakdown or Startup | 04/14/72 | 05/31/72, 37 FR 10862 | Approved as Rule 105(f).
Subpart J: Monitoring and Testing
201.281 | Permit Monitoring Equipment Requirements | 02/03/89 | 04/06/93, 58 FR 17780
201.282 | Testing | 04/14/72 | 05/31/72, 37 FR 10862 | Approved as Rule 106(b).
201.283 | Records and Reports | 04/14/72 | 05/31/72, 37 FR 10862 | Approved as Rule 106(c).
Subpart K: Records and Reports
201.301 | Records | 04/14/72 | 05/31/72, 37 FR 10862 | Approved as Rule 107(a).
201.302 | Reports | 12/23/13 | 03/13/15, 80 FR 13248
Subpart L: Continuous Monitoring
201.401 | Continuous Monitoring Requirements | 02/03/89 | 04/06/93, 58 FR 17780
201.402 | Alternative Monitoring | 02/03/89 | 04/06/93, 58 FR 17780
201.403 | Exempt Sources | 02/03/89 | 04/06/93, 58 FR 17780
201.404 | Monitoring System Malfunction | 02/03/89 | 04/06/93, 58 FR 17780
201.405 | Excess Emission Reporting | 02/03/89 | 04/06/93, 58 FR 17780
201.406 | Data Reduction | 02/03/89 | 04/06/93, 58 FR 17780
201.407 | Retention of Information | 02/03/89 | 04/06/93, 58 FR 17780
201.408 | Compliance Schedules | 02/03/89 | 04/06/93, 58 FR 17780
Part 203: Major Stationary Sources Construction and Modification
Subpart A: General Provisions
203.101 | Definitions | 04/30/93 | 09/27/95, 60 FR 49778
203.103 | Actual Construction | 03/22/88 | 12/17/92, 57 FR 59928
203.104 | Actual Emissions | 03/22/88 | 12/17/92, 57 FR 59928
203.107 | Allowable Emissions | 04/30/93 | 09/27/95, 60 FR 49778
203.110 | Available Growth Margin | 04/30/93 | 09/27/95, 60 FR 49778
203.112 | Building, Structure and Facility | 04/30/93 | 09/27/95, 60 FR 49778
203.113 | Commence | 03/22/88 | 12/17/92, 57 FR 59928
203.116 | Construction | 03/22/88 | 12/17/92, 57 FR 59928
203.117 | Dispersion Enhancement Techniques | 03/22/88 | 12/17/92, 57 FR 59928
203.119 | Emission Baseline | 07/22/83 | 12/17/92, 57 FR 59928
203.121 | Emission Offset | 04/30/93 | 09/27/95, 60 FR 49778
203.122 | Emissions Unit | 04/30/93 | 09/27/95, 60 FR 49778
203.123 | Federally Enforceable | 04/30/93 | 09/27/95, 60 FR 49778
203.124 | Fugitive Emissions | 03/22/88 | 12/17/92, 57 FR 59928
203.125 | Installation | 03/22/88 | 12/17/92, 57 FR 59928
203.126 | Lowest Achievable Emission Rate | 04/30/93 | 09/27/95, 60 FR 49778
203.127 | Nonattainment Area | 03/22/88 | 12/17/92, 57 FR 59928
203.128 | Potential To Emit | 04/30/93 | 09/27/95, 60 FR 49778
203.131 | Reasonable Further Progress | 03/22/88 | 12/17/92, 57 FR 59928
203.134 | Secondary Emissions | 03/22/88 | 12/17/92, 57 FR 59928
203.136 | Stationary Source | 03/22/88 | 12/17/92, 57 FR 59928
203.150 | Public Participation | 04/30/93 | 09/27/95, 60 FR 49778
Subpart B: Major Stationary Sources in Nonattainment Areas
203.201 | Prohibition | 04/30/93 | 09/27/95, 60 FR 49778
203.202 | Coordination With Permit Requirement and Application Pursuant to 35 Ill. Adm. Code 201 | 03/22/88 | 12/17/92, 57 FR 59928
203.203 | Construction Permit Requirement and Application | 04/30/93 | 09/27/95, 60 FR 49778
203.205 | Effect of Permits | 03/22/88 | 12/17/92, 57 FR 59928
203.206 | Major Stationary Source | 03/10/98 | 05/13/03, 68 FR 25504
203.207 | Major Modification of a Source | 03/10/98 | 05/13/03, 68 FR 25504
203.208 | Net Emission Determination | 04/30/93 | 09/27/95, 60 FR 49778
203.209 | Significant Emissions Determination | 04/30/93 | 09/27/95, 60 FR 49778
203.210 | Relaxation of a Source-Specific Limitation | 03/22/88 | 12/17/92, 57 FR 59928
203.211 | Permit Exemption Based on Fugitive Emissions | 03/22/88 | 12/17/92, 57 FR 59928
Subpart C: Requirements for Major Stationary Sources in Nonattainment Areas
203.301 | Lowest Achievable Emission Rate | 03/10/98 | 05/13/03, 68 FR 25504
203.302 | Maintenance of Reasonable Further Progress and Emission Offsets | 04/30/93 | 09/27/95, 60 FR 49778
203.303 | Baseline and Emission Offsets Determination | 04/30/93 | 09/27/95, 60 FR 49778
203.305 | Compliance by Existing Sources | 03/22/88 | 12/17/92, 57 FR 59928
203.306 | Analysis of Alternatives | 04/30/93 | 09/27/95, 60 FR 49778
Subpart F: Operation of a Major Stationary Source or Major Modification
203.601 | Lowest Achievable Emission Rate Compliance Requirement | 03/22/88 | 12/17/92, 57 FR 59928
203.602 | Emission Offset Maintenance Requirement | 03/22/88 | 12/17/92, 57 FR 59928
Subpart G: General Maintenance of Emission Offsets
203.701 | General Maintenance of Emission Offsets | 03/22/88 | 12/17/92, 57 FR 59928
Subpart H: Offsets for Emission Increases From Rocket Engines and Motor Firing
203.801 | Offsetting by Alternative or Innovative Means | 05/14/93 | 09/27/95, 60 FR 49778
Subchapter b: Alternative Reduction Program
Part 205: Emissions Reduction Market System
Subpart A: General Provisions
205.100 | Severability | 11/25/97 | 10/15/01, 66 FR 52343
205.110 | Purpose | 11/25/97 | 10/15/01, 66 FR 52343
205.120 | Abbreviations and Acronyms | 06/13/05 | 07/07/08, 73 FR 38328
205.130 | Definitions | 06/13/05 | 07/07/08, 73 FR 38328
205.150 | Emissions Management Periods | 06/13/05 | 07/07/08, 73 FR 38328 | Except 150(e).
Subpart B: Applicability
205.200 | Participating Source | 06/13/05 | 07/07/08, 73 FR 38328
205.205 | Exempt Source | 06/13/05 | 07/07/08, 73 FR 38328
205.210 | New Participating Source | 06/13/05 | 07/07/08, 73 FR 38328
205.220 | Insignificant Emission Units | 06/13/05 | 07/07/08, 73 FR 38328
205.225 | Startup, Malfunction or Breakdown | 11/25/97 | 10/15/01, 66 FR 52343
Subpart C: Operational Implementation
205.300 | Seasonal Emissions Component of the Annual Emissions Report | 06/13/05 | 07/07/08, 73 FR 38328
205.310 | ERMS Applications | 06/13/05 | 07/07/08, 73 FR 38328
205.315 | CAAPP Permits for ERMS Sources | 06/13/05 | 07/07/08, 73 FR 38328
205.316 | Federally Enforceable State Operating Permits for ERMS Sources | 06/13/05 | 07/07/08, 73 FR 38328
205.318 | Certification for Exempt CAAPP Sources | 06/13/05 | 07/07/08, 73 FR 38328
205.320 | Baseline Emissions | 06/13/05 | 07/07/08, 73 FR 38328
205.330 | Emissions Determination Methods | 06/13/05 | 07/07/08, 73 FR 38328
205.335 | Sampling, Testing, Monitoring and Recordkeeping Practices | 06/13/05 | 07/07/08, 73 FR 38328
205.337 | Changes in Emissions Determination Methods and Sampling, Testing, Monitoring and Recordkeeping Practices | 06/13/05 | 07/07/08, 73 FR 38328
Subpart D: Seasonal Emissions Management
205.400 | Seasonal Emissions Allotment | 06/13/05 | 07/07/08, 73 FR 38328
205.405 | Exclusions From Further Reductions | 06/13/05 | 07/07/08, 73 FR 38328
205.410 | Participating Source Shutdowns | 06/13/05 | 07/07/08, 73 FR 38328
Subpart E: Alternative ATU Generation
205.500 | Emissions Reduction Generator | 06/13/05 | 07/07/08, 73 FR 38328
205.510 | Inter-Sector Transaction | 06/13/05 | 07/07/08, 73 FR 38328
Subpart F: Market Transactions
205.600 | ERMS Database | 11/25/97 | 10/15/01, 66 FR 52343
205.610 | Application for Transaction Account | 06/13/05 | 07/07/08, 73 FR 38328
205.620 | Account Officer | 11/25/97 | 10/15/01, 66 FR 52343
205.630 | ATU Transaction Procedures | 11/25/97 | 10/15/01, 66 FR 52343
Subpart G: Performance Accountability
205.700 | Compliance Accounting | 06/13/05 | 07/07/08, 73 FR 38328
205.710 | Alternative Compliance Market Account (ACMA) | 11/25/97 | 10/15/01, 66 FR 52343
205.720 | Emissions Excursion Compensation | 11/25/97 | 10/15/01, 66 FR 52343
205.730 | Excursion Reporting | 06/13/05 | 07/07/08, 73 FR 38328
205.740 | Enforcement Authority | 11/25/97 | 10/15/01, 66 FR 52343
205.750 | Emergency Conditions | 06/13/05 | 07/07/08, 73 FR 38328
205.760 | Market System Review Procedures | 06/13/05 | 07/07/08, 73 FR 38328
Subchapter c: Emission Standards and Limitations for Stationary Sources
Part 211: Definitions and General Provisions
Subpart A: General Provisions
211.101 | Incorporations by Reference | 01/28/13 | 10/06/14, 79 FR 60070
211.102 | Abbreviations and Conversion Factors | 09/14/10 | 03/23/12, 77 FR 16940
Subpart B: Definitions
211.121 | Other Definitions | 09/27/93 | 09/09/94, 59 FR 46562
211.130 | Accelacota | 09/27/93 | 09/09/94, 59 FR 46562
211.150 | Accumulator | 09/27/93 | 09/09/94, 59 FR 46562
211.170 | Acid Gases | 09/27/93 | 09/09/94, 59 FR 46562
211.200 | Acrylonitrile Butadiene Styrene (ABS) Welding | 09/14/10 | 03/23/12, 77 FR 16940
211.210 | Actual Heat Input | 09/27/93 | 09/09/94, 59 FR 46562
211.230 | Adhesive | 09/27/93 | 09/09/94, 59 FR 46562
211.233 | Adhesion Primer | 09/14/10 | 03/23/12, 77 FR 16940
211.235 | Adhesive Primer | 09/14/10 | 03/23/12, 77 FR 16940
211.240 | Adhesion Promoter | 05/09/95 | 07/25/96, 61 FR 38577
211.250 | Aeration | 09/27/93 | 09/09/94, 59 FR 46562
211.260 | Aerosol Adhesive and Adhesive Primer | 09/14/10 | 03/23/12, 77 FR 16940
211.270 | Aerosol Can Filling Line | 01/18/94 | 10/21/96, 61 FR 54556
211.290 | Afterburner | 09/27/93 | 09/09/94, 59 FR 46562
211.310 | Air Contaminant | 09/27/93 | 09/09/94, 59 FR 46562
211.330 | Air Dried Coatings | 09/27/93 | 09/09/94, 59 FR 46562
211.350 | Air Oxidation Process | 09/27/93 | 09/09/94, 59 FR 46562
211.370 | Air Pollutant | 09/27/93 | 09/09/94, 59 FR 46562
211.390 | Air Pollution | 09/27/93 | 09/09/94, 59 FR 46562
211.410 | Air Pollution Control Equipment | 09/27/93 | 09/09/94, 59 FR 46562
211.430 | Air Suspension Coater/Dryer | 09/27/93 | 09/09/94, 59 FR 46562
211.450 | Airless Spray | 09/27/93 | 09/09/94, 59 FR 46562
211.470 | Air Assisted Airless Spray | 09/27/93 | 09/09/94, 59 FR 46562
211.474 | Alcohol | 05/09/95 | 11/08/95, 60 FR 56238
211.481 | Ammunition Sealant | 09/14/10 | 03/23/12, 77 FR 16940
211.490 | Annual Grain Through Put | 09/27/93 | 09/09/94, 59 FR 46562
211.492 | Antifoulant Coating | 09/14/10 | 03/23/12, 77 FR 16940
211.493 | Antifouling Sealer/Tie Coat | 07/27/11 | 03/23/12, 77 FR 16940
211.495 | Anti-Glare/Safety Coating | 05/09/95 | 07/25/96, 61 FR 38577
211.510 | Application Area | 09/27/93 | 09/09/94, 59 FR 46562
211.530 | Architectural Coating | 09/27/93 | 09/09/94, 59 FR 46562
211.540 | Architectural Structure | 09/14/10 | 03/23/12, 77 FR 16940
211.550 | As Applied | 09/27/93 | 09/09/94, 59 FR 46562
211.560 | As-Applied Fountain Solution | 05/09/95 | 11/08/95, 60 FR 56238
211.570 | Asphalt | 09/27/93 | 09/09/94, 59 FR 46562
211.590 | Asphalt Prime Coat | 09/27/93 | 09/09/94, 59 FR 46562
211.610 | Automobile | 09/27/93 | 09/09/94, 59 FR 46562
211.630 | Automobile or Light Duty Truck Assembly Source or Automobile or Light Duty Truck Manufacturing Plant | 09/27/93 | 09/09/94, 59 FR 46562
211.650 | Automobile or Light Duty Truck Refinishing | 09/27/93 | 09/09/94, 59 FR 46562
211.660 | Automotive/Transportation Plastic Parts | 05/09/95 | 10/26/95, 60 FR 54807
211.670 | Baked Coatings | 05/09/95 | 10/26/95, 60 FR 54807
211.685 | Basecoat/Clearcoat System | 05/09/95 | 07/25/96, 61 FR 38577
211.690 | Batch Loading | 09/27/93 | 09/09/94, 59 FR 46562
211.695 | Batch Operation | 05/22/95 | 04/02/96, 61 FR 14484
211.696 | Batch Process Train | 05/22/95 | 04/02/96, 61 FR 14484
211.710 | Bead Dipping | 09/27/93 | 09/09/94, 59 FR 46562
211.715 | Bedliner | 09/14/10 | 03/23/12, 77 FR 16940
211.730 | Binders | 09/27/93 | 09/09/94, 59 FR 46562
211.735 | Black Coating | 09/14/10 | 03/23/12, 77 FR 16940
211.740 | Brakehorsepower (rated-bhp) | 09/25/07 | 06/26/09, 74 FR 30466
211.750 | British Thermal Unit | 09/27/93 | 09/09/94, 59 FR 46562
211.770 | Brush or Wipe Coating | 09/27/93 | 09/09/94, 59 FR 46562
211.790 | Bulk Gasoline Plant | 09/27/93 | 09/09/94, 59 FR 46562
211.810 | Bulk Gasoline Terminal | 09/27/93 | 09/09/94, 59 FR 46562
211.820 | Business Machine Plastic Parts | 09/14/10 | 03/23/12, 77 FR 16940
211.825 | Camouflage Coating | 09/14/10 | 03/23/12, 77 FR 16940
211.830 | Can | 09/27/93 | 09/09/94, 59 FR 46562
211.850 | Can Coating | 09/27/93 | 09/09/94, 59 FR 46562
211.870 | Can Coating Line | 09/27/93 | 09/09/94, 59 FR 46562
211.880 | Cap Sealant | 09/14/10 | 03/23/12, 77 FR 16940
211.890 | Capture | 09/27/93 | 09/09/94, 59 FR 46562
211.910 | Capture Device | 09/27/93 | 09/09/94, 59 FR 46562
211.930 | Capture Efficiency | 09/27/93 | 09/09/94, 59 FR 46562
211.950 | Capture System | 09/27/93 | 09/09/94, 59 FR 46562
211.954 | Cavity Wax | 09/14/10 | 03/23/12, 77 FR 16940
211.955 | Cement | 03/15/01 | 11/08/01, 66 FR 56449
211.960 | Cement Kiln | 03/15/01 | 11/08/01, 66 FR 56449
211.965 | Ceramic Tile Installation Adhesive | 09/14/10 | 03/23/12, 77 FR 16940
211.970 | Certified Investigation | 09/27/93 | 09/09/94, 59 FR 46562
211.980 | Chemical Manufacturing Process Unit | 05/09/95 | 03/23/98, 63 FR 13784
211.990 | Choke Loading | 09/27/93 | 09/09/94, 59 FR 46562
211.1000 | Class II Finish | 06/25/10 | 03/23/12, 77 FR 16940
211.1010 | Clean Air Act | 09/27/93 | 09/09/94, 59 FR 46562
211.1050 | Cleaning and Separating Operation | 09/27/93 | 09/09/94, 59 FR 46562
211.1070 | Cleaning Materials | 01/18/94 | 10/21/96, 61 FR 54556
211.1090 | Clear Coating | 09/27/93 | 09/09/94, 59 FR 46562
211.1110 | Clear Topcoat | 09/27/93 | 09/09/94, 59 FR 46562
211.1120 | Clinker | 03/15/01 | 11/08/01, 66 FR 56449
211.1128 | Closed Molding | 09/14/10 | 03/23/12, 77 FR 16940
211.1130 | Closed Purge System | 09/27/93 | 09/09/94, 59 FR 46562
211.1150 | Closed Vent System | 09/27/93 | 09/09/94, 59 FR 46562
211.1170 | Coal Refuse | 09/27/93 | 09/09/94, 59 FR 46562
211.1190 | Coating | 09/27/93 | 09/09/94, 59 FR 46562
211.1210 | Coating Applicator | 09/27/93 | 09/09/94, 59 FR 46562
211.1230 | Coating Line | 09/27/93 | 09/09/94, 59 FR 46562
211.1250 | Coating Plant | 09/27/93 | 09/09/94, 59 FR 46562
211.1270 | Coil Coating | 09/27/93 | 09/09/94, 59 FR 46562
211.1290 | Coil Coating Line | 09/27/93 | 09/09/94, 59 FR 46562
211.1310 | Cold Cleaning | 09/27/93 | 09/09/94, 59 FR 46562
211.1330 | Complete Combustion | 09/27/93 | 09/09/94, 59 FR 46562
211.1350 | Component | 09/27/93 | 09/09/94, 59 FR 46562
211.1370 | Concrete Curing Compounds | 09/27/93 | 09/09/94, 59 FR 46562
211.1390 | Concentrated Nitric Acid Manufacturing Process | 09/27/93 | 09/09/94, 59 FR 46562
211.1410 | Condensate | 09/27/93 | 09/09/94, 59 FR 46562
211.1430 | Condensible PM 10 | 09/27/93 | 09/09/94, 59 FR 46562
211.1455 | Contact Adhesive | 09/14/10 | 03/23/12, 77 FR 16940
211.1467 | Continuous Coater | 02/02/98 | 05/19/98, 63 FR 27489
211.1470 | Continuous Process | 09/27/93 | 09/09/94, 59 FR 46562
211.1490 | Control Device | 09/27/93 | 09/09/94, 59 FR 46562
211.1510 | Control Device Efficiency | 09/27/93 | 09/09/94, 59 FR 46562
211.1520 | Conventional Air Spray | 02/02/98 | 05/19/98, 63 FR 27489
211.1530 | Conventional Soybean Crushing Source | 09/27/93 | 09/09/94, 59 FR 46562
211.1550 | Conveyorized Degreasing | 09/27/93 | 09/09/94, 59 FR 46562
211.1560 | Cove Base | 09/14/10 | 03/23/12, 77 FR 16940
211.1565 | Cove Base Installation Adhesive | 09/14/10 | 03/23/12, 77 FR 16940
211.1570 | Crude Oil | 09/27/93 | 09/09/94, 59 FR 46562
211.1590 | Crude Oil Gathering | 09/27/93 | 09/09/94, 59 FR 46562
211.1610 | Crushing | 09/27/93 | 09/09/94, 59 FR 46562
211.1630 | Custody Transfer | 09/27/93 | 09/09/94, 59 FR 46562
211.1650 | Cutback Asphalt | 09/27/93 | 09/09/94, 59 FR 46562
211.1655 | Cyanoacrylate Adhesive | 09/14/10 | 03/23/12, 77 FR 16940
211.1670 | Daily Weighted Average VOM Content | 09/27/93 | 09/09/94, 59 FR 46562
211.1690 | Day | 09/27/93 | 09/09/94, 59 FR 46562
211.1700 | Deadener | 09/14/10 | 03/23/12, 77 FR 16940
211.1710 | Degreaser | 09/27/93 | 09/09/94, 59 FR 46562
211.1730 | Delivery Vessel | 09/27/93 | 09/09/94, 59 FR 46562
211.1740 | Diesel Engine | 09/25/07 | 06/26/09, 74 FR 30466
211.1745 | Digital Printing | 06/25/10 | 03/23/12, 77 FR 16940
211.1750 | Dip Coating | 09/27/93 | 09/09/94, 59 FR 46562
211.1770 | Distillate Fuel Oil | 09/27/93 | 09/09/94, 59 FR 46562
211.1780 | Distillation Unit | 05/09/95 | 03/23/98, 63 FR 13784
211.1790 | Drum | 09/27/93 | 09/09/94, 59 FR 46562
211.1810 | Dry Cleaning Operation or Dry Cleaning Facility | 09/27/93 | 09/09/94, 59 FR 46562
211.1830 | Dump Pit Area | 09/27/93 | 09/09/94, 59 FR 46562
211.1850 | Effective Grate Area | 09/27/93 | 09/09/94, 59 FR 46562
211.1870 | Effluent Water Separator | 09/27/93 | 09/09/94, 59 FR 46562
211.1872 | Ejection Cartridge Sealant | 09/14/10 | 03/23/12, 77 FR 16940
211.1875 | Elastomeric Materials | 05/09/95 | 07/25/96, 61 FR 38577
211.1876 | Electric Dissipating Coating | 09/14/10 | 03/23/12, 77 FR 16940
211.1877 | Electric-Insulating Varnish | 09/14/10 | 03/23/12, 77 FR 16940
211.1878 | Electrical Apparatus Component | 06/25/10 | 03/23/12, 77 FR 16940
211.1880 | Electrical Switchgear Compartment Coating | 09/14/10 | 03/23/12, 77 FR 16940
211.1882 | Electrodeposition Primer (EDP) | 09/14/10 | 03/23/12, 77 FR 16940
211.1883 | Electromagnetic Interference/Radio Frequency Interference (EMI/RFI) Shielding Coatings | 09/14/10 | 03/23/12, 77 FR 16940
211.1885 | Electronic Component | 06/25/10 | 03/23/12, 77 FR 16940
211.1890 | Electrostatic Bell or Disc Spray | 09/27/93 | 09/09/94, 59 FR 46562
211.1900 | Electrostatic Prep Coat | 05/09/95 | 10/26/95, 60 FR 54807
211.1910 | Electrostatic Spray | 09/27/93 | 09/09/94, 59 FR 46562
211.1920 | Emergency or Standby Unit | 09/25/07 | 06/26/09, 74 FR 30466
211.1930 | Emission Rate | 09/27/93 | 09/09/94, 59 FR 46562
211.1950 | Emission Unit | 09/27/93 | 09/09/94, 59 FR 46562
211.1970 | Enamel | 09/27/93 | 09/09/94, 59 FR 46562
211.1990 | Enclose | 09/27/93 | 09/09/94, 59 FR 46562
211.2010 | End Sealing Compound Coat | 09/27/93 | 09/09/94, 59 FR 46562
211.2030 | Enhanced Under-the-Cup Fill | 01/18/94 | 10/21/96, 61 FR 54556
211.2040 | Etching Filler | 09/14/10 | 03/23/12, 77 FR 16940
211.2050 | Ethanol Blend Gasoline | 09/27/93 | 09/09/94, 59 FR 46562
211.2055 | Ethylene Propylenediene Monomer (DPDM) Roof Membrane | 09/14/10 | 03/23/12, 77 FR 16940
211.2070 | Excess Air | 09/27/93 | 09/09/94, 59 FR 46562
211.2090 | Excessive Release | 09/27/93 | 09/09/94, 59 FR 46562
211.2130 | Existing Grain Handling Operation | 09/27/93 | 09/09/94, 59 FR 46562
211.2150 | Exterior Base Coat | 09/27/93 | 09/09/94, 59 FR 46562
211.2170 | Exterior End Coat | 09/27/93 | 09/09/94, 59 FR 46562
211.2190 | External Floating Roof | 09/27/93 | 09/09/94, 59 FR 46562
211.2200 | Extreme High-Gloss Coating | 07/27/11 | 03/23/12, 77 FR 16940
211.2210 | Extreme Performance Coating | 09/14/10 | 03/23/12, 77 FR 16940
211.2230 | Fabric Coating | 09/27/93 | 09/09/94, 59 FR 46562
211.2250 | Fabric Coating Line | 09/27/93 | 09/09/94, 59 FR 46562
211.2270 | Federally Enforceable Limitations and Conditions | 09/27/93 | 09/09/94, 59 FR 46562
211.2285 | Feed Mill | 06/17/97 | 02/17/00, 65 FR 8064
211.2300 | Fill | 11/15/94 | 08/08/96, 61 FR 41338
211.2310 | Final Repair Coat | 09/14/10 | 03/23/12, 77 FR 16940
211.2320 | Finish Primer Surfacer | 09/14/10 | 03/23/12, 77 FR 16940
211.2330 | Firebox | 09/27/93 | 09/09/94, 59 FR 46562
211.2350 | Fixed Roof Tank | 09/27/93 | 09/09/94, 59 FR 46562
211.2358 | Flat Wood Paneling | 07/27/11 | 03/23/12, 77 FR 16940
211.2359 | Flat Wood Paneling Coating Line | 06/25/10 | 03/23/12, 77 FR 16940
211.2360 | Flexible Coating | 09/14/10 | 03/23/12, 77 FR 16940
211.2365 | Flexible Operation Unit | 05/09/95 | 03/23/98, 63 FR 13784
211.2368 | Flexible Packaging | 06/25/10 | 03/23/12, 77 FR 16940
211.2369 | Flexible Vinyl | 09/14/10 | 03/23/12, 77 FR 16940
211.2370 | Flexographic Printing | 09/27/93 | 09/09/94, 59 FR 46562
211.2390 | Flexographic Printing Line | 09/27/93 | 09/09/94, 59 FR 46562
211.2410 | Floating Roof | 09/27/93 | 09/09/94, 59 FR 46562
211.2415 | Fog Coat | 09/14/10 | 03/23/12, 77 FR 16940
211.2430 | Fountain Solution | 09/27/93 | 09/09/94, 59 FR 46562
211.2450 | Freeboard Height | 09/27/93 | 09/09/94, 59 FR 46562
211.2470 | Fuel Combustion Emission Unit or Fuel Combustion Emission Source | 09/27/93 | 09/09/94, 59 FR 46562
211.2490 | Fugitive Particulate Matter | 09/27/93 | 09/09/94, 59 FR 46562
211.2510 | Full Operating Flowrate | 09/27/93 | 09/09/94, 59 FR 46562
211.2525 | Gasket/Gasket Sealing Material | 09/14/10 | 03/23/12, 77 FR 16940
211.2530 | Gas Service | 09/27/93 | 09/09/94, 59 FR 46562
211.2550 | Gas/Gas Method | 09/27/93 | 09/09/94, 59 FR 46562
211.2570 | Gasoline | 09/27/93 | 09/09/94, 59 FR 46562
211.2590 | Gasoline Dispensing Operation or Gasoline Dispensing Facility | 09/27/93 | 09/09/94, 59 FR 46562
211.2610 | Gel Coat | 01/18/94 | 10/21/96, 61 FR 54556
211.2615 | General Work Surface | 06/25/10 | 03/23/12, 77 FR 16940
211.2622 | Glass Bonding Primer | 09/14/10 | 03/23/12, 77 FR 16940
211.2630 | Gloss Reducers | 05/09/95 | 10/26/95, 60 FR 54807
211.2650 | Grain | 09/27/93 | 09/09/94, 59 FR 46562
211.2670 | Grain Drying Operation | 09/27/93 | 09/09/94, 59 FR 46562
211.2690 | Grain Handling and Conditioning Operation | 09/27/93 | 09/09/94, 59 FR 46562
211.2710 | Grain Handling Operation | 09/27/93 | 09/09/94, 59 FR 46562
211.2730 | Green Tire Spraying | 09/27/93 | 09/09/94, 59 FR 46562
211.2750 | Green Tires | 09/27/93 | 09/09/94, 59 FR 46562
211.2770 | Gross Heating Value | 09/27/93 | 09/09/94, 59 FR 46562
211.2790 | Gross Vehicle Weight Rating | 09/27/93 | 09/09/94, 59 FR 46562
211.2800 | Hardwood Plywood | 07/27/11 | 03/23/12, 77 FR 16940
211.2810 | Heated Airless Spray | 09/27/93 | 09/09/94, 59 FR 46562
211.2825 | Heat-Resistant Coating | 09/14/10 | 03/23/12, 77 FR 16940
211.2830 | Heatset | 06/25/10 | 03/23/12, 77 FR 16940
211.2840 | Heatset Web Letterpress Printing Line | 06/25/10 | 03/23/12, 77 FR 16940
211.2850 | Heatset Web Offset Lithographic Printing Line | 05/09/95 | 11/08/95, 60 FR 56238
211.2870 | Heavy Liquid | 01/28/13 | 10/06/14, 79 FR 60070
211.2890 | Heavy Metals | 09/27/93 | 09/09/94, 59 FR 46562
211.2910 | Heavy Off Highway Vehicle Products | 09/27/93 | 09/09/94, 59 FR 46562
211.2930 | Heavy Off Highway Vehicle Products Coating | 09/27/93 | 09/09/94, 59 FR 46562
211.2950 | Heavy Off Highway Vehicle Products Coating Line | 09/27/93 | 09/09/94, 59 FR 46562
211.2955 | High Bake Coating | 09/14/10 | 03/23/12, 77 FR 16940
211.2956 | High Build Primer Surfacer | 09/14/10 | 03/23/12, 77 FR 16940
211.2958 | High Gloss Coating | 09/14/10 | 03/23/12, 77 FR 16940
211.2960 | High-Performance Architectural Coating | 09/14/10 | 03/23/12, 77 FR 16940
211.2965 | High Precision Optic | 06/25/10 | 03/23/12, 77 FR 16940
211.2970 | High Temperature Aluminum Coating | 09/27/93 | 09/09/94, 59 FR 46562
211.2980 | High Temperature Coating | 09/14/10 | 03/23/12, 77 FR 16940
211.2990 | High Volume Low Pressure (HVLP) Spray | 09/27/93 | 09/09/94, 59 FR 46562
211.3010 | Hood | 09/27/93 | 09/09/94, 59 FR 46562
211.3030 | Hot Well | 09/27/93 | 09/09/94, 59 FR 46562
211.3050 | Housekeeping Practices | 09/27/93 | 09/09/94, 59 FR 46562
211.3070 | Incinerator | 09/27/93 | 09/09/94, 59 FR 46562
211.3090 | Indirect Heat Transfer | 09/27/93 | 09/09/94, 59 FR 46562
211.3095 | Indoor Floor Covering Installation Adhesive | 09/14/10 | 03/23/12, 77 FR 16940
211.3110 | Ink | 09/27/93 | 09/09/94, 59 FR 46562
211.3120 | In-Line Repair | 09/14/10 | 03/23/12, 77 FR 16940
211.3130 | In-Process Tank | 09/27/93 | 09/09/94, 59 FR 46562
211.3150 | In-Situ Sampling Systems | 09/27/93 | 09/09/94, 59 FR 46562
211.3170 | Interior Body Spray Coat | 09/27/93 | 09/09/94, 59 FR 46562
211.3190 | Internal Floating Roof | 09/27/93 | 09/09/94, 59 FR 46562
211.3210 | Internal Transferring Area | 09/27/93 | 09/09/94, 59 FR 46562
211.3215 | Janitorial Cleaning | 06/25/10 | 03/23/12, 77 FR 16940
211.3230 | Lacquers | 09/27/93 | 09/09/94, 59 FR 46562
211.3240 | Laminate | 09/14/10 | 03/23/12, 77 FR 16940
211.3250 | Large Appliance | 09/27/93 | 09/09/94, 59 FR 46562
211.3270 | Large Appliance Coating | 09/27/93 | 09/09/94, 59 FR 46562
211.3290 | Large Appliance Coating Line | 09/27/93 | 09/09/94, 59 FR 46562
211.3300 | Lean-Burn Engine | 09/25/07 | 06/26/09, 74 FR 30466
211.3305 | Letterpress Printing Line | 06/25/10 | 03/23/12, 77 FR 16940
211.3310 | Light Liquid | 09/27/93 | 09/09/94, 59 FR 46562
211.3330 | Light Duty Truck | 09/27/93 | 09/09/94, 59 FR 46562
211.3350 | Light Oil | 09/27/93 | 09/09/94, 59 FR 46562
211.3370 | Liquid/Gas Method | 09/27/93 | 09/09/94, 59 FR 46562
211.3390 | Liquid Mounted Seal | 09/27/93 | 09/09/94, 59 FR 46562
211.3410 | Liquid Service | 09/27/93 | 09/09/94, 59 FR 46562
211.3430 | Liquids Dripping | 09/27/93 | 09/09/94, 59 FR 46562
211.3450 | Lithographic Printing Line | 09/27/93 | 09/09/94, 59 FR 46562
211.3470 | Load Out Area | 09/27/93 | 09/09/94, 59 FR 46562
211.3480 | Loading Event | 10/25/94 | 04/03/95, 60 FR 16801
211.3483 | Long Dry Kiln | 03/15/01 | 11/08/01, 66 FR 56449
211.3485 | Long Wet Kiln | 03/15/01 | 11/08/01, 66 FR 56449
211.3487 | Low-NOX Burner | 03/15/01 | 11/08/01, 66 FR 56449
211.3490 | Low Solvent Coating | 09/27/93 | 09/09/94, 59 FR 46562
211.3505 | Lubricating Wax/Compound | 09/14/10 | 03/23/12, 77 FR 16940
211.3510 | Magnet Wire | 09/27/93 | 09/09/94, 59 FR 46562
211.3530 | Magnet Wire Coating | 09/27/93 | 09/09/94, 59 FR 46562
211.3550 | Magnet Wire Coating Line | 09/27/93 | 09/09/94, 59 FR 46562
211.3555 | Maintenance Cleaning | 06/25/10 | 03/23/12, 77 FR 16940
211.3570 | Major Dump Pit | 09/27/93 | 09/09/94, 59 FR 46562
211.3590 | Major Metropolitan Area (MMA) | 09/27/93 | 09/09/94, 59 FR 46562
211.3610 | Major Population Area (MPA) | 09/27/93 | 09/09/94, 59 FR 46562
211.3630 | Manufacturing Process | 09/27/93 | 09/09/94, 59 FR 46562
211.3650 | Marine Terminal | 10/25/94 | 04/03/95, 60 FR 16801
211.3660 | Marine Vessel | 10/25/94 | 04/03/95, 60 FR 16801
211.3665 | Mask Coating | 09/14/10 | 03/23/12, 77 FR 16940
211.3670 | Material Recovery Section | 09/27/93 | 09/09/94, 59 FR 46562
211.3690 | Maximum Theoretical Emissions | 09/27/93 | 09/09/94, 59 FR 46562
211.3695 | Maximum True Vapor Pressure | 11/15/94 | 08/08/96, 61 FR 41338
211.3705 | Medical Device | 06/25/10 | 03/23/12, 77 FR 16940
211.3707 | Medical Device and Pharmaceutical Manufacturing | 06/25/10 | 03/23/12, 77 FR 16940
211.3710 | Metal Furniture | 09/27/93 | 09/09/94, 59 FR 46562
211.3730 | Metal Furniture Coating | 09/27/93 | 09/09/94, 59 FR 46562
211.3750 | Metal Furniture Coating Line | 09/27/93 | 09/09/94, 59 FR 46562
211.3760 | Metallic Coating | 09/14/10 | 03/23/12, 77 FR 16940
211.3770 | Metallic Shoe Type Seal | 09/27/93 | 09/09/94, 59 FR 46562
211.3775 | Metal to Urethane/Rubber Molding or Casting Adhesive | 09/14/10 | 03/23/12, 77 FR 16940
211.3780 | Mid-Kiln Firing | 03/15/01 | 11/08/01, 66 FR 56449
211.3785 | Military Specification Coating | 09/14/10 | 03/23/12, 77 FR 16940
211.3790 | Miscellaneous Fabricated Product Manufacturing Process | 09/27/93 | 09/09/94, 59 FR 46562
211.3810 | Miscellaneous Formulation Manufacturing Process | 09/27/93 | 09/09/94, 59 FR 46562
211.3820 | Miscellaneous Industrial Adhesive Application Operation | 09/14/10 | 03/23/12, 77 FR 16940
211.3830 | Miscellaneous Metal Parts and Products | 09/27/93 | 09/09/94, 59 FR 46562
211.3850 | Miscellaneous Metal Parts and Products Coating | 09/27/93 | 09/09/94, 59 FR 46562
211.3870 | Miscellaneous Metal Parts or Products Coating Line | 09/27/93 | 09/09/94, 59 FR 46562
211.3890 | Miscellaneous Organic Chemical Manufacturing Process | 09/27/93 | 09/09/94, 59 FR 46562
211.3910 | Mixing Operation | 09/27/93 | 09/09/94, 59 FR 46562
211.3915 | Mobile Equipment | 05/09/95 | 07/25/96, 61 FR 38577
211.3925 | Mold Seal Coating | 09/14/10 | 03/23/12, 77 FR 16940
211.3930 | Monitor | 09/27/93 | 09/09/94, 59 FR 46562
211.3950 | Monomer | 01/18/94 | 10/21/96, 61 FR 54556
211.3960 | Motor Vehicles | 05/09/95 | 07/25/96, 61 FR 38577
211.3961 | Motor Vehicle Adhesive | 09/14/10 | 03/23/12, 77 FR 16940
211.3965 | Motor Vehicle Refinishing | 05/09/95 | 07/25/96, 61 FR 38577
211.3966 | Motor Vehicle Weatherstrip Adhesive | 09/14/10 | 03/23/12, 77 FR 16940
211.3967 | Mouth Waterproofing Sealant | 09/14/10 | 03/23/12, 77 FR 16940
211.3968 | Multi-Colored Coating | 09/14/10 | 03/23/12, 77 FR 16940
211.3969 | Multi-Component Coating | 09/14/10 | 03/23/12, 77 FR 16940
211.3970 | Multiple Package Coating | 09/27/93 | 09/09/94, 59 FR 46562
211.3975 | Multipurpose Construction Adhesive | 09/14/10 | 03/23/12, 77 FR 16940
211.3985 | Natural Finish Hardwood Plywood Panel | 07/27/11 | 03/23/12, 77 FR 16940
211.3990 | New Grain Drying Operation | 09/27/93 | 09/09/94, 59 FR 46562
211.4010 | New Grain Handling Operation | 09/27/93 | 09/09/94, 59 FR 46562
211.4030 | No Detectable Volatile Organic Material Emissions | 09/27/93 | 09/09/94, 59 FR 46562
211.4050 | Non-Contact Process Water Cooling Tower | 01/18/94 | 10/21/96, 61 FR 54556
211.4052 | Non-Convertible Coating | 09/14/10 | 03/23/12, 77 FR 16940
211.4055 | Non-Flexible Coating | 05/09/95 | 10/26/95, 60 FR 54807
211.4065 | Non-Heatset | 06/25/10 | 03/23/12, 77 FR 16940
211.4067 | NOX Trading Program | 04/17/01 | 11/08/01, 66 FR 56449
211.4070 | Offset | 09/27/93 | 09/09/94, 59 FR 46562
211.4080 | One-Component Coating | 09/14/10 | 03/23/12, 77 FR 16940
211.4090 | One Hundred Percent Acid | 09/27/93 | 09/09/94, 59 FR 46562
211.4110 | One Turn Storage Space | 09/27/93 | 09/09/94, 59 FR 46562
211.4130 | Opacity | 09/27/93 | 09/09/94, 59 FR 46562
211.4150 | Opaque Stains | 09/27/93 | 09/09/94, 59 FR 46562
211.4170 | Open Top Vapor Degreasing | 09/27/93 | 09/09/94, 59 FR 46562
211.4190 | Open Ended Valve | 09/27/93 | 09/09/94, 59 FR 46562
211.4210 | Operator of a Gasoline Dispensing Operation or Operator of a Gasoline Dispensing Facility | 09/27/93 | 09/09/94, 59 FR 46562
211.4220 | Optical Coating | 09/14/10 | 03/23/12, 77 FR 16940
211.4230 | Organic Compound | 09/27/93 | 09/09/94, 59 FR 46562
211.4250 | Organic Material and Organic Materials | 10/19/95 | 03/21/96, 61 FR 11550
211.4260 | Organic Solvent | 10/19/95 | 03/21/96, 61 FR 11550
211.4270 | Organic Vapor | 09/27/93 | 09/09/94, 59 FR 46562
211.4285 | Outdoor Floor Covering Installation Adhesive | 09/14/10 | 03/23/12, 77 FR 16940
211.4290 | Oven | 09/27/93 | 09/09/94, 59 FR 46562
211.4310 | Overall Control | 09/27/93 | 09/09/94, 59 FR 46562
211.4330 | Overvarnish | 09/27/93 | 09/09/94, 59 FR 46562
211.4350 | Owner of a Gasoline Dispensing Operation or Owner of a Gasoline Dispensing Facility | 09/27/93 | 09/09/94, 59 FR 46562
211.4370 | Owner or Operator | 09/27/93 | 09/09/94, 59 FR 46562
211.4390 | Packaging Rotogravure Printing | 09/27/93 | 09/09/94, 59 FR 46562
211.4410 | Packaging Rotogravure Printing Line | 09/27/93 | 09/09/94, 59 FR 46562
211.4430 | Pail | 09/27/93 | 09/09/94, 59 FR 46562
211.4450 | Paint Manufacturing Source or Paint Manufacturing Plant | 09/27/93 | 09/09/94, 59 FR 46562
211.4455 | Pan-Backing Coating | 09/14/10 | 03/23/12, 77 FR 16940
211.4460 | Panel | 07/27/11 | 03/23/12, 77 FR 16940
211.4470 | Paper Coating | 09/27/93 | 09/09/94, 59 FR 46562
211.4490 | Paper Coating Line | 09/27/93 | 09/09/94, 59 FR 46562
211.4510 | Particulate Matter | 09/27/93 | 09/09/94, 59 FR 46562
211.4530 | Parts per Million (Volume) or Ppm (VOL) | 09/27/93 | 09/09/94, 59 FR 46562
211.4540 | Perimeter Bonded Sheet Flooring | 09/14/10 | 03/23/12, 77 FR 16940
211.4550 | Person | 09/27/93 | 09/09/94, 59 FR 46562
211.4590 | Petroleum | 09/27/93 | 09/09/94, 59 FR 46562
211.4610 | Petroleum Liquid | 10/19/95 | 03/21/96, 61 FR 11550
211.4630 | Petroleum Refinery | 09/27/93 | 09/09/94, 59 FR 46562
211.4650 | Pharmaceutical | 09/27/93 | 09/09/94, 59 FR 46562
211.4670 | Pharmaceutical Coating Operation | 09/27/93 | 09/09/94, 59 FR 46562
211.4690 | Photochemically Reactive Material | 09/27/93 | 09/09/94, 59 FR 46562
211.4710 | Pigmented Coatings | 09/27/93 | 09/09/94, 59 FR 46562
211.4730 | Plant | 09/27/93 | 09/09/94, 59 FR 46562
211.4735 | Plastic | 09/14/10 | 03/23/12, 77 FR 16940
211.4740 | Plastic Part | 05/09/95 | 10/26/95, 60 FR 54807
211.4750 | Plasticizers | 09/27/93 | 09/09/94, 59 FR 46562
211.4760 | Plastic Solvent Welding Adhesive | 09/14/10 | 03/23/12, 77 FR 16940
211.4765 | Plastic Solvent Welding Adhesive Primer | 09/14/10 | 03/23/12, 77 FR 16940
211.4768 | Pleasure Craft | 09/14/10 | 03/23/12, 77 FR 16940
211.4769 | Pleasure Craft Surface Coating | 09/14/10 | 03/23/12, 77 FR 16940
211.4770 | PM 10 | 09/27/93 | 09/09/94, 59 FR 46562
211.4790 | Pneumatic Rubber Tire Manufacture | 09/27/93 | 09/09/94, 59 FR 46562
211.4810 | Polybasic Organic Acid Partial Oxidation Manufacturing Process | 09/27/93 | 09/09/94, 59 FR 46562
211.4830 | Polyester Resin Material(s) | 01/18/94 | 10/21/96, 61 FR 54556
211.4850 | Polyester Resin Products Manufacturing Process | 01/18/94 | 10/21/96, 61 FR 54556
211.4870 | Polystyrene Plant | 09/27/93 | 09/09/94, 59 FR 46562
211.4890 | Polystyrene Resin | 09/27/93 | 09/09/94, 59 FR 46562
211.4895 | Polyvinyl Chloride Plastic (PVC Plastic) | 09/14/10 | 03/23/12, 77 FR 16940
211.4900 | Porous Material | 09/14/10 | 03/23/12, 77 FR 16940
211.4910 | Portable Grain Handling Equipment | 09/27/93 | 09/09/94, 59 FR 46562
211.4930 | Portland Cement Manufacturing Process Emission Source | 09/27/93 | 09/09/94, 59 FR 46562
211.4950 | Portland Cement Process or Portland Cement Manufacturing Plant | 09/27/93 | 09/09/94, 59 FR 46562
211.4970 | Potential To Emit | 01/18/94 | 10/21/96, 61 FR 54556
211.4990 | Power Driven Fastener Coating | 09/27/93 | 09/09/94, 59 FR 46562
211.5010 | Precoat | 05/09/95 | 07/25/96, 61 FR 38577
211.5012 | Prefabricated Architectural Coating | 09/14/10 | 03/23/12, 77 FR 16940
211.5015 | Preheater Kiln | 03/15/01 | 11/08/01, 66 FR 56449
211.5020 | Preheater/Precalciner Kiln | 03/15/01 | 11/08/01, 66 FR 56449
211.5030 | Pressure Release | 09/27/93 | 09/09/94, 59 FR 46562
211.5050 | Pressure Tank | 09/27/93 | 09/09/94, 59 FR 46562
211.5060 | Pressure/Vacuum Relief Valve | 09/21/94 | 01/27/95, 60 FR 5318
211.5061 | Pretreatment Coating | 09/14/10 | 03/23/12, 77 FR 16940
211.5062 | Pretreatment Wash Primer | 09/14/10 | 03/23/12, 77 FR 16940
211.5065 | Primary Product | 05/09/95 | 03/23/98, 63 FR 13784
211.5070 | Prime Coat | 09/27/93 | 09/09/94, 59 FR 46562
211.5075 | Primer Sealant | 09/14/10 | 03/23/12, 77 FR 16940
211.5080 | Primer Sealer | 05/09/95 | 07/25/96, 61 FR 38577
211.5090 | Primer Surfacer Coat | 09/14/10 | 03/23/12, 77 FR 16940
211.5110 | Primer Surfacer Operation | 09/27/93 | 09/09/94, 59 FR 46562
211.5130 | Primers | 09/27/93 | 09/09/94, 59 FR 46562
211.5140 | Printed Interior Panel | 07/27/11 | 03/23/12, 77 FR 16940
211.5150 | Printing | 09/27/93 | 09/09/94, 59 FR 46562
211.5170 | Printing Line | 09/27/93 | 09/09/94, 59 FR 46562
211.5185 | Process Emission Source | 09/27/93 | 09/09/94, 59 FR 46562
211.5190 | Process Emission Unit | 09/27/93 | 09/09/94, 59 FR 46562
211.5210 | Process Unit | 09/27/93 | 09/09/94, 59 FR 46562
211.5230 | Process Unit Shutdown | 09/27/93 | 09/09/94, 59 FR 46562
211.5245 | Process Vent | 05/22/95 | 04/02/96, 61 FR 14484
211.5250 | Process Weight Rate | 09/27/93 | 09/09/94, 59 FR 46562
211.5270 | Production Equipment Exhaust System | 09/27/93 | 09/09/94, 59 FR 46562
211.5310 | Publication Rotogravure Printing Line | 09/27/93 | 09/09/94, 59 FR 46562
211.5330 | Purged Process Fluid | 09/27/93 | 09/09/94, 59 FR 46562
211.5335 | Radiation Effect Coating | 06/25/10 | 03/23/12, 77 FR 16940
211.5350 | Reactor | 09/27/93 | 09/09/94, 59 FR 46562
211.5370 | Reasonably Available Control Technology (RACT) | 09/27/93 | 09/09/94, 59 FR 46562
211.5390 | Reclamation System | 01/18/94 | 10/21/96, 61 FR 54556
211.5400 | Red Coating | 09/14/10 | 03/23/12, 77 FR 16940
211.5410 | Refiner | 09/27/93 | 09/09/94, 59 FR 46562
211.5430 | Refinery Fuel Gas | 09/27/93 | 09/09/94, 59 FR 46562
211.5450 | Refinery Fuel Gas System | 09/27/93 | 09/09/94, 59 FR 46562
211.5470 | Refinery Unit or Refinery Process Unit | 09/27/93 | 09/09/94, 59 FR 46562
211.5480 | Reflective Argent Coating | 05/09/95 | 10/26/95, 60 FR 54807
211.5490 | Refrigerated Condenser | 09/27/93 | 09/09/94, 59 FR 46562
211.5500 | Regulated Air Pollutant | 12/07/93 | 04/05/95, 60 FR 17229
211.5510 | Reid Vapor Pressure | 01/28/13 | 10/06/14, 79 FR 60070
211.5520 | Reinforced Plastic Composite | 09/14/10 | 03/23/12, 77 FR 16940
211.5530 | Repair | 01/18/94 | 10/21/96, 61 FR 54556
211.5535 | Repair Cleaning | 06/25/10 | 03/23/12, 77 FR 16940
211.5550 | Repair Coat | 09/14/10 | 03/23/12, 77 FR 16940
211.5570 | Repaired | 09/27/93 | 09/09/94, 59 FR 46562
211.5585 | Research and Development Operation | 06/25/10 | 03/23/12, 77 FR 16940
211.5590 | Residual Fuel Oil | 09/27/93 | 09/09/94, 59 FR 46562
211.5600 | Resist Coat | 05/09/95 | 10/26/95, 60 FR 54807
211.5610 | Restricted Area | 09/27/93 | 09/09/94, 59 FR 46562
211.5630 | Retail Outlet | 09/27/93 | 09/09/94, 59 FR 46562
211.5640 | Rich-Burn Engine | 09/25/07 | 06/26/09, 74 FR 30466
211.5650 | Ringelmann Chart | 09/27/93 | 09/09/94, 59 FR 46562
211.5670 | Roadway | 09/27/93 | 09/09/94, 59 FR 46562
211.5690 | Roll Coater | 09/27/93 | 09/09/94, 59 FR 46562
211.5710 | Roll Coating | 09/27/93 | 09/09/94, 59 FR 46562
211.5730 | Roll Printer | 09/27/93 | 09/09/94, 59 FR 46562
211.5750 | Roll Printing | 09/27/93 | 09/09/94, 59 FR 46562
211.5770 | Rotogravure Printing | 09/27/93 | 09/09/94, 59 FR 46562
211.5790 | Rotogravure Printing Line | 09/27/93 | 09/09/94, 59 FR 46562
211.5800 | Rubber | 09/14/10 | 03/23/12, 77 FR 16940
211.5810 | Safety Relief Valve | 09/27/93 | 09/09/94, 59 FR 46562
211.5830 | Sandblasting | 09/27/93 | 09/09/94, 59 FR 46562
211.5850 | Sanding Sealers | 09/27/93 | 09/09/94, 59 FR 46562
211.5860 | Scientific Instrument | 06/25/10 | 03/23/12, 77 FR 16940
211.5870 | Screening | 09/27/93 | 09/09/94, 59 FR 46562
211.5875 | Screen Printing | 06/25/10 | 03/23/12, 77 FR 16940
211.5885 | Screen Reclamation | 06/25/10 | 03/23/12, 77 FR 16940
211.5890 | Sealer | 09/14/10 | 03/23/12, 77 FR 16940
211.5910 | Semi Transparent Stains | 09/27/93 | 09/09/94, 59 FR 46562
211.5930 | Sensor | 09/27/93 | 09/09/94, 59 FR 46562
211.5950 | Set of Safety Relief Valves | 09/27/93 | 09/09/94, 59 FR 46562
211.5970 | Sheet Basecoat | 09/27/93 | 09/09/94, 59 FR 46562
211.5980 | Sheet-Fed | 05/09/95 | 11/08/95, 60 FR 56238
211.5985 | Sheet Rubber Lining Installation | 09/14/10 | 03/23/12, 77 FR 16940
211.5987 | Shock-Free Coating | 09/14/10 | 03/23/12, 77 FR 16940
211.5990 | Shotblasting | 09/27/93 | 09/09/94, 59 FR 46562
211.6010 | Side Seam Spray Coat | 09/27/93 | 09/09/94, 59 FR 46562
211.6012 | Silicone-Release Coating | 09/14/10 | 03/23/12, 77 FR 16940
211.6015 | Single-Ply Roof Membrane | 09/14/10 | 03/23/12, 77 FR 16940
211.6017 | Single-Ply Roof Membrane Adhesive Primer | 09/14/10 | 03/23/12, 77 FR 16940
211.6020 | Single-Ply Roof Membrane Installation and Repair Adhesive | 09/14/10 | 03/23/12, 77 FR 16940
211.6025 | Single Unit Operation | 05/22/95 | 04/02/96, 61 FR 14484
211.6030 | Smoke | 09/27/93 | 09/09/94, 59 FR 46562
211.6050 | Smokeless Flare | 09/27/93 | 09/09/94, 59 FR 46562
211.6060 | Soft Coat | 05/09/95 | 10/26/95, 60 FR 54807
211.6063 | Solar-Absorbent Coating | 09/14/10 | 03/23/12, 77 FR 16940
211.6065 | Solids Turnover Ratio (RT) | 09/14/10 | 03/23/12, 77 FR 16940
211.6070 | Solvent | 09/27/93 | 09/09/94, 59 FR 46562
211.6090 | Solvent Cleaning | 09/27/93 | 09/09/94, 59 FR 46562
211.6110 | Solvent Recovery System | 01/18/94 | 10/21/96, 61 FR 54556
211.6130 | Source | 04/17/01 | 11/08/01, 66 FR 56449
211.6140 | Specialty Coatings | 05/09/95 | 10/26/95, 60 FR 54807
211.6145 | Specialty Coatings for Motor Vehicles | 05/09/95 | 07/25/96, 61 FR 38577
211.6150 | Specialty High Gloss Catalyzed Coating | 09/27/93 | 09/09/94, 59 FR 46562
211.6170 | Specialty Leather | 01/18/94 | 10/21/96, 61 FR 54556
211.6190 | Specialty Soybean Crushing Source | 09/27/93 | 09/09/94, 59 FR 46562
211.6210 | Splash Loading | 09/27/93 | 09/09/94, 59 FR 46562
211.6230 | Stack | 09/27/93 | 09/09/94, 59 FR 46562
211.6250 | Stain Coating | 01/18/94 | 10/21/96, 61 FR 54556
211.6270 | Standard Conditions | 09/27/93 | 09/09/94, 59 FR 46562
211.6290 | Standard Cubic Foot (Scf) | 09/27/93 | 09/09/94, 59 FR 46562
211.6310 | Start Up | 09/27/93 | 09/09/94, 59 FR 46562
211.6330 | Stationary Emission Source | 09/27/93 | 09/09/94, 59 FR 46562
211.6350 | Stationary Emission Unit | 09/27/93 | 09/09/94, 59 FR 46562
211.6370 | Stationary Source | 09/27/93 | 09/09/94, 59 FR 46562
211.6390 | Stationary Storage Tank | 09/27/93 | 09/09/94, 59 FR 46562
211.6400 | Stencil Coat | 09/14/10 | 03/23/12, 77 FR 16940
211.6405 | Sterilization Indicating Ink | 06/25/10 | 03/23/12, 77 FR 16940
211.6410 | Storage Tank or Storage Vessel | 09/27/93 | 09/09/94, 59 FR 46562
211.6420 | Strippable Spray Booth Coating | 02/02/98 | 05/19/98, 63 FR 27489
211.6425 | Stripping | 06/25/10 | 03/23/12, 77 FR 16940
211.6427 | Structural Glazing | 09/14/10 | 03/23/12, 77 FR 16940
211.6430 | Styrene Devolatilizer Unit | 09/27/93 | 09/09/94, 59 FR 46562
211.6450 | Styrene Recovery Unit | 09/27/93 | 09/09/94, 59 FR 46562
211.6460 | Subfloor | 09/14/10 | 03/23/12, 77 FR 16940
211.6470 | Submerged Loading Pipe | 09/27/93 | 09/09/94, 59 FR 46562
211.6490 | Substrate | 09/27/93 | 09/09/94, 59 FR 46562
211.6510 | Sulfuric Acid Mist | 09/27/93 | 09/09/94, 59 FR 46562
211.6530 | Surface Condenser | 09/27/93 | 09/09/94, 59 FR 46562
211.6535 | Surface Preparation | 06/25/10 | 03/23/12, 77 FR 16940
211.6540 | Surface Preparation Materials | 05/09/95 | 07/25/96, 61 FR 38577
211.6550 | Synthetic Organic Chemical or Polymer Manufacturing Plant | 09/27/93 | 09/09/94, 59 FR 46562
211.6570 | Tablet Coating Operation | 09/27/93 | 09/09/94, 59 FR 46562
211.6580 | Texture Coat | 05/09/95 | 10/26/95, 60 FR 54807
211.6585 | Thin Metal Laminating Adhesive | 09/14/10 | 03/23/12, 77 FR 16940
211.6587 | Thin Particleboard | 07/27/11 | 03/23/12, 77 FR 16940
211.6590 | Thirty Day Rolling Average | 09/27/93 | 09/09/94, 59 FR 46562
211.6610 | Three Piece Can | 09/27/93 | 09/09/94, 59 FR 46562
211.6620 | Three or Four Stage Coating System | 05/09/95 | 07/25/96, 61 FR 38577
211.6630 | Through-the-Valve Fill | 01/18/94 | 10/21/96, 61 FR 54556
211.6635 | Tileboard | 07/27/11 | 03/23/12, 77 FR 16940
211.6640 | Tire Repair | 09/14/10 | 03/23/12, 77 FR 16940
211.6650 | Tooling Resin | 01/18/94 | 10/21/96, 61 FR 54556
211.6670 | Topcoat | 09/14/10 | 03/23/12, 77 FR 16940
211.6690 | Topcoat Operation | 09/14/10 | 03/23/12, 77 FR 16940
211.6695 | Topcoat System | 05/09/95 | 07/25/96, 61 FR 38577
211.6710 | Touch-Up | 01/18/94 | 10/21/96, 61 FR 54556
211.6720 | Touch-Up Coating | 09/14/10 | 03/23/12, 77 FR 16940
211.6730 | Transfer Efficiency | 09/27/93 | 09/09/94, 59 FR 46562
211.6740 | Translucent Coating | 09/14/10 | 03/23/12, 77 FR 16940
211.6750 | Tread End Cementing | 09/27/93 | 09/09/94, 59 FR 46562
211.6770 | True Vapor Pressure | 09/27/93 | 09/09/94, 59 FR 46562
211.6780 | Trunk Interior Coating | 09/14/10 | 03/23/12, 77 FR 16940
211.6790 | Turnaround | 09/27/93 | 09/09/94, 59 FR 46562
211.6810 | Two Piece Can | 09/27/93 | 09/09/94, 59 FR 46562
211.6825 | Underbody Coating | 09/14/10 | 03/23/12, 77 FR 16940
211.6830 | Under-the-Cup Fill | 01/18/94 | 10/21/96, 61 FR 54556
211.6850 | Undertread Cementing | 09/27/93 | 09/09/94, 59 FR 46562
211.6860 | Uniform Finish Blender | 05/09/95 | 07/25/96, 61 FR 38577
211.6870 | Unregulated Safety Relief Valve | 09/27/93 | 09/09/94, 59 FR 46562
211.6880 | Vacuum Metallizing | 05/09/95 | 10/26/95, 60 FR 54807
211.6885 | Vacuum Metalizing Coating | 09/14/10 | 03/23/12, 77 FR 16940
211.6890 | Vacuum Producing System | 09/27/93 | 09/09/94, 59 FR 46562
211.6910 | Vacuum Service | 09/27/93 | 09/09/94, 59 FR 46562
211.6930 | Valves Not Externally Regulated | 09/27/93 | 09/09/94, 59 FR 46562
211.6950 | Vapor Balance System | 09/27/93 | 09/09/94, 59 FR 46562
211.6970 | Vapor Collection System | 10/25/94 | 04/03/95, 60 FR 16801
211.6990 | Vapor Control System | 10/25/94 | 04/03/95, 60 FR 16801
211.7010 | Vapor Mounted Primary Seal | 09/27/93 | 09/09/94, 59 FR 46562
211.7030 | Vapor Recovery System | 09/27/93 | 09/09/94, 59 FR 46562
211.7050 | Vapor-Suppressed Polyester Resin | 01/18/94 | 10/21/96, 61 FR 54556
211.7070 | Vinyl Coating | 09/27/93 | 09/09/94, 59 FR 46562
211.7090 | Vinyl Coating Line | 09/27/93 | 09/09/94, 59 FR 46562
211.7110 | Volatile Organic Liquid (VOL) | 09/27/93 | 09/09/94, 59 FR 46562
211.7130 | Volatile Organic Material Content (VOMC) | 09/27/93 | 09/09/94, 59 FR 46562
211.7150 | Volatile Organic Material (VOM) or Volatile Organic Compound (VOC) | 03/24/15 | 12/28/16, 81 FR 95475
211.7170 | Volatile Petroleum Liquid | 09/27/93 | 09/09/94, 59 FR 46562
211.7190 | Wash Coat | 09/27/93 | 09/09/94, 59 FR 46562
211.7200 | Washoff Operations | 02/02/98 | 05/19/98, 63 FR 27489
211.7210 | Wastewater (Oil/Water) Separator | 09/27/93 | 09/09/94, 59 FR 46562
211.7220 | Waterproof Resorcinol Glue | 09/14/10 | 03/23/12, 77 FR 16940
211.7230 | Weak Nitric Acid Manufacturing Process | 09/27/93 | 09/09/94, 59 FR 46562
211.7240 | Weatherstrip Adhesive | 09/14/10 | 03/23/12, 77 FR 16940
211.7250 | Web | 09/27/93 | 09/09/94, 59 FR 46562
211.7270 | Wholesale Purchase Consumer | 09/27/93 | 09/09/94, 59 FR 46562
211.7290 | Wood Furniture | 06/25/10 | 03/23/12, 77 FR 16940
211.7310 | Wood Furniture Coating | 09/27/93 | 09/09/94, 59 FR 46562
211.7330 | Wood Furniture Coating Line | 09/27/93 | 09/09/94, 59 FR 46562
211.7350 | Woodworking | 09/27/93 | 09/09/94, 59 FR 46562
Part 212: Visible and Particulate Matter Emissions
Subpart A: General
212.107 | Measurement Method for Visible Emissions | 05/22/96 | 03/11/98, 63 FR 11842
212.108 | Measurement Methods for PM-10 Emissions and Condensible PM-10 Emissions | 05/22/96 | 03/11/98, 63 FR 11842
212.109 | Measurement Methods for Opacity | 05/22/96 | 03/11/98, 63 FR 11842
212.110 | Measurement Methods for Particulate Matter | 05/22/96 | 03/11/98, 63 FR 11842
212.111 | Abbreviations and Units | 10/04/91 | 10/21/93, 58 FR 54291
212.113 | Incorporations by Reference | 05/22/96 | 07/14/99, 64 FR 37847
Subpart B: Visible Emissions
212.121 | Opacity Standards | 07/13/88 | 12/29/92, 57 FR 61834
212.122 | Visible Emissions Limitations for Certain Emission Units for Which Construction or Modification Commenced on or After April 14, 1972 | 07/13/88 | 12/29/92, 57 FR 61834
212.123 | Visible Emissions Limitations for All Other Emission Units | 07/13/88 | 12/29/92, 57 FR 61834
212.124 | Exceptions | 07/13/88 | 12/29/92, 57 FR 61834
212.125 | Determination of Violations | 07/13/88 | 12/29/92, 57 FR 61834
212.126 | Adjusted Opacity Standards Procedures | 07/13/88 | 12/29/92, 57 FR 61834
Subpart D: Particulate Matter Emissions From Incinerators
212.181 | Limitations for Incinerators | 06/04/80 | 11/27/81, 46 FR 57893
212.182 | Aqueous Waste Incinerators | 06/04/80 | 11/27/81, 46 FR 57893
212.183 | Certain Wood Waste Incinerators | 06/04/80 | 11/27/81, 46 FR 57893
212.184 | Explosive Waste Incinerators | 06/04/80 | 11/27/81, 46 FR 57893
212.185 | Continuous Automatic Stoking Animal Pathological Waste Incinerators | 12/30/86 | 09/15/93, 58 FR 48312
Subpart E: Particulate Matter Emissions From Fuel Combustion Emission Units
212.201 | Emission Units for Which Construction or Modification Commenced Prior to April 14, 1972, Using Solid Fuel Exclusively Located in the Chicago Area | 07/09/86 | 12/29/92, 57 FR 61834
212.202 | Emission Units for Which Construction or Modification Commenced Prior to April 14, 1972, Using Solid Fuel Exclusively Located Outside the Chicago Area | 07/09/86 | 12/29/92, 57 FR 61834
212.203 | Controlled Emission Units for Which Construction or Modification Commenced Prior to April 14, 1972, Using Solid Fuel Exclusively | 07/09/86 | 12/29/92, 57 FR 61834
212.204 | Emission Units for Which Construction or Modification Commenced on or After April 14, 1972, Using Solid Fuel Exclusively | 07/09/86 | 12/29/92, 57 FR 61834
212.205 | Coal-Fired Industrial Boilers for Which Construction or Modification Commenced Prior to April 14, 1972, Equipped With Flue Gas Desulfurization Systems | 10/19/81 | 02/22/84, 49 FR 6490
212.206 | Emission Units Using Liquid Fuel Exclusively | 04/14/72 | 05/31/72, 37 FR 10842
212.207 | Emission Units Using More Than One Type of Fuel | 04/14/72 | 05/31/72, 37 FR 10842
212.208 | Aggregation of Emission Units for Which Construction or Modification Commenced Prior to April 14, 1972 | 04/14/72 | 05/31/72, 37 FR 10842
212.210 | Emissions Limitations for Certain Fuel Combustion Emission Units Located in the Vicinity of Granite City | 05/22/96 | 07/14/99, 64 FR 37847
Subpart K: Fugitive Particulate Matter
212.301 | Fugitive Particulate Matter | 10/26/79 | 02/21/80, 45 FR 11472
212.302 | Geographical Areas of Application | 05/22/96 | 07/14/99, 64 FR 37847
212.304 | Storage Piles | 10/26/79 | 04/26/82, 47 FR 17814
212.305 | Conveyor Loading Operations | 10/26/79 | 04/26/82, 47 FR 17814
212.306 | Traffic Areas | 10/26/79 | 02/21/80, 45 FR 11472
212.307 | Materials Collected by Pollution Control Equipment | 10/26/79 | 02/21/80, 45 FR 11472
212.308 | Spraying or Choke-Feeding Required | 10/26/79 | 02/21/80, 45 FR 11472
212.309 | Operating Program | 05/22/96 | 07/14/99, 64 FR 37847
212.310 | Minimum Operating Program | 10/26/79 | 02/21/80, 45 FR 11472
212.312 | Amendment to Operating Program | 10/26/79 | 02/21/80, 45 FR 11472
212.313 | Emission Standard for Particulate Collection Equipment | 10/26/79 | 02/21/80, 45 FR 11472
212.314 | Exception for Excess Wind Speed | 10/26/79 | 02/21/80, 45 FR 11472
212.315 | Covering for Vehicles | 10/26/79 | 02/21/80, 45 FR 11472
212.316 | Emissions Limitations for Emission Units in Certain Areas | 05/22/96 | 07/14/99, 64 FR 37847
Subpart L: Particulate Matter Emissions From Process Emission Units
212.321 | Process Emission Units for Which Construction or Modification Commenced on or After April 14, 1972 | 09/28/79 | 02/21/80, 45 FR 11472
212.322 | Process Emission Units for Which Construction or Modification Commenced Prior to April 14, 1972 | 09/28/79 | 02/21/80, 45 FR 11472
212.323 | Stock Piles | 09/28/79 | 02/21/80, 45 FR 11472
212.324 | Process Emission Units in Certain Areas | 05/22/96 | 03/11/98, 63 FR 11842
Subpart N: Food Manufacturing
212.361 | Corn Wet Milling Processes | 09/28/79 | 02/21/80, 45 FR 11472
212.362 | Emission Units in Certain Areas | 05/22/96 | 03/11/98, 63 FR 11842
Subpart O: Petroleum Refining, Petrochemical and Chemical Manufacturing
212.381 | Catalyst Regenerators of Fluidized Catalytic Converters | 09/28/79 | 02/21/80, 45 FR 11472
Subpart Q: Stone, Clay, Glass and Concrete Manufacturing
212.421 | Portland Cement Processes for Which Construction or Modification Commenced on or After April 14, 1972 | 04/14/72 | 05/31/72, 37 FR 10842
212.422 | Portland Cement Manufacturing Processes | 09/28/79 | 02/21/80, 45 FR 11472
212.423 | Emission Limits for the Portland Cement Manufacturing Plant Located in LaSalle County, South of the Illinois River | 10/04/91 | 10/21/93, 58 FR 54291
212.424 | Fugitive Particulate Matter Control for the Portland Cement Manufacturing Plant and Associated Quarry Operations Located in LaSalle County, South of the Illinois River | 05/15/92 | 01/12/93, 58 FR 3844
212.425 | Emission Units in Certain Areas | 05/22/96 | 03/11/98, 63 FR 11842
Subpart R: Primary and Fabricated Metal Products and Machinery Manufacture
212.441 | Steel Manufacturing Processes | 09/28/79 | 02/21/80, 45 FR 11472
212.442 | Beehive Coke Ovens | 09/28/79 | 02/21/80, 45 FR 11472
212.443 | Coke Plants | 05/15/92 | 01/12/93, 58 FR 3844
212.444 | Sinter Processes | 09/28/79 | 09/03/81, 46 FR 44172
212.445 | Blast Furnace Cast Houses | 05/15/92 | 01/12/93, 58 FR 3844
212.446 | Basic Oxygen Furnaces | 05/22/96 | 03/11/98, 63 FR 11842
212.447 | Hot Metal Desulfurization Not Located in the BOF | 09/28/79 | 09/03/81, 46 FR 44172
212.448 | Electric Arc Furnaces | 09/28/79 | 09/03/81, 46 FR 44172
212.449 | Argon-Oxygen Decarburization Vessels | 09/28/79 | 09/03/81, 46 FR 44172
212.450 | Liquid Steel Charging | 09/28/79 | 09/03/81, 46 FR 44172
212.451 | Hot Scarfing Machines | 09/28/79 | 09/03/81, 46 FR 44172
212.455 | Highlines on Steel Mills | 10/26/79 | 02/21/80, 45 FR 11472
212.456 | Certain Small Foundries | 09/28/79 | 02/21/80, 45 FR 11472
212.457 | Certain Small Iron-Melting Air Furnaces | 09/28/79 | 07/12/82, 47 FR 30057
212.458 | Emission Units in Certain Areas | 05/22/96 | 03/11/98, 63 FR 11842
Subpart S: Agriculture
212.461 | Grain-Handling and Drying in General | 09/28/79 | 02/21/80, 45 FR 11472
212.462 | Grain-Handling Operations | 09/28/79 | 02/21/80, 45 FR 11472
212.463 | Grain Drying Operations | 09/28/79 | 02/21/80, 45 FR 11472
212.464 | Sources in Certain Areas | 05/22/96 | 03/11/98, 63 FR 11842
Subpart T: Construction and Wood Products
212.681 | Grinding, Woodworking, Sandblasting and Shotblasting | 04/14/72 | 05/31/72, 37 FR 10842
Subpart U: Additional Control Measures
212.700 | Applicability | 07/11/94 | 07/13/95, 60 FR 36060
212.701 | Contingency Measure Plans, Submittal and Compliance Date | 07/11/94 | 07/13/95, 60 FR 36060
212.702 | Determination of Contributing Sources | 07/11/94 | 07/13/95, 60 FR 36060
212.703 | Contingency Measure Plan Elements | 07/11/94 | 07/13/95, 60 FR 36060
212.704 | Implementation | 07/11/94 | 07/13/95, 60 FR 36060
212.705 | Alternative Implementation | 07/11/94 | 07/13/95, 60 FR 36060
212.Appendix C: | Past Compliance Dates | 04/14/72 | 05/31/72, 37 FR 10842 | Approved as Rules 202(e), 203(c), 203(d)(3)(A) & (B), 203(d)(5)(L) & (M), 203(d)(8)(J), 203(f)(3) Preamble, 203(f)(3)(F) Preamble, and 203(i).
Part 214: Sulfur Limitations
Subpart A: General Provisions
214.101 | Measurement Methods | 01/15/91 | 06/26/92, 57 FR 28617
214.102 | Abbreviations and Units | 12/05/88 | 01/28/94, 59 FR 4001
214.104 | Incorporations by Reference | 01/15/91 | 01/28/94, 59 FR 4001
Subpart B: New Fuel Combustion Emission Sources
214.121 | Large Sources | 04/14/72 | 05/31/72, 37 FR 10842 | Approved as Rule 204(a).
214.122 | Small Sources | 04/14/72 | 05/31/72, 37 FR 10842 | Approved as Rule 204(b).
Subpart C: Existing Solid Fuel Combustion Emission Sources
214.141 | Sources Located in Metropolitan Areas | 03/28/83 | 09/03/92, 57 FR 40333 | thru (a).
214.141 | Sources Located in Metropolitan Areas | 05/20/86 | 09/02/92, 57 FR 40126 | (b), (c), and (d).
214.142 | Small Sources Located Outside Metropolitan Areas | 04/14/72 | 05/31/72, 37 FR 10842 | Approved as Rule 204(c)(1)(B).
214.143 | Large Sources Located Outside Metropolitan Areas | 02/03/79 | 02/21/80, 45 FR 11472
Subpart D: Existing Liquid or Mixed Fuel Combustion Emission Sources
214.161 | Liquid Fuel Burned Exclusively | 04/14/72 | 05/31/72, 37 FR 10842 | Approved as Rule 204(c)(2).
214.162 | Combination of Fuels | 04/14/72 | 05/31/72, 37 FR 10842 | Approved as Rule 204(d).
Subpart E: Aggregation of Sources Outside Metropolitan Areas
214.181 | Dispersion Enhancement Techniques | 02/03/79 | 02/21/80, 45 FR 11472
214.182 | Prohibition | 02/03/79 | 02/21/80, 45 FR 11472 | Approved as Rule 204(e) (intro).
214.183 | General Formula | 02/03/79 | 02/21/80, 45 FR 11472 | Approved as Rule 204(e)(1).
214.184 | Special Formula | 02/03/79 | 02/21/80, 45 FR 11472 | Approved as Rule 204(e)(2).
214.185 | Alternative Emission Rate | 02/03/79 | 02/21/80, 45 FR 11472 | Approved as Rule 204(e)(3).
214.186 | New Operating Permits | 02/03/79 | 02/21/80, 45 FR 11472 | Approved as Rule 204(e)(4).
Subpart F: Alternative Standards for Sources Inside Metropolitan Areas
214.201 | Alternative Standards for Sources in Metropolitan Areas | 03/28/83 | 09/03/92, 57 FR 40333
214.202 | Dispersion Enhancement Techniques | 03/28/83 | 09/03/92, 57 FR 40333
Subpart K: Process Emission Sources
214.301 | General Limitation | 02/03/79 | 02/21/80, 45 FR 11472 | Approved as Rule 204(f)(1)(A).
214.302 | Exception for Air Pollution Control Equipment | 04/14/72 | 05/31/72, 37 FR 10842 | Approved as Rule 204(f)(1)(C).
214.303 | Use of Sulfuric Acid | 02/03/79 | 02/21/80, 45 FR 11472 | Approved as Rule 204(f)(2)(B).
Subpart O: Petroleum Refining, Petrochemical and Chemical Manufacturing
214.381 | Sulfuric Acid Manufacturing | 02/03/79 | 02/21/80, 45 FR 11472 | Only (a) and (b). Approved as Rule 204(f)(1)(B) and (f)(2)(A).
214.382 | Petroleum and Petrochemical Processes | 12/05/88 | 01/28/94, 59 FR 4001
214.383 | Chemical Manufacturing | 02/03/79 | 02/21/80, 45 FR 11472 | Approved as Rule 204(f)(1)(E).
Subpart X: Utilities
214.560 | Scope | 05/20/86 | 09/02/92, 57 FR 40126
214.561 | E. D. Edwards Electric Generating Station | 07/11/03 | 11/10/08, 73 FR 66555
214.Appendix C: | Compliance Dates | 04/14/72 | 05/31/72, 37 FR 10842 | Approved as Rule 204(e)(1).
Part 215: Organic Material Emission Standards and Limitations
Subpart A: General Provisions
215.101 | Clean-Up and Disposal Operations | 07/28/79 | 02/21/80, 45 FR 11472
215.102 | Testing Methods | 05/14/91 | 08/18/92, 57 FR 37100
215.104 | Definitions | 01/28/13 | 10/06/14, 79 FR 60070
215.105 | Incorporation by Reference | 01/28/13 | 10/06/14, 79 FR 60070
215.108 | Measurement of Vapor Pressures | 05/14/91 | 08/18/92, 57 FR 37100
215.109 | Monitoring for Negligibly-Reactive Compounds | 06/19/98 | 01/15/99, 64 FR 2581
Subpart B: Organic Emissions From Storage and Loading Operations
215.121 | Storage Containers | 07/28/79 | 02/21/80, 45 FR 11472
215.122 | Loading Operations | 07/28/79 | 02/21/80, 45 FR 11472
215.123 | Petroleum Liquid Storage Tanks | 07/28/79 | 02/21/80, 45 FR 11472
215.124 | External Floating Roofs | 01/21/83 | 06/29/90, 55 FR 26814
215.125 | Compliance Dates and Geographical Areas | 01/21/83 | 06/29/90, 55 FR 26814
215.126 | Compliance Plan | 01/21/83 | 06/29/90, 55 FR 26814
Subpart C: Organic Emissions From Miscellaneous Equipment
215.141 | Separation Operations | 07/28/79 | 02/21/80, 45 FR 11472
215.142 | Pumps and Compressors | 07/28/79 | 02/21/80, 45 FR 11472
215.143 | Vapor Blowdown | 07/28/79 | 02/21/80, 45 FR 11472
215.144 | Safety Relief Valves | 07/28/79 | 02/21/80, 45 FR 11472
Subpart E: Solvent Cleaning
215.181 | Solvent Cleaning in General | 07/28/79 | 02/21/80, 45 FR 11472
215.182 | Cold Cleaning | 07/28/79 | 02/21/80, 45 FR 11472
215.183 | Open Top Vapor Degreasing | 07/28/79 | 02/21/80, 45 FR 11472
215.184 | Conveyorized Degreasing | 07/28/79 | 02/21/80, 45 FR 11472
Subpart F: Coating Operations
215.202 | Compliance Schedules | 07/28/79 | 02/21/80, 45 FR 11472
215.204 | Emission Limitations for Manufacturing Plants | 06/19/98 | 01/15/99, 64 FR 2581
215.205 | Alternative Emission Limitations | 06/19/98 | 01/15/99, 64 FR 2581
215.206 | Exemptions From Emission Limitations | 06/19/98 | 01/15/99, 64 FR 2581
215.207 | Compliance by Aggregation of Emission Units | 06/19/98 | 01/15/99, 64 FR 2581
215.208 | Testing Methods for Volatile Organic Material Content | 07/28/79 | 02/21/80, 45 FR 11472
215.209 | Exemption From General Rule on Use of Organic Material | 07/28/79 | 02/21/80, 45 FR 11472
215.211 | Compliance Dates and Geographical Areas | 06/19/98 | 01/15/99, 64 FR 2581
215.212 | Compliance Plan | 06/19/98 | 01/15/99, 64 FR 2581
215.213 | Special Requirements for Compliance Plan | 07/28/79 | 02/21/80, 45 FR 11472
215.215 | DMI Emissions Limitations | 07/28/79 | 02/21/80, 45 FR 11472
Subpart H: Special Limitations for Sources in Major Urbanized Areas Which Are Nonattainment for Ozone
215.240 | Applicability | 06/29/87 | 06/29/90, 55 FR 26814
215.241 | External Floating Roofs | 06/29/87 | 06/29/90, 55 FR 26814
215.249 | Compliance Dates | 06/29/87 | 06/29/90, 55 FR 26814
Subpart K: Use of Organic Material
215.301 | Use of Organic Material | 07/28/79 | 02/21/80, 45 FR 11472
215.302 | Alternative Standard | 07/28/79 | 02/21/80, 45 FR 11472
215.303 | Fuel Combustion Emission Sources | 07/28/79 | 02/21/80, 45 FR 11472
215.304 | Operations With Compliance Program | 07/28/79 | 02/21/80, 45 FR 11472
Subpart P: Printing and Publishing
215.408 | Heatset Web Offset Lithographic Printing | 09/30/87 | 06/29/90, 55 FR 26814
Subpart Q: Leaks From Synthetic Organic Chemical and Polymer Manufacturing Equipment
215.420 | Applicability | 12/14/87 | 06/29/90, 55 FR 26814
215.421 | General Requirements | 12/14/87 | 06/29/90, 55 FR 26814
215.422 | Inspection Program Plan for Leaks | 08/28/85 | 06/29/90, 55 FR 26814
215.423 | Inspection Program for Leaks | 08/28/85 | 06/29/90, 55 FR 26814
215.424 | Repairing Leaks | 08/28/85 | 06/29/90, 55 FR 26814
215.425 | Recordkeeping for Leaks | 08/28/85 | 06/29/90, 55 FR 26814
215.426 | Reporting for Leaks | 08/28/85 | 06/29/90, 55 FR 26814
215.427 | Alternative Program for Leaks | 08/28/85 | 06/29/90, 55 FR 26814
215.428 | Compliance Dates | 12/14/87 | 06/29/90, 55 FR 26814
215.429 | Compliance Plan | 12/14/87 | 06/29/90, 55 FR 26814
215.430 | General Requirements | 12/14/87 | 06/29/90, 55 FR 26814
215.431 | Inspection Program Plan for Leaks | 12/14/87 | 06/29/90, 55 FR 26814
215.433 | Repairing Leaks | 12/14/87 | 06/29/90, 55 FR 26814
215.434 | Recordkeeping for Leaks | 12/14/87 | 06/29/90, 55 FR 26814
215.435 | Report for Leaks | 12/14/87 | 06/29/90, 55 FR 26814
215.437 | Open-Ended Valves | 12/14/87 | 06/29/90, 55 FR 26814
215.438 | Compliance Plan | 12/14/87 | 06/29/90, 55 FR 26814
Subpart R: Petroleum Refining and Related Industries; Asphalt Materials
215.441 | Petroleum Refinery Waste Gas Disposal | 07/28/79 | 02/21/80, 45 FR 11472
215.442 | Vacuum Producing Systems | 07/28/79 | 02/21/80, 45 FR 11472
215.443 | Wastewater (Oil/Water) Separator | 07/28/79 | 02/21/80, 45 FR 11472
215.444 | Process Unit Turnarounds | 07/28/79 | 02/21/80, 45 FR 11472
215.445 | Leaks: General Requirements | 01/21/83 | 11/27/87, 52 FR 45333
215.446 | Monitoring Program Plan for Leaks | 01/21/83 | 11/27/87, 52 FR 45333
215.447 | Monitoring Program for Leaks | 01/21/83 | 11/27/87, 52 FR 45333
215.448 | Recordkeeping for Leaks | 01/21/83 | 11/27/87, 52 FR 45333
215.449 | Reporting for Leaks | 01/21/83 | 11/27/87, 52 FR 45333
215.450 | Alternative Program for Leaks | 01/21/83 | 11/27/87, 52 FR 45333
215.451 | Sealing Device Requirements | 01/21/83 | 11/27/87, 52 FR 45333
215.453 | Compliance Dates and Geographical Areas | 01/21/83 | 06/29/90, 55 FR 26814
Subpart S: Rubber and Miscellaneous Plastic Products
215.461 | Manufacture of Pneumatic Rubber Tires | 01/21/83 | 11/27/87, 52 FR 45333
215.462 | Green Tire Spraying Operations | 01/21/83 | 11/27/87, 52 FR 45333
215.463 | Alternative Emission Reduction Systems | 01/21/83 | 11/27/87, 52 FR 45333
215.464 | Emissions Testing | 01/21/83 | 11/27/87, 52 FR 45333
215.465 | Compliance Dates and Geographical Areas | 01/21/83 | 06/29/90, 55 FR 26814
215.466 | Compliance Plan | 01/21/83 | 06/29/90, 55 FR 26814
Subpart T: Pharmaceutical Manufacturing
215.480 | Applicability of Subpart T | 05/14/91 | 08/18/92, 57 FR 37100
215.481 | Control of Reactors, Distillation Units, Crystallizers, Centrifuges and Vacuum Dryers | 05/14/91 | 08/18/92, 57 FR 37100
215.482 | Control of Air Dryers, Production Equipment Exhaust Systems and Filters | 05/14/91 | 08/18/92, 57 FR 37100
215.483 | Material Storage and Transfer | 05/14/91 | 08/18/92, 57 FR 37100
215.484 | In-Process Tanks | 05/14/91 | 08/18/92, 57 FR 37100
215.485 | Leaks | 05/14/91 | 08/18/92, 57 FR 37100
215.486 | Other Emission Sources | 05/14/91 | 08/18/92, 57 FR 37100
215.487 | Testing | 05/14/91 | 08/18/92, 57 FR 37100
215.488 | Monitors for Air Pollution Control Equipment | 05/14/91 | 08/18/92, 57 FR 37100
215.489 | Recordkeeping (Renumbered) | 05/14/91 | 08/18/92, 57 FR 37100
215.490 | Compliance Schedule (Renumbered) | 05/14/91 | 08/18/92, 57 FR 37100
Subpart V: Air Oxidation Processes
215.520 | Applicability | 12/14/87 | 06/29/90, 55 FR 26814
215.521 | Definitions | 12/14/87 | 06/29/90, 55 FR 26814
215.525 | Emission Limitations for Air Oxidation Processes | 12/14/87 | 06/29/90, 55 FR 26814
215.526 | Testing and Monitoring | 12/14/87 | 06/29/90, 55 FR 26814
215.527 | Compliance Date | 12/14/87 | 06/29/90, 55 FR 26814
Subpart W: Agriculture
215.541 | Pesticide Exception | 07/28/79 | 02/21/80, 45 FR 11472
Subpart X: Construction
215.561 | Architectural Coatings | 07/28/79 | 02/21/80, 45 FR 11472
215.562 | Paving Operations | 07/28/79 | 02/21/80, 45 FR 11472
215.563 | Cutback Asphalt | 07/28/79 | 02/21/80, 45 FR 11472
Subpart Y: Gasoline Distribution
215.581 | Bulk Gasoline Plants | 07/28/79 | 02/21/80, 45 FR 11472
215.582 | Bulk Gasoline Terminals | 06/29/87 | 06/29/90, 55 FR 26814
215.583 | Gasoline Dispensing Facilities—Storage Tank Filling Operations | 06/29/87 | 06/29/90, 55 FR 26814
215.584 | Gasoline Delivery Vessels | 06/29/87 | 06/29/90, 55 FR 26814
Subpart Z: Dry Cleaners
215.607 | Standards for Petroleum Solvent Dry Cleaners | 04/03/87 | 06/29/90, 55 FR 26814
215.608 | Operating Practices for Petroleum Solvent Dry Cleaners | 04/03/87 | 06/29/90, 55 FR 26814
215.609 | Program for Inspection and Repair of Leaks | 04/03/87 | 06/29/90, 55 FR 26814
215.610 | Testing and Monitoring | 04/03/87 | 06/29/90, 55 FR 26814
215.611 | Exemption for Petroleum Solvent Dry Cleaners | 04/03/87 | 06/29/90, 55 FR 26814
215.612 | Compliance Dates and Geographical Areas | 04/03/87 | 06/29/90, 55 FR 26814
215.613 | Compliance Plan | 04/03/87 | 06/29/90, 55 FR 26814
Subpart BB: Polystyrene Plants
215.875 | Applicability of Subpart BB | 09/30/87 | 06/29/90, 55 FR 26814
215.877 | Emissions Limitation at Polystyrene Plants | 09/30/87 | 06/29/90, 55 FR 26814
215.879 | Compliance Date | 09/30/87 | 06/29/90, 55 FR 26814
215.881 | Compliance Plan | 09/30/87 | 06/29/90, 55 FR 26814
215.883 | Special Requirements for Compliance Plan | 09/30/87 | 06/29/90, 55 FR 26814
215.886 | Emissions Testing | 09/30/87 | 06/29/90, 55 FR 26814
215.Appendix C: | Past Compliance Dates | 07/28/79 | 02/21/80, 45 FR 11472 | Approved as Rules 104(a), 104(g), 104(h), 205(j), and 205(m).
Part 216: Carbon Monoxide Emissions
Subpart A: General Provisions
216.101 | Measurement Methods | 07/28/79 | 02/21/80, 45 FR 11472 | Approved as Rule 206(f).
Subpart B: Fuel Combustion Emission Sources
216.121 | Fuel Combustion Emission Sources | 07/28/79 | 02/21/80, 45 FR 11472 | Approved as Rule 206(a).
Subpart C: Incinerators
216.141 | Incinerators | 07/28/79 | 02/21/80, 45 FR 11472 | Approved as Rule 206(b).
216.142 | Exceptions | 07/28/79 | 02/21/80, 45 FR 11472 | Approved as Rule 206(b)(1,2).
Subpart N: Petroleum Refining and Chemical Manufacture
216.361 | Petroleum and Petrochemical Processes | 07/28/79 | 02/21/80, 45 FR 11472 | Approved as Rule 206(c).
216.362 | Polybasic Organic Acid Partial Oxidation Manufacturing Processes | 07/28/79 | 02/21/80, 45 FR 11472 | Approved as Rule 206(h).
Subpart O: Primary and Fabricated Metal Products
216.381 | Cupolas | 07/28/79 | 02/21/80, 45 FR 11472 | Approved as Rule 206(e).
216.382 | Exception, General Motor's Ferrous Foundry in Vermilion County | 11/13/92 | 08/04/94, 59 FR 39686 |
216.Appendix C: | Compliance Dates | 07/28/79 | 02/21/80, 45 FR 11472 | Approved as Rule 206(g).
Part 217: Nitrogen Oxides Emissions
Subpart A: General Provisions
217.101 | Measurement Methods | 09/25/07 | 06/26/09, 74 FR 30466
217.102 | Abbreviations and Units | 09/25/07 | 06/26/09, 74 FR 30466
217.104 | Incorporations by Reference | 09/25/07 | 06/26/09, 74 FR 30466
Subpart B: New Fuel Combustion Emission Sources
217.121 | New Emission Sources | 04/14/72 | 05/31/72, 37 FR 10862 | Approved as Rule 207(a)(1)-(4), 207(a)(5)(A).
Subpart C: Existing Fuel Combustion Emission Sources
217.141 | Existing Emission Sources in Major Metropolitan Areas | 04/14/72 | 05/31/72, 37 FR 10862 | Approved as Rule 207(b) and (c).
Subpart K: Process Emission Sources
217.301 | Industrial Processes | 04/14/72 | 05/31/72, 37 FR 10862 | Approved as Rule 207(e).
Subpart O: Chemical Manufacture
217.381 | Nitric Acid Manufacturing Processes | 04/14/72 | 05/31/72, 37 FR 10862 | Approved as Rule 207(d).
Subpart Q: Stationary Reciprocating Internal Combustion Engines and Turbines
217.386 | Applicability | 09/25/07 | 06/26/09, 74 FR 30466
217.388 | Control and Maintenance Requirements | 09/25/07 | 06/26/09, 74 FR 30466
217.390 | Emissions Averaging Plans | 09/25/07 | 06/26/09, 74 FR 30466
217.392 | Compliance | 09/25/07 | 06/26/09, 74 FR 30466
217.394 | Testing and Monitoring | 09/25/07 | 06/26/09, 74 FR 30466
217.396 | Recordkeeping and Reporting | 09/25/07 | 06/26/09, 74 FR 30466
Subpart T: Cement Kilns
217.400 | Applicability | 03/15/01 | 11/08/01, 66 FR 56449
217.402 | Control Requirements | 03/15/01 | 11/08/01, 66 FR 56449
217.404 | Testing | 03/15/01 | 11/08/01, 66 FR 56449
217.406 | Monitoring | 03/15/01 | 11/08/01, 66 FR 56449
217.408 | Reporting | 03/15/01 | 11/08/01, 66 FR 56449
217.410 | Recordkeeping | 03/15/01 | 11/08/01, 66 FR 56449
Subpart U: NOX Control and Trading Program for Specified NOX Generating Units
217.450 | Purpose | 04/17/01 | 11/08/01, 66 FR 56449
217.452 | Severability | 04/17/01 | 11/08/01, 66 FR 56449
217.454 | Applicability | 04/17/01 | 11/08/01, 66 FR 56449
217.456 | Compliance Requirements | 04/17/01 | 11/08/01, 66 FR 56449
217.458 | Permitting Requirements | 04/17/01 | 11/08/01, 66 FR 56449
217.460 | Subpart U NOX Trading Budget | 04/17/01 | 11/08/01, 66 FR 56449
217.462 | Methodology for Obtaining NOX Allocations | 04/17/01 | 11/08/01, 66 FR 56449
217.464 | Methodology for Determining NOX Allowances From the New Source Set-Aside | 04/17/01 | 11/08/01, 66 FR 56449
217.466 | NOX Allocations Procedure for Subpart U Budget Units | 04/17/01 | 11/08/01, 66 FR 56449
217.468 | New Source Set-Asides for “New” Budget Units | 04/17/01 | 11/08/01, 66 FR 56449
217.470 | Early Reduction Credits (ERCS) for Budget Units | 04/17/01 | 11/08/01, 66 FR 56449
217.472 | Low-Emitter Requirements | 04/17/01 | 11/08/01, 66 FR 56449
217.474 | Opt-In Units | 04/17/01 | 11/08/01, 66 FR 56449
217.476 | Opt-In Process | 04/17/01 | 11/08/01, 66 FR 56449
217.478 | Opt-In Budget Units: Withdrawal From NOX Trading Program | 04/17/01 | 11/08/01, 66 FR 56449
217.480 | Opt-In Units: Change in Regulatory Status | 04/17/01 | 11/08/01, 66 FR 56449
217.482 | Allowance Allocations To Opt-In Budget Units | 04/17/01 | 11/08/01, 66 FR 56449
Subpart V: Electric Power Generation
217.521 | Lake of Egypt Power Plant | 04/13/78 | 06/18/01, 66 FR 32769
217.700 | Purpose | 04/17/01 | 06/18/01, 66 FR 32769
217.702 | Severability | 04/17/01 | 06/18/01, 66 FR 32769
217.704 | Applicability | 04/17/01 | 06/18/01, 66 FR 32769
217.706 | Emission Limitations | 04/17/01 | 06/18/01, 66 FR 32769
217.708 | NOX Averaging | 04/17/01 | 06/18/01, 66 FR 32769
217.710 | Monitoring | 04/17/01 | 06/18/01, 66 FR 32769
217.712 | Reporting and Recordkeeping | 04/17/01 | 06/18/01, 66 FR 32769
Subpart W: NOX Trading Program for Electrical Generating Units
217.750 | Purpose | 12/26/00 | 11/08/01, 66 FR 56454
217.751 | Sunset Provisions | 11/02/09 | 03/01/10, 75 FR 9103
217.752 | Severability | 12/26/00 | 11/08/01, 66 FR 56454
217.754 | Applicability | 12/26/00 | 11/08/01, 66 FR 56454
217.756 | Compliance Requirements | 12/26/00 | 11/08/01, 66 FR 56454 | Except (d)(3).
217.758 | Permitting Requirements | 12/26/00 | 11/08/01, 66 FR 56454
217.760 | NOx Trading Budget | 12/26/00 | 11/08/01, 66 FR 56454
217.762 | Methodology for Calculating NOX Allocations for Budget Electrical Generating Units (EGUs) | 12/26/00 | 11/08/01, 66 FR 56454
217.764 | NOX Allocations for Budget EGUs | 12/26/00 | 11/08/01, 66 FR 56454
217.768 | New Source Set-Asides for “New” Budget EGUs | 12/26/00 | 11/08/01, 66 FR 56454
217.770 | Early Reduction Credits for Budget EGUs | 12/26/00 | 11/08/01, 66 FR 56454
217.774 | Opt-In Units | 12/26/00 | 11/08/01, 66 FR 56454
217.776 | Opt-In Process | 12/26/00 | 11/08/01, 66 FR 56454
217.778 | Budget Opt-In Units: Withdrawal From NOX Trading Program | 12/26/00 | 11/08/01, 66 FR 56454
217.780 | Opt-In Units: Change in Regulatory Status | 12/26/00 | 11/08/01, 66 FR 56454
217.782 | Allowance Allocations to Budget Opt-In Units | 12/26/00 | 11/08/01, 66 FR 56454
217.Appendix C: | Compliance Dates | 04/14/72 | 05/31/72, 37 FR 10862
217.Appendix G: | Existing Reciprocating Internal Combustion Engines Affected by the NOX Sip Call | 09/25/07 | 06/26/09, 74 FR 30466
Part 218: Organic Material Emission Standards and Limitations for the Chicago Area
Subpart A: General Provisions
218.100 | Introduction | 09/27/93 | 09/09/94, 59 FR 46562
218.101 | Savings Clause | 10/25/94 | 04/03/95, 60 FR 16801
218.102 | Abbreviations and Conversion Factors | 09/27/93 | 09/09/94, 59 FR 46562
218.103 | Applicability | 09/27/93 | 09/09/94, 59 FR 46562
218.104 | Definitions | 09/27/93 | 09/09/94, 59 FR 46562
218.105 | Test Methods and Procedures | 07/27/11 | 03/23/12, 77 FR 16940
218.106 | Compliance Dates | 09/14/10 | 03/23/12, 77 FR 16940
218.107 | Operation of Afterburners | 09/27/93 | 09/09/94, 59 FR 46562
218.108 | Exemptions, Variations, and Alternative Means of Control or Compliance Determinations | 01/24/94 | 10/21/96, 61 FR 54556
218.109 | Vapor Pressure of Volatile Organic Liquids | 09/27/93 | 09/09/94, 59 FR 46562
218.110 | Vapor Pressure of Organic Material or Solvent | 09/27/93 | 09/09/94, 59 FR 46562
218.111 | Vapor Pressure of Volatile Organic Material | 09/27/93 | 09/09/94, 59 FR 46562
218.112 | Incorporations by Reference | 12/23/13 | 03/13/15, 80 FR 13248
218.114 | Compliance With Permit Conditions | 01/24/94 | 10/21/96, 61 FR 54556
Subpart B: Organic Emissions From Storage and Loading Operations
218.119 | Applicability for VOL | 11/15/94 | 08/08/96, 61 FR 41338
218.120 | Control Requirements for Storage Containers of VOL | 11/15/94 | 08/08/96, 61 FR 41338
218.121 | Storage Containers | 09/27/93 | 09/09/94, 59 FR 46562
218.122 | Loading Operations | 09/27/93 | 09/09/94, 59 FR 46562
218.123 | Petroleum Liquid Storage Tanks | 09/27/93 | 09/09/94, 59 FR 46562
218.124 | External Floating Roofs | 09/27/93 | 09/09/94, 59 FR 46562
218.125 | Compliance Dates | 11/15/94 | 08/08/96, 61 FR 41338
218.127 | Testing VOL Operations | 11/15/94 | 08/08/96, 61 FR 41338
218.128 | Monitoring VOL Operations | 01/28/13 | 10/06/14, 79 FR 60070
218.129 | Recordkeeping and Reporting for VOL Operations | 11/15/94 | 08/08/96, 61 FR 41338
Subpart C: Organic Emissions From Miscellaneous Equipment
218.141 | Separation Operations | 09/27/93 | 09/09/94, 59 FR 46562
218.142 | Pumps and Compressors | 08/16/91 | 09/09/94, 59 FR 46562
218.143 | Vapor Blowdown | 09/27/93 | 09/09/94, 59 FR 46562
218.144 | Safety Relief Valves | 09/27/93 | 09/09/94, 59 FR 46562
Subpart E: Solvent Cleaning
218.181 | Solvent Cleaning Degreasing Operations | 06/25/10 | 03/23/12, 77 FR 16940
218.182 | Cold Cleaning | 06/09/97 | 11/26/97, 62 FR 62951
218.183 | Open Top Vapor Degreasing | 09/27/93 | 09/09/94, 59 FR 46562
218.184 | Conveyorized Degreasing | 09/27/93 | 09/09/94, 59 FR 46562
218.186 | Test Methods | 09/27/93 | 09/09/94, 59 FR 46562
218.187 | Other Industrial Solvent Cleaning Operations | 07/27/11 | 03/23/12, 77 FR 16940
Subpart F: Coating Operations
218.204 | Emission Limitations | 07/27/11 | 03/23/12, 77 FR 16940
218.205 | Daily-Weighted Average Limitations | 09/14/10 | 03/23/12, 77 FR 16940
218.206 | Solids Basis Calculation | 09/27/93 | 09/09/94, 59 FR 46562
218.207 | Alternative Emission Limitations | 07/27/11 | 03/23/12, 77 FR 16940
218.208 | Exemptions From Emission Limitations | 10/25/11 | 04/19/13, 78 FR 23495
218.209 | Exemption From General Rule on Use of Organic Material | 09/27/93 | 09/09/94, 59 FR 46562
218.210 | Compliance Schedule | 06/25/10 | 03/23/12, 77 FR 16940
218.211 | Recordkeeping and Reporting | 07/27/11 | 03/23/12, 77 FR 16940
218.212 | Cross-Line Averaging To Establish Compliance for Coating Lines | 09/14/10 | 03/23/12, 77 FR 16940
218.213 | Recordkeeping and Reporting for Cross-Line Averaging Participating Coating Lines | 05/09/95 | 02/13/96, 61 FR 5511
218.214 | Changing Compliance Methods | 05/09/95 | 02/13/96, 61 FR 5511
218.215 | Wood Furniture Coating Averaging Approach | 02/02/98 | 05/19/98, 63 FR 27489
218.216 | Wood Furniture Coating Add-On Control Use | 02/02/98 | 05/19/98, 63 FR 27489
218.217 | Wood Furniture Coating and Flat Wood Paneling Coating Work Practice Standards | 07/27/11 | 03/23/12, 77 FR 16940
218.218 | Work Practice Standards for Paper Coatings, Metal Furniture Coatings, and Large Appliance Coatings | 03/23/10 | 03/23/12, 77 FR 16940
218.219 | Work Practice Standards for Automobile and Light-Duty Truck Assembly Coatings and Miscellaneous Metal and Plastic Parts Coatings | 09/14/10 | 03/23/12, 77 FR 16940
Subpart G: Use of Organic Material
218.301 | Use of Organic Material | 09/27/93 | 09/09/94, 59 FR 46562
218.302 | Alternative Standard | 09/27/93 | 09/09/94, 59 FR 46562
218.303 | Fuel Combustion Emission Units | 09/27/93 | 09/09/94, 59 FR 46562
218.304 | Operations With Compliance Program | 09/27/93 | 09/09/94, 59 FR 46562
Subpart H: Printing and Publishing
218.401 | Flexographic and Rotogravure Printing | 07/27/11 | 03/23/12, 77 FR 16940
218.402 | Applicability | 07/27/11 | 03/23/12, 77 FR 16940
218.403 | Compliance Schedule | 06/25/10 | 03/23/12, 77 FR 16940
218.404 | Recordkeeping and Reporting | 07/27/11 | 03/23/12, 77 FR 16940
218.405 | Lithographic Printing: Applicability | 06/25/10 | 03/23/12, 77 FR 16940
218.407 | Emission Limitations and Control Requirements for Lithographic Printing Lines | 06/25/10 | 03/23/12, 77 FR 16940
218.409 | Testing for Lithographic Printing on and After March 15, 1996 | 07/27/11 | 03/23/12, 77 FR 16940
218.410 | Monitoring Requirements for Lithographic Printing | 06/25/10 | 03/23/12, 77 FR 16940
218.411 | Recordkeeping and Reporting for Lithographic Printing | 07/27/11 | 03/23/12, 77 FR 16940
218.412 | Letterpress Printing Lines: Applicability | 06/25/10 | 03/23/12, 77 FR 16940
218.413 | Emission Limitations and Control Requirements for Letterpress Printing Lines | 06/25/10 | 03/23/12, 77 FR 16940
218.415 | Testing for Letterpress Printing Lines | 07/27/11 | 03/23/12, 77 FR 16940
218.416 | Monitoring Requirements for Letterpress Printing Lines | 06/25/10 | 03/23/12, 77 FR 16940
218.417 | Recordkeeping and Reporting for Letterpress Printing Lines | 07/27/11 | 03/23/12, 77 FR 16940
Subpart Q: Synthetic Organic Chemical and Polymer Manufacturing Plant
218.421 | General Requirements | 09/27/93 | 09/09/94, 59 FR 46562
218.422 | Inspection Program Plan for Leaks | 09/27/93 | 09/09/94, 59 FR 46562
218.423 | Inspection Program for Leaks | 09/27/93 | 09/09/94, 59 FR 46562
218.424 | Repairing Leaks | 09/27/93 | 09/09/94, 59 FR 46562
218.425 | Recordkeeping for Leaks | 09/27/93 | 09/09/94, 59 FR 46562
218.426 | Report for Leaks | 09/27/93 | 09/09/94, 59 FR 46562
218.427 | Alternative Program for Leaks | 09/27/93 | 09/09/94, 59 FR 46562
218.428 | Open-Ended Valves | 09/27/93 | 09/09/94, 59 FR 46562
218.429 | Standards for Control Devices | 09/27/93 | 09/09/94, 59 FR 46562
218.431 | Applicability | 05/09/95 | 03/23/98, 63 FR 13784
218.432 | Control Requirements | 05/09/95 | 03/23/98, 63 FR 13784
218.433 | Performance and Testing Requirements | 05/09/95 | 03/23/98, 63 FR 13784
218.434 | Monitoring Requirements | 05/09/95 | 03/23/98, 63 FR 13784
218.435 | Recordkeeping and Reporting Requirements | 05/09/95 | 03/23/98, 63 FR 13784
218.436 | Compliance Date | 05/09/95 | 03/23/98, 63 FR 13784
Subpart R: Petroleum Refining and Related Industries; Asphalt Materials
218.441 | Petroleum Refinery Waste Gas Disposal | 09/27/93 | 09/09/94, 59 FR 46562
218.442 | Vacuum Producing Systems | 08/16/91 | 09/09/94, 59 FR 46562
218.443 | Wastewater (Oil/Water) Separator | 09/27/93 | 09/09/94, 59 FR 46562
218.444 | Process Unit Turnarounds | 08/16/91 | 09/09/94, 59 FR 46562
218.445 | Leaks: General Requirements | 09/27/93 | 09/09/94, 59 FR 46562
218.446 | Monitoring Program Plan for Leaks | 09/27/93 | 09/09/94, 59 FR 46562
218.447 | Monitoring Program for Leaks | 09/27/93 | 09/09/94, 59 FR 46562
218.448 | Recordkeeping for Leaks | 08/16/91 | 09/09/94, 59 FR 46562
218.449 | Reporting for Leaks | 09/27/93 | 09/09/94, 59 FR 46562
218.450 | Alternative Program for Leaks | 09/27/93 | 09/09/94, 59 FR 46562
218.451 | Sealing Device Requirements | 08/16/91 | 09/09/94, 59 FR 46562
218.452 | Compliance Schedule for Leaks | 09/27/93 | 09/09/94, 59 FR 46562
Subpart S: Rubber and Miscellaneous Plastic Products
218.461 | Manufacture of Pneumatic Rubber Tires | 09/27/93 | 09/09/94, 59 FR 46562
218.462 | Green Tire Spraying Operations | 09/27/93 | 09/09/94, 59 FR 46562
218.463 | Alternative Emission Reduction Systems | 09/27/93 | 09/09/94, 59 FR 46562
218.464 | Emission Testing | 09/27/93 | 09/09/94, 59 FR 46562
Subpart T: Pharmaceutical Manufacturing
218.480 | Applicability | 08/26/08 | 11/03/10, 75 FR 67623
218.481 | Control of Reactors, Distillation Units, Crystallizers, Centrifuges and Vacuum Dryers | 09/27/93 | 09/09/94, 59 FR 46562
218.482 | Control of Air Dryers, Production Equipment Exhaust Systems and Filters | 09/27/93 | 09/09/94, 59 FR 46562
218.483 | Material Storage and Transfer | 09/27/93 | 09/09/94, 59 FR 46562
218.484 | In-Process Tanks | 08/16/91 | 09/09/94, 59 FR 46562
218.485 | Leaks | 09/27/93 | 09/09/94, 59 FR 46562
218.486 | Other Emission Units | 09/27/93 | 09/09/94, 59 FR 46562
218.487 | Testing | 09/27/93 | 09/09/94, 59 FR 46562
218.488 | Monitoring for Air Pollution Control Equipment | 08/16/91 | 09/09/94, 59 FR 46562
218.489 | Recordkeeping for Air Pollution Control Equipment | 09/27/93 | 09/09/94, 59 FR 46562
Subpart V: Batch Operations and Air Oxidation Processes
218.500 | Applicability for Batch Operations | 05/22/95 | 04/02/96, 61 FR 14484
218.501 | Control Requirements for Batch Operations | 05/22/95 | 04/02/96, 61 FR 14484
218.502 | Determination of Uncontrolled Total Annual Mass Emissions and Average Flow Rate Values for Batch Operations | 05/22/95 | 04/02/96, 61 FR 14484
218.503 | Performance and Testing Requirements for Batch Operations | 05/22/95 | 04/02/96, 61 FR 14484
218.504 | Monitoring Requirements for Batch Operations | 05/22/95 | 04/02/96, 61 FR 14484
218.505 | Reporting and Recordkeeping for Batch Operations | 05/22/95 | 04/02/96, 61 FR 14484
218.506 | Compliance Date | 05/22/95 | 04/02/96, 61 FR 14484
218.520 | Emission Limitations for Air Oxidation Processes | 11/15/94 | 09/27/95, 60 FR 49770
218.522 | Savings Clause | 11/15/94 | 09/27/95, 60 FR 49770
218.523 | Compliance | 11/15/94 | 09/27/95, 60 FR 49770
218.524 | Determination of Applicability | 11/15/94 | 09/27/95, 60 FR 49770
218.525 | Emission Limitations for Air Oxidation Processes | 11/15/94 | 09/27/95, 60 FR 49770
218.526 | Testing and Monitoring | 08/16/91 | 09/09/94, 59 FR 46562
Subpart W: Agriculture
218.541 | Pesticide Exception | 09/27/93 | 09/09/94, 59 FR 46562
Subpart X: Construction
218.561 | Architectural Coatings | 08/16/91 | 09/09/94, 59 FR 46562
218.562 | Paving Operations | 09/27/93 | 09/09/94, 59 FR 46562
218.563 | Cutback Asphalt | 08/16/91 | 09/09/94, 59 FR 46562
Subpart Y: Gasoline Distribution
218.581 | Bulk Gasoline Plants | 09/27/93 | 09/09/94, 59 FR 46562
218.582 | Bulk Gasoline Terminals | 09/27/93 | 09/09/94, 59 FR 46562
218.583 | Gasoline Dispensing Operations—Storage Tank Filling Operations | 12/23/13 | 03/13/15, 80 FR 13248
218.584 | Gasoline Delivery Vessels | 09/27/93 | 09/09/94, 59 FR 46562
218.586 | Gasoline Dispensing Operations—Motor Vehicle Fueling Operations | 12/23/13 | 03/13/15, 80 FR 13248
Subpart Z: Dry Cleaners
218.607 | Standards for Petroleum Solvent Dry Cleaners | 08/16/91 | 09/09/94, 59 FR 46562
218.608 | Operating Practices for Petroleum Solvent Dry Cleaners | 09/27/93 | 09/09/94, 59 FR 46562
218.609 | Program for Inspection and Repair of Leaks | 09/27/93 | 09/09/94, 59 FR 46562
218.610 | Testing and Monitoring | 09/27/93 | 09/09/94, 59 FR 46562
218.611 | Applicability for Petroleum Solvent Dry Cleaners | 01/24/94 | 10/21/96, 61 FR 54556
Subpart AA: Paint and Ink Manufacturing
218.620 | Applicability | 01/24/94 | 10/21/96, 61 FR 54556
218.621 | Exemption for Waterbase Material and Heatset Offset Ink | 09/27/93 | 09/09/94, 59 FR 46562
218.624 | Open Top Mills, Tanks, Vats or Vessels | 09/27/93 | 09/09/94, 59 FR 46562
218.625 | Grinding Mills | 08/16/91 | 09/09/94, 59 FR 46562
218.626 | Storage Tanks | 08/16/91 | 09/09/94, 59 FR 46562
218.628 | Leaks | 09/27/93 | 09/09/94, 59 FR 46562
218.630 | Clean Up | 08/16/91 | 09/09/94, 59 FR 46562
218.636 | Compliance Schedule | 09/27/93 | 09/09/94, 59 FR 46562
218.637 | Recordkeeping and Reporting | 09/27/93 | 09/09/94, 59 FR 46562
Subpart BB: Polystyrene Plants
218.640 | Applicability | 09/27/93 | 09/09/94, 59 FR 46562
218.642 | Emissions Limitation at Polystyrene Plants | 09/27/93 | 09/09/94, 59 FR 46562
218.644 | Emissions Testing | 09/27/93 | 09/09/94, 59 FR 46562
Subpart CC: Polyester Resin Product Manufacturing Process
218.660 | Applicability | 01/24/94 | 10/21/96, 61 FR 54556
218.666 | Control Requirements | 01/24/94 | 10/21/96, 61 FR 54556
218.667 | Compliance Schedule | 01/24/94 | 10/21/96, 61 FR 54556
218.668 | Testing | 01/24/94 | 10/21/96, 61 FR 54556
218.670 | Recordkeeping and Reporting for Exempt Emission Units | 01/24/94 | 10/21/96, 61 FR 54556
218.672 | Recordkeeping and Reporting for Subject Emission Units | 01/24/94 | 10/21/96, 61 FR 54556
Subpart DD: Aerosol Can Fillings
218.680 | Applicability | 01/24/94 | 10/21/96, 61 FR 54556
218.686 | Control Requirements | 05/09/95 | 03/12/97, 62 FR 11327
218.688 | Testing | 01/24/94 | 10/21/96, 61 FR 54556
218.690 | Recordkeeping and Reporting for Exempt Emission Units | 01/24/94 | 10/21/96, 61 FR 54556
218.692 | Recordkeeping and Reporting for Subject Emission Units | 01/24/94 | 10/21/96, 61 FR 54556
Subpart GG: Marine Terminals
218.760 | Applicability | 10/25/94 | 04/03/95, 60 FR 16801
218.762 | Control Requirements | 10/25/94 | 04/03/95, 60 FR 16801
218.764 | Compliance Certification | 10/25/94 | 04/03/95, 60 FR 16801
218.766 | Leaks | 10/25/94 | 04/03/95, 60 FR 16801
218.768 | Testing and Monitoring | 10/25/94 | 04/03/95, 60 FR 16801
218.770 | Recordkeeping and Reporting | 10/25/94 | 04/03/95, 60 FR 16801
Subpart HH: Motor Vehicle Refinishing
218.780 | Emission Limitations | 05/09/95 | 07/25/96, 61 FR 38577
218.782 | Alternative Control Requirements | 05/09/95 | 07/25/96, 61 FR 38577
218.784 | Equipment Specifications | 01/28/13 | 10/06/14, 79 FR 60070
218.786 | Surface Preparation Materials | 05/09/95 | 07/25/96, 61 FR 38577
218.787 | Work Practices | 05/09/95 | 07/25/96, 61 FR 38577
218.788 | Testing | 05/09/95 | 07/25/96, 61 FR 38577
218.789 | Monitoring and Recordkeeping for Control Devices | 05/09/95 | 07/25/96, 61 FR 38577
218.790 | General Recordkeeping and Reporting | 05/09/95 | 07/25/96, 61 FR 38577
218.791 | Compliance Date | 05/09/95 | 07/25/96, 61 FR 38577
Subpart II: Fiberglass Boat Manufacturing Materials
218.890 | Applicability | 09/14/10 | 03/23/12, 77 FR 16940
218.891 | Emission Limitations and Control Requirements | 07/27/11 | 03/23/12, 77 FR 16940
218.892 | Testing Requirements | 07/27/11 | 03/23/12, 77 FR 16940
218.894 | Recordkeeping and Reporting Requirements | 07/27/11 | 03/23/12, 77 FR 16940
Subpart JJ: Miscellaneous Industrial Adhesives
218.900 | Applicability | 09/14/10 | 03/23/12, 77 FR 16940
218.901 | Emission Limitations and Control Requirements | 07/27/11 | 03/23/12, 77 FR 16940
218.902 | Testing Requirements | 07/27/11 | 03/23/12, 77 FR 16940
218.903 | Monitoring Requirements | 07/27/11 | 03/23/12, 77 FR 16940
218.904 | Recordkeeping and Reporting Requirements | 07/27/11 | 03/23/12, 77 FR 16940
Subpart PP: Miscellaneous Fabricated Product Manufacturing Processes
218.920 | Applicability | 01/24/94 | 10/21/96, 61 FR 54556
218.926 | Control Requirements | 01/24/94 | 10/21/96, 61 FR 54556
218.927 | Compliance Schedule | 09/27/93 | 10/21/96, 61 FR 54556
218.928 | Testing | 09/27/93 | 10/21/96, 61 FR 54556
218.929 | Cementable and Dress or Performance Shoe Leather | 04/08/03 | 05/24/04, 69 FR 29446
Subpart QQ: Miscellaneous Formulation Manufacturing Processes
218.940 | Applicability | 07/16/98 | 06/18/99, 64 FR 32810
218.946 | Control Requirements | 01/24/94 | 10/21/96, 61 FR 54556
218.947 | Compliance Schedule | 09/27/93 | 09/09/94, 59 FR 46562
218.948 | Testing | 09/27/93 | 09/09/94, 59 FR 46562
Subpart RR: Miscellaneous Organic Chemical Manufacturing Processes
218.960 | Applicability | 01/24/94 | 10/21/96, 61 FR 54556
218.966 | Control Requirements | 05/09/95 | 03/12/97, 62 FR 11327
218.967 | Compliance Schedule | 09/27/93 | 10/21/96, 61 FR 54556
218.968 | Testing | 09/27/93 | 10/21/96, 61 FR 54556
Subpart TT: Other Emission Units
218.980 | Applicability | 05/09/95 | 03/12/97, 62 FR 11327
218.986 | Control Requirements | 01/24/94 | 10/21/96, 61 FR 54556
218.987 | Compliance Schedule | 09/27/93 | 10/21/96, 61 FR 54556
218.988 | Testing | 09/27/93 | 10/21/96, 61 FR 54556
Subpart UU: Recordkeeping and Reporting
218.990 | Exempt Emission Units | 09/27/93 | 10/21/96, 61 FR 54556
218.991 | Subject Emission Units | 01/24/94 | 10/21/96, 61 FR 54556
218.Appendix A: | List of Chemicals Defining Synthetic Organic Chemical and Polymer Manufacturing | 09/27/93 | 09/09/94, 59 FR 46562
218.Appendix B: | VOM Measurement Techniques for Capture Efficiency | 09/27/93 | 09/09/94, 59 FR 46562
218.Appendix C: | Reference Test Methods for Air Oxidation Processes | 09/27/93 | 09/09/94, 59 FR 46562
218.Appendix D: | Coefficients for the Total Resource Effectiveness Index (TRE) Equation | 09/27/93 | 09/09/94, 59 FR 46562
218.Appendix E: | List of Affected Marine Terminals | 10/25/94 | 04/03/95, 60 FR 16801
218.Appendix G: | TRE Index Measurements for SOCMI Reactors and Distillation Units | 05/09/95 | 03/23/98, 63 FR 13784
218.Appendix H: | Baseline VOM Content Limitations for Subpart F, Section 218.212 Cross-Line Averaging | 05/09/95 | 02/13/96, 61 FR 5511 |
Part 219: Organic Material Emission Standards and Limitations for the Metro East Area
Subpart A: General Provisions
219.100 | Introduction | 09/27/93 | 09/09/94, 59 FR 46562
219.101 | Savings Clause | 10/25/94 | 04/03/95, 60 FR 16801
219.102 | Abbreviations and Conversion Factors | 09/27/93 | 09/09/94, 59 FR 46562
219.103 | Applicability | 08/16/91 | 09/09/94, 59 FR 46562
219.104 | Definitions | 09/27/93 | 09/09/94, 59 FR 46562
219.105 | Test Methods and Procedures | 12/23/13 | 03/13/15, 80 FR 13248
219.106 | Compliance Dates | 09/14/10 | 03/23/12, 77 FR 16940
219.107 | Operation of Afterburners | 09/27/93 | 09/09/94, 59 FR 46562
219.108 | Exemptions, Variations, and Alternative Means of Control or Compliance Determinations | 08/16/91 | 09/09/94, 59 FR 46562
219.109 | Vapor Pressure of Volatile Organic Liquids | 09/27/93 | 09/09/94, 59 FR 46562
219.110 | Vapor Pressure of Organic Material or Solvent | 09/27/93 | 09/09/94, 59 FR 46562
219.111 | Vapor Pressure of Volatile Organic Material | 09/27/93 | 09/09/94, 59 FR 46562
219.112 | Incorporations by Reference | 12/23/13 | 03/13/15, 80 FR 13248
Subpart B: Organic Emissions From Storage and Loading Operations
219.119 | Applicability for VOL | 11/15/94 | 08/08/96, 61 FR 41338
219.120 | Control Requirements for Storage Containers of VOL | 11/15/94 | 08/08/96, 61 FR 41338
219.121 | Storage Containers of VPL | 09/27/93 | 09/09/94, 59 FR 46562
219.122 | Loading Operations | 09/27/93 | 09/09/94, 59 FR 46562
219.123 | Petroleum Liquid Storage Tanks | 09/27/93 | 09/09/94, 59 FR 46562
219.124 | External Floating Roofs | 09/27/93 | 09/09/94, 59 FR 46562
219.125 | Compliance Dates | 11/15/94 | 08/08/96, 61 FR 41338
219.127 | Testing VOL Operations | 11/15/94 | 08/08/96, 61 FR 41338
219.128 | Monitoring VOL Operations | 01/28/13 | 10/06/14, 79 FR 60070
219.129 | Recordkeeping and Reporting for VOL Operations | 11/15/94 | 08/08/96, 61 FR 41338
Subpart C: Organic Emissions From Miscellaneous Equipment
219.141 | Separation Operations | 09/27/93 | 09/09/94, 59 FR 46562
219.142 | Pumps and Compressors | 08/16/91 | 09/09/94, 59 FR 46562
219.143 | Vapor Blowdown | 09/27/93 | 09/09/94, 59 FR 46562
219.144 | Safety Relief Valves | 09/27/93 | 09/09/94, 59 FR 46562
Subpart E: Solvent Cleaning
219.181 | Solvent Cleaning Degreasing Operations | 06/25/10 | 03/23/12, 77 FR 16940
219.182 | Cold Cleaning | 06/09/97 | 11/26/97, 62 FR 62951
219.183 | Open Top Vapor Degreasing | 09/27/93 | 09/09/94, 59 FR 46562
219.184 | Conveyorized Degreasing | 09/27/93 | 09/09/94, 59 FR 46562
219.186 | Test Methods | 09/27/93 | 09/09/94, 59 FR 46562
219.187 | Other Industrial Solvent Cleaning Operations | 07/27/11 | 03/23/12, 77 FR 16940
Subpart F: Coating Operations
219.204 | Emission Limitations | 07/27/11 | 03/23/12, 77 FR 16940
219.205 | Daily-Weighted Average Limitations | 09/14/10 | 03/23/12, 77 FR 16940
219.206 | Solids Basis Calculation | 09/27/93 | 09/09/94, 59 FR 46562
219.207 | Alternative Emission Limitations | 07/27/11 | 03/23/12, 77 FR 16940
219.208 | Exemptions From Emission Limitations | 10/25/11 | 04/19/13, 78 FR 23495
219.209 | Exemption From General Rule on Use of Organic Material | 09/27/93 | 09/09/94, 59 FR 46562
219.210 | Compliance Schedule | 09/14/10 | 03/23/12, 77 FR 16940
219.211 | Recordkeeping and Reporting | 07/27/11 | 03/23/12, 77 FR 16940
219.212 | Cross-Line Averaging To Establish Compliance for Coating Lines | 09/14/10 | 03/23/12, 77 FR 16940
219.213 | Recordkeeping and Reporting for Cross-Line Averaging Participating Coating Lines | 05/09/95 | 02/13/96, 61 FR 5511
219.214 | Changing Compliance Methods | 05/09/95 | 02/13/96, 61 FR 5511
219.215 | Wood Furniture Coating Averaging Approach | 02/02/98 | 05/19/98, 63 FR 27489
219.216 | Wood Furniture Coating Add-On Control Use | 02/02/98 | 05/19/98, 63 FR 27489
219.217 | Wood Furniture Coating and Flat Wood Paneling Coating Work Practice Standards | 07/27/11 | 03/23/12, 77 FR 16940
219.218 | Work Practice Standards for Paper Coatings, Metal Furniture Coatings, and Large Appliance Coatings | 03/23/10 | 03/23/12, 77 FR 16940
219.219 | Work Practice Standards for Automobile and Light-Duty Truck Assembly Coatings and Miscellaneous Metal and Plastic Parts Coatings | 09/14/10 | 03/23/12, 77 FR 16940
Subpart G: Use of Organic Material
219.301 | Use of Organic Material | 09/27/93 | 09/09/94, 59 FR 46562
219.302 | Alternative Standard | 09/27/93 | 09/09/94, 59 FR 46562
219.303 | Fuel Combustion Emission Units | 09/27/93 | 09/09/94, 59 FR 46562
219.304 | Operations With Compliance Program | 09/27/93 | 09/09/94, 59 FR 46562
Subpart H: Printing and Publishing
219.401 | Flexographic and Rotogravure Printing | 07/27/11 | 03/23/12, 77 FR 16940
219.402 | Applicability | 06/25/10 | 03/23/12, 77 FR 16940
219.403 | Compliance Schedule | 06/25/10 | 03/23/12, 77 FR 16940
219.404 | Recordkeeping and Reporting | 07/27/11 | 03/23/12, 77 FR 16940
219.405 | Lithographic Printing: Applicability | 06/25/10 | 03/23/12, 77 FR 16940
219.407 | Emission Limitations and Control Requirements for Lithographic Printing Lines | 06/25/10 | 03/23/12, 77 FR 16940
219.409 | Testing for Lithographic Printing | 07/27/11 | 03/23/12, 77 FR 16940
219.410 | Monitoring Requirements for Lithographic Printing | 06/25/10 | 03/23/12, 77 FR 16940
219.411 | Recordkeeping and Reporting for Lithographic Printing | 07/27/11 | 03/23/12, 77 FR 16940
219.412 | Letterpress Printing Lines: Applicability | 06/25/10 | 03/23/12, 77 FR 16940
219.413 | Emission Limitations and Control Requirements for Letterpress Printing Lines | 06/25/10 | 03/23/12, 77 FR 16940
219.415 | Testing for Letterpress Printing Lines | 07/27/11 | 03/23/12, 77 FR 16940
219.416 | Monitoring Requirements for Letterpress Printing Lines | 06/25/10 | 03/23/12, 77 FR 16940
219.417 | Recordkeeping and Reporting for Letterpress Printing Lines | 07/27/11 | 03/23/12, 77 FR 16940
Subpart Q: Synthetic Organic Chemical and Polymer Manufacturing Plant
219.421 | General Requirements | 09/27/93 | 09/09/94, 59 FR 46562
219.422 | Inspection Program Plan for Leaks | 09/27/93 | 09/09/94, 59 FR 46562
219.423 | Inspection Program for Leaks | 09/27/93 | 09/09/94, 59 FR 46562
219.424 | Repairing Leaks | 09/27/93 | 09/09/94, 59 FR 46562
219.425 | Recordkeeping for Leaks | 09/27/93 | 09/09/94, 59 FR 46562
219.426 | Report for Leaks | 09/27/93 | 09/09/94, 59 FR 46562
219.427 | Alternative Program for Leaks | 09/27/93 | 09/09/94, 59 FR 46562
219.428 | Open-Ended Valves | 09/27/93 | 09/09/94, 59 FR 46562
219.429 | Standards for Control Devices | 09/27/93 | 09/09/94, 59 FR 46562
219.431 | Applicability | 05/09/95 | 03/23/98, 63 FR 13784
219.432 | Control Requirements | 05/09/95 | 03/23/98, 63 FR 13784
219.433 | Performance and Testing Requirements | 05/09/95 | 03/23/98, 63 FR 13784
219.434 | Monitoring Requirements | 05/09/95 | 03/23/98, 63 FR 13784
219.435 | Recordkeeping and Reporting Requirements | 05/09/95 | 03/23/98, 63 FR 13784
219.436 | Compliance Date | 05/09/95 | 03/23/98, 63 FR 13784
Subpart R: Petroleum Refining and Related Industries; Asphalt Materials
219.441 | Petroleum Refinery Waste Gas Disposal | 09/27/93 | 09/09/94, 59 FR 46562
219.442 | Vacuum Producing Systems | 08/16/91 | 09/09/94, 59 FR 46562
219.443 | Wastewater (Oil/Water) Separator | 09/27/93 | 09/09/94, 59 FR 46562
219.444 | Process Unit Turnarounds | 08/16/91 | 09/09/94, 59 FR 46562
219.445 | Leaks: General Requirements | 09/27/93 | 09/09/94, 59 FR 46562
219.446 | Monitoring Program Plan for Leaks | 09/27/93 | 09/09/94, 59 FR 46562
219.447 | Monitoring Program for Leaks | 09/27/93 | 09/09/94, 59 FR 46562
219.448 | Recordkeeping for Leaks | 08/16/91 | 09/09/94, 59 FR 46562
219.449 | Reporting for Leaks | 09/27/93 | 09/09/94, 59 FR 46562
219.450 | Alternative Program for Leaks | 09/27/93 | 09/09/94, 59 FR 46562
219.451 | Sealing Device Requirements | 08/16/91 | 09/09/94, 59 FR 46562
219.452 | Compliance Schedule for Leaks | 09/27/93 | 09/09/94, 59 FR 46562
Subpart S: Rubber and Miscellaneous Plastic Products
219.461 | Manufacture of Pneumatic Rubber Tires | 09/27/93 | 09/09/94, 59 FR 46562
219.462 | Green Tire Spraying Operations | 09/27/93 | 09/09/94, 59 FR 46562
219.463 | Alternative Emission Reduction Systems | 09/27/93 | 09/09/94, 59 FR 46562
219.464 | Emission Testing | 09/27/93 | 09/09/94, 59 FR 46562
Subpart T: Pharmaceutical Manufacturing
219.480 | Applicability | 05/09/95 | 03/12/97, 62 FR 11327
219.481 | Control of Reactors, Distillation Units, Crystallizers, Centrifuges and Vacuum Dryers | 09/27/93 | 09/09/94, 59 FR 46562
219.482 | Control of Air Dryers, Production Equipment Exhaust Systems and Filters | 09/27/93 | 09/09/94, 59 FR 46562
219.483 | Material Storage and Transfer | 09/27/93 | 09/09/94, 59 FR 46562
219.484 | In-Process Tanks | 08/16/91 | 09/09/94, 59 FR 46562
219.485 | Leaks | 09/27/93 | 09/09/94, 59 FR 46562
219.486 | Other Emission Units | 09/27/93 | 09/09/94, 59 FR 46562
219.487 | Testing | 09/27/93 | 09/09/94, 59 FR 46562
219.488 | Monitoring for Air Pollution Control Equipment | 08/16/91 | 09/09/94, 59 FR 46562
219.489 | Recordkeeping for Air Pollution Control Equipment | 09/27/93 | 09/09/94, 59 FR 46562
Subpart V: Batch Operations and Air Oxidation Processes
219.500 | Applicability for Batch Operations | 05/22/95 | 04/02/96, 61 FR 14484
219.501 | Control Requirements for Batch Operations | 05/22/95 | 04/02/96, 61 FR 14484
219.502 | Determination of Uncontrolled Total Annual Mass Emissions and Actual Weighted Average Flow Rate Values for Batch Operations | 05/22/95 | 04/02/96, 61 FR 14484
219.503 | Performance and Testing Requirements for Batch Operations | 05/22/95 | 04/02/96, 61 FR 14484
219.504 | Monitoring Requirements for Batch Operations | 05/22/95 | 04/02/96, 61 FR 14484
219.505 | Reporting and Recordkeeping for Batch Operations | 05/22/95 | 04/02/96, 61 FR 14484
219.506 | Compliance Date | 05/22/95 | 04/02/96, 61 FR 14484
219.520 | Emission Limitations for Air Oxidation Processes | 11/15/94 | 09/27/95, 60 FR 49770
219.522 | Savings Clause | 11/15/94 | 09/27/95, 60 FR 49770
219.523 | Compliance | 11/15/94 | 09/27/95, 60 FR 49770
219.524 | Determination of Applicability | 11/15/94 | 09/27/95, 60 FR 49770
219.526 | Testing and Monitoring | 08/16/91 | 09/09/94, 59 FR 46562
Subpart W: Agriculture
219.541 | Pesticide Exception | 09/27/93 | 09/09/94, 59 FR 46562
Subpart X: Construction
219.561 | Architectural Coatings | 08/16/91 | 09/09/94, 59 FR 46562
219.562 | Paving Operations | 09/27/93 | 09/09/94, 59 FR 46562
219.563 | Cutback Asphalt | 08/16/91 | 09/09/94, 59 FR 46562
Subpart Y: Gasoline Distribution
219.581 | Bulk Gasoline Plants | 09/27/93 | 09/09/94, 59 FR 46562
219.582 | Bulk Gasoline Terminals | 09/27/93 | 09/09/94, 59 FR 46562
219.583 | Gasoline Dispensing Operations—Storage Tank Filling Operations | 12/23/13 | 03/13/15, 80 FR 13248
219.584 | Gasoline Delivery Vessels | 09/27/93 | 09/09/94, 59 FR 46562
Subpart Z: Dry Cleaners
219.607 | Standards for Petroleum Solvent Dry Cleaners | 08/16/91 | 09/09/94, 59 FR 46562
219.608 | Operating Practices for Petroleum Solvent Dry Cleaners | 09/27/93 | 09/09/94, 59 FR 46562
219.609 | Program for Inspection and Repair of Leaks | 09/27/93 | 09/09/94, 59 FR 46562
219.610 | Testing and Monitoring | 09/27/93 | 09/09/94, 59 FR 46562
219.611 | Exemption for Petroleum Solvent Dry Cleaners | 09/27/93 | 09/09/94, 59 FR 46562
Subpart AA: Paint and Ink Manufacturing
219.620 | Applicability | 09/27/93 | 09/09/94, 59 FR 46562
219.621 | Exemption for Waterbase Material and Heatset-Offset Ink | 09/27/93 | 09/09/94, 59 FR 46562
219.623 | Permit Conditions | 09/27/93 | 09/09/94, 59 FR 46562
219.624 | Open-Top Mills, Tanks, Vats or Vessels | 09/27/93 | 09/09/94, 59 FR 46562
219.625 | Grinding Mills | 08/16/91 | 09/09/94, 59 FR 46562
219.626 | Storage Tanks | 08/16/91 | 09/09/94, 59 FR 46562
219.628 | Leaks | 09/27/93 | 09/09/94, 59 FR 46562
219.630 | Clean Up | 08/16/91 | 09/09/94, 59 FR 46562
219.636 | Compliance Schedule | 09/27/93 | 09/09/94, 59 FR 46562
219.637 | Recordkeeping and Reporting | 09/27/93 | 09/09/94, 59 FR 46562
Subpart BB: Polystyrene Plants
219.640 | Applicability | 09/27/93 | 09/09/94, 59 FR 46562
219.642 | Emissions Limitation at Polystyrene Plants | 09/27/93 | 09/09/94, 59 FR 46562
219.644 | Emissions Testing | 09/27/93 | 09/09/94, 59 FR 46562
Subpart GG: Marine Terminals
219.760 | Applicability | 10/25/94 | 04/03/95, 60 FR 16801
219.762 | Control Requirements | 10/25/94 | 04/03/95, 60 FR 16801
219.764 | Compliance Certification | 10/25/94 | 04/03/95, 60 FR 16801
219.766 | Leaks | 10/25/94 | 04/03/95, 60 FR 16801
219.768 | Testing and Monitoring | 10/25/94 | 04/03/95, 60 FR 16801
219.770 | Recordkeeping and Reporting | 10/25/94 | 04/03/95, 60 FR 16801
Subpart HH: Motor Vehicle Refinishing
219.780 | Emission Limitations | 05/09/95 | 07/25/96, 61 FR 38577
219.782 | Alternative Control Requirements | 05/09/95 | 07/25/96, 61 FR 38577
219.784 | Equipment Specifications | 01/28/13 | 10/06/14, 79 FR 60070
219.786 | Surface Preparation Materials | 05/09/95 | 07/25/96, 61 FR 38577
219.787 | Work Practices | 05/09/95 | 07/25/96, 61 FR 38577
219.788 | Testing | 05/09/95 | 07/25/96, 61 FR 38577
219.789 | Monitoring and Recordkeeping for Control Devices | 05/09/95 | 07/25/96, 61 FR 38577
219.791 | Compliance Date | 05/09/95 | 07/25/96, 61 FR 38577
Subpart II: Fiberglass Boat Manufacturing Materials
219.890 | Applicability | 09/14/10 | 03/23/12, 77 FR 16940
219.891 | Emission Limitations and Control Requirements | 07/27/11 | 03/23/12, 77 FR 16940
219.892 | Testing and Monitoring Requirements | 07/27/11 | 03/23/12, 77 FR 16940
219.894 | Recordkeeping and Reporting Requirements | 07/27/11 | 03/23/12, 77 FR 16940
Subpart JJ: Miscellaneous Industrial Adhesives
219.900 | Applicability | 09/14/10 | 03/23/12, 77 FR 16940
219.901 | Emission Limitations and Control Requirements | 07/27/11 | 03/23/12, 77 FR 16940
219.902 | Testing Requirements | 07/27/11 | 03/23/12, 77 FR 16940
219.903 | Monitoring Requirements | 07/27/11 | 03/23/12, 77 FR 16940
219.904 | Recordkeeping and Reporting Requirements | 07/27/11 | 03/23/12, 77 FR 16940
Subpart PP: Miscellaneous Fabricated Product Manufacturing Processes
219.920 | Applicability | 09/27/93 | 05/07/96, 61 FR 20455
219.923 | Permit Conditions | 09/27/93 | 05/07/96, 61 FR 20455
219.926 | Control Requirements | 05/09/95 | 05/07/96, 61 FR 20455
219.927 | Compliance Schedule | 09/27/93 | 05/07/96, 61 FR 20455
219.928 | Testing | 09/27/93 | 05/07/96, 61 FR 20455
Subpart QQ: Miscellaneous Formulation Manufacturing Processes
219.940 | Applicability | 09/27/93 | 05/07/96, 61 FR 20455
219.943 | Permit Conditions | 09/27/93 | 05/07/96, 61 FR 20455
219.946 | Control Requirements | 05/09/95 | 05/07/96, 61 FR 20455
219.947 | Compliance Schedule | 09/27/93 | 05/07/96, 61 FR 20455
219.948 | Testing | 09/27/93 | 05/07/96, 61 FR 20455
Subpart RR: Miscellaneous Organic Chemical Manufacturing Processes
219.960 | Applicability | 09/27/93 | 05/07/96, 61 FR 20455
219.963 | Permit Conditions | 09/27/93 | 05/07/96, 61 FR 20455
219.966 | Control Requirements | 05/09/95 | 05/07/96, 61 FR 20455
219.967 | Compliance Schedule | 09/27/93 | 05/07/96, 61 FR 20455
219.968 | Testing | 09/27/93 | 05/07/96, 61 FR 20455
Subpart TT: Other Emission Units
219.980 | Applicability | 05/09/95 | 03/12/97, 62 FR 11327
219.983 | Permit Conditions | 09/27/93 | 05/07/96, 61 FR 20455
219.986 | Control Requirements | 05/09/95 | 05/07/96, 61 FR 20455
219.987 | Compliance Schedule | 09/27/93 | 05/07/96, 61 FR 20455
219.988 | Testing | 09/27/93 | 05/07/96, 61 FR 20455
Subpart UU: Recordkeeping and Reporting
219.990 | Exempt Emission Units | 09/27/93 | 05/07/96, 61 FR 20455
219.991 | Subject Emission Units | 09/27/93 | 05/07/96, 61 FR 20455
219.Appendix A: | List of Chemicals Defining Synthetic Organic Chemical and Polymer Manufacturing | 09/27/93 | 09/09/94, 59 FR 46562
219.Appendix B: | VOM Measurement Techniques for Capture Efficiency (Repealed) | 09/27/93 | 09/09/94, 59 FR 46562
219.Appendix C: | Reference Methods and Procedures | 09/27/93 | 09/09/94, 59 FR 46562
219.Appendix D: | Coefficients for the Total Resource Effectiveness Index (TRE) Equation | 09/27/93 | 09/09/94, 59 FR 46562
219.Appendix E: | List of Affected Marine Terminals | 02/15/96 | 04/03/95, 60 FR 16801
219.Appendix G: | TRE Index Measurements for SOCMI Reactors and Distillation Units | 05/09/95 | 03/23/98, 63 FR 13784
219.Appendix H: | Baseline VOM Content Limitations for Subpart F, Section 219.212 Cross-Line Averaging | 05/09/95 | 02/13/96, 61 FR 5511
Part 223: Standards and Limitations for Organic Material Emissions for Area Sources
Subpart A: General Provisions
223.100 | Severability | 06/08/09 | 05/06/13, 78 FR 26258
223.105 | Abbreviations and Acronyms | 06/08/09 | 05/06/13, 78 FR 26258
223.120 | Incorporations by Reference | 06/08/09 | 05/06/13, 78 FR 26258
Subpart B: Consumer and Commercial Products
223.200 | Purpose | 06/08/09 | 05/06/13, 78 FR 26258
223.201 | Applicability | 05/04/12 | 05/06/13, 78 FR 26258
223.203 | Definitions for Subpart B | 05/04/12 | 05/06/13, 78 FR 26258
223.205 | Standards | 05/04/12 | 05/06/13, 78 FR 26258
223.206 | Diluted Products | 06/08/09 | 05/06/13, 78 FR 26258
223.207 | Products Registered Under FIFRA | 05/04/12 | 05/06/13, 78 FR 26258
223.208 | Requirements for Aerosol Adhesives | 05/04/12 | 05/06/13, 78 FR 26258
223.209 | Requirements for Floor Wax Strippers | 06/08/09 | 05/06/13, 78 FR 26258
223.210 | Products Containing Ozone-Depleting Compounds | 06/08/09 | 05/06/13, 78 FR 26258
223.211 | Requirements for Adhesive Removers, Aerosol Adhesives, Contact Adhesives, Electrical Cleaners, Electronic Cleaners, Footwear or Leather Care Products, General Purpose Degreasers, and Graffiti Removers | 05/04/12 | 05/06/13, 78 FR 26258
223.220 | Requirements for Charcoal Lighter Material | 06/08/09 | 05/06/13, 78 FR 26258
223.230 | Exemptions | 06/08/09 | 05/06/13, 78 FR 26258
223.240 | Innovative Product Exemption | 06/08/09 | 05/06/13, 78 FR 26258
223.245 | Alternative Compliance Plans | 06/08/09 | 05/06/13, 78 FR 26258
223.250 | Product Dating | 06/08/09 | 05/06/13, 78 FR 26258
223.255 | Additional Product Dating Requirements | 06/08/09 | 05/06/13, 78 FR 26258
223.260 | Most Restrictive Limit | 06/08/09 | 05/06/13, 78 FR 26258
223.265 | Additional Labeling Requirements for Aerosol Adhesives, Adhesive Removers, Electronic Cleaners, Electrical Cleaners, Energized Electrical Cleaners, and Contact Adhesives | 06/08/09 | 05/06/13, 78 FR 26258
223.270 | Reporting Requirements | 06/08/09 | 05/06/13, 78 FR 26258
223.275 | Special Recordkeeping Requirements for Consumer Products That Contain Perchloroethylene or Methylene Chloride | 06/08/09 | 05/06/13, 78 FR 26258
223.280 | Calculating Illinois Sales | 06/08/09 | 05/06/13, 78 FR 26258
223.285 | Test Methods | 06/08/09 | 05/06/13, 78 FR 26258
Subpart C: Architectural and Industrial Maintenance Coatings
223.300 | Purpose | 06/08/09 | 05/06/13, 78 FR 26258
223.305 | Applicability | 05/04/12 | 05/06/13, 78 FR 26258
223.307 | Definitions for Subpart C | 06/08/09 | 05/06/13, 78 FR 26258
223.310 | Standards | 06/08/09 | 05/06/13, 78 FR 26258
223.320 | Container Labeling Requirements | 06/08/09 | 05/06/13, 78 FR 26258
223.330 | Reporting Requirements | 06/08/09 | 05/06/13, 78 FR 26258
223.340 | Compliance Provisions and Test Methods | 06/08/09 | 05/06/13, 78 FR 26258
223.350 | Alternative Test Methods | 06/08/09 | 05/06/13, 78 FR 26258
223.360 | Methacrylate Traffic Coating Markings | 06/08/09 | 05/06/13, 78 FR 26258
223.370 | Test Methods | 06/08/09 | 05/06/13, 78 FR 26258
Part 225: Control of Emissions From Large Combustion Sources
Subpart A: General Provisions
225.120 | Abbreviations and Acronyms | 08/31/07 | 10/16/07, 72 FR 58528
225.130 | Definitions | 08/31/07 | 10/16/07, 72 FR 58528
225.140 | Incorporations by Reference | 08/31/07 | 10/16/07, 72 FR 58528
225.150 | Commence Commercial Operation | 08/31/07 | 10/16/07, 72 FR 58528
Subpart B: Control of Mercury Emissions From Coal-Fired Electric Generating Units
225.233 | Multi-Pollutant Standard (MPS) | 06/26/09 | 07/06/12, 77 FR 39943 | Only (a), (b), (e), and (g).
225.291 | Combined Pollutant Standard: Purpose | 06/26/09 | 07/06/12, 77 FR 39943
225.292 | Applicability of the Combined Pollutant Standard | 06/26/09 | 07/06/12, 77 FR 39943
225.293 | Combined Pollutant Standard: Notice of Intent | 06/26/09 | 07/06/12, 77 FR 39943
225.295 | Combined Pollutant Standard: Emissions Standards for NOX and SO2 | 06/26/09 | 07/06/12, 77 FR 39943
225.296 | Combined Pollutant Standard: Control Technology Requirements for NOX, SO2, and PM Emissions | 06/26/09 | 07/06/12, 77 FR 39943 | Except (d).
Subpart C: Clean Air Act Interstate Rule (CAIR) SO2 Trading Program
225.300 | Purpose | 08/31/07 | 10/16/07, 72 FR 58528
225.305 | Applicability | 08/31/07 | 10/16/07, 72 FR 58528
225.310 | Compliance Requirements | 08/31/07 | 10/16/07, 72 FR 58528
225.315 | Appeal Procedures | 08/31/07 | 10/16/07, 72 FR 58528
225.320 | Permit Requirements | 08/31/07 | 10/16/07, 72 FR 58528
225.325 | Trading Program | 08/31/07 | 10/16/07, 72 FR 58528
Subpart D: CAIR NOX Annual Trading Program
225.400 | Purpose | 08/31/07 | 10/16/07, 72 FR 58528
225.405 | Applicability | 08/31/07 | 10/16/07, 72 FR 58528
225.410 | Compliance Requirements | 08/31/07 | 10/16/07, 72 FR 58528
225.415 | Appeal Procedures | 08/31/07 | 10/16/07, 72 FR 58528
225.420 | Permit Requirements | 08/31/07 | 10/16/07, 72 FR 58528
225.425 | Annual Trading Budget | 08/31/07 | 10/16/07, 72 FR 58528
225.430 | Timing for Annual Allocations | 08/31/07 | 10/16/07, 72 FR 58528
225.435 | Methodology for Calculating Annual Allocations | 08/31/07 | 10/16/07, 72 FR 58528
225.440 | Annual Allocations | 08/31/07 | 10/16/07, 72 FR 58528
225.445 | New Unit Set-Aside (NUSA) | 08/31/07 | 10/16/07, 72 FR 58528
225.450 | Monitoring, Recordkeeping and Reporting Requirements for Gross Electrical Output and Useful Thermal Energy | 08/31/07 | 10/16/07, 72 FR 58528
225.455 | Clean Air Set-Aside (CASA) | 08/31/07 | 10/16/07, 72 FR 58528
225.460 | Energy Efficiency and Conservation, Renewable Energy, and Clean Technology Projects | 08/31/07 | 10/16/07, 72 FR 58528
225.465 | Clean Air Set-Aside (CASA) Allowances | 08/31/07 | 10/16/07, 72 FR 58528
225.470 | Clean Air Set-Aside (CASA) Applications | 08/31/07 | 10/16/07, 72 FR 58528
225.475 | Agency Action on Clean Air Set-Aside (CASA) Applications | 08/31/07 | 10/16/07, 72 FR 58528
225.480 | Compliance Supplement Pool | 08/31/07 | 10/16/07, 72 FR 58528
Subpart E: CAIR NOX Ozone Season Trading Program
225.500 | Purpose | 08/31/07 | 10/16/07, 72 FR 58528
225.505 | Applicability | 08/31/07 | 10/16/07, 72 FR 58528
225.510 | Compliance Requirements | 08/31/07 | 10/16/07, 72 FR 58528
225.515 | Appeal Procedures | 08/31/07 | 10/16/07, 72 FR 58528
225.520 | Permit Requirements | 08/31/07 | 10/16/07, 72 FR 58528
225.525 | Ozone Season Trading Budget | 08/31/07 | 10/16/07, 72 FR 58528
225.530 | Timing for Ozone Season Allocations | 08/31/07 | 10/16/07, 72 FR 58528
225.535 | Methodology for Calculating Ozone Season Allocations | 08/31/07 | 10/16/07, 72 FR 58528
225.540 | Ozone Season Allocations | 08/31/07 | 10/16/07, 72 FR 58528
225.545 | New Unit Set-Aside (NUSA) | 08/31/07 | 10/16/07, 72 FR 58528
225.550 | Monitoring, Recordkeeping and Reporting Requirements for Gross Electrical Output and Useful Thermal Energy | 08/31/07 | 10/16/07, 72 FR 58528
225.555 | Clean Air Set-Aside (CASA) | 08/31/07 | 10/16/07, 72 FR 58528
225.560 | Energy Efficiency and Conservation, Renewable Energy, and Clean Technology Projects | 08/31/07 | 10/16/07, 72 FR 58528
225.565 | Clean Air Set-Aside (CASA) Allowances | 08/31/07 | 10/16/07, 72 FR 58528
225.570 | Clean Air Set-Aside (CASA) Applications | 08/31/07 | 10/16/07, 72 FR 58528
225.575 | Agency Action on Clean Air Set-Aside (CASA) Applications | 08/31/07 | 10/16/07, 72 FR 58528
225.Appendix A: | Specified EGUs for Purposes of the CPS (Midwest Generation's Coal-Fired Boilers as of July 1, 2006) | 06/26/09 | 07/06/12, 77 FR 39943
Subchapter i: Open Burning
Part 237: Open Burning
Subpart A: General Provisions
237.101 | Definitions | 09/07/71 | 05/31/72, 37 FR 10862 | Approved as Rule 401.
237.102 | Prohibitions | 09/07/71 | 05/31/72, 37 FR 10862 | Approved as Rule 402.
237.103 | Explosive Wastes | 09/07/71 | 05/31/72, 37 FR 10862 | Approved as Rule 405.
237.110 | Local Enforcement | 09/07/71 | 05/31/72, 37 FR 10862 | Approved as Rule 406.
237.120 | Exemptions | 09/07/71 | 05/31/72, 37 FR 10862 | Approved as Rule 403.
Subpart B: Permits
237.201 | Permits | 09/07/71 | 05/31/72, 37 FR 10862 | Approved as Rule 404.
Subchapter k: Emission Standards and Limitations for Mobile Sources
Part 240: Mobile Sources
Subpart A: Definitions and General Provisions
240.101 | Preamble | 12/20/94 | 08/13/14, 79 FR 47377
240.102 | Definitions | 02/01/12 | 08/13/14, 79 FR 47377
240.103 | Prohibitions | 04/14/72 | 08/13/14, 79 FR 47377
240.104 | Inspection | 02/01/12 | 08/13/14, 79 FR 47377
240.105 | Penalties | 02/01/12 | 08/13/14, 79 FR 47377
240.106 | Determination of Violation | 02/01/12 | 08/13/14, 79 FR 47377
240.107 | Incorporations by Reference | 03/18/11 | 08/13/14, 79 FR 47377
Subpart B: Emissions
240.121 | Smoke Emissions | 02/01/12 | 08/13/14, 79 FR 47377
240.122 | Diesel Engine Emissions Standards for Locomotives | 04/07/92 | 08/13/14, 79 FR 47377
240.123 | Liquid Petroleum Gas Fuel Systems | 02/01/12 | 08/13/14, 79 FR 47377
Subpart C: Smoke Opacity Standards and Test Procedures for Diesel-Powered Heavy Duty Vehicles
240.140 | Applicability | 02/26/01 | 08/13/14, 79 FR 47377
240.141 | Smoke Opacity Standards and Test Procedures for Diesel-Powered Heavy Duty Vehicles | 02/26/01 | 08/13/14, 79 FR 47377
Subpart D: Steady-State Idle Mode Test Emission Standards
240.151 | Applicability | 02/01/12 | 08/13/14, 79 FR 47377
240.152 | Steady-State Idle Mode Vehicle Exhaust Emission Standards | 03/18/11 | 08/13/14, 79 FR 47377
240.153 | Compliance Determination | 03/18/11 | 08/13/14, 79 FR 47377
Subpart F: Evaporative Test Standards
240.171 | Applicability | 02/01/12 | 08/13/14, 79 FR 47377
240.172 | Evaporative System Integrity Test Standards | 07/13/98 | 08/13/14, 79 FR 47377
Subpart G: On-Road Remote Sensing Test Emission Standards
240.181 | Applicability | 03/18/11 | 08/13/14, 79 FR 47377
240.182 | On-Road Remote Sensing Emission Standards | 03/18/11 | 08/13/14, 79 FR 47377
240.183 | Compliance Determination | 07/13/98 | 08/13/14, 79 FR 47377
Subpart H: On-Board Diagnostic Test Standards
240.191 | Applicability | 03/18/11 | 08/13/14, 79 FR 47377
240.192 | On-Board Diagnostic Test Standards | 12/18/01 | 08/13/14, 79 FR 47377
240.193 | Compliance Determination | 12/18/01 | 08/13/14, 79 FR 47377
Subpart I: Visual Inspection Test Standards
240.201 | Applicability | 02/01/12 | 08/13/14, 79 FR 47377
240.202 | Visual Inspection Test Standards | 02/01/12 | 08/13/14, 79 FR 47377
240.203 | Compliance Determination | 02/01/12 | 08/13/14, 79 FR 47377
240.Appendix A: | Rule Into Section Table | 02/01/12 | 08/13/14, 79 FR 47377
240.Appendix B: | Section Into Rule Table | 02/01/12 | 08/13/14, 79 FR 47377
Part 241: Clean Fuel Fleet Program
Subpart A: General Provisions
241.101 | Other Definitions | 09/11/95 | 03/19/96, 61 FR 11139
241.102 | Definitions | 09/11/95 | 03/19/96, 61 FR 11139
241.103 | Abbreviations | 09/11/95 | 03/19/96, 61 FR 11139
241.104 | Incorporations by Reference | 09/11/95 | 03/19/96, 61 FR 11139
Subpart B: General Requirements
241.110 | Applicability | 09/11/95 | 03/19/96, 61 FR 11139
241.111 | Exemptions | 09/11/95 | 03/19/96, 61 FR 11139
241.112 | Registration of Fleet Owners or Operators | 09/11/95 | 03/19/96, 61 FR 11139
241.113 | Control Requirements | 11/25/97 | 02/17/99, 64 FR 7788
241.114 | Conversions | 09/11/95 | 03/19/96, 61 FR 11139
241.115 | Operating Requirements | 09/11/95 | 03/19/96, 61 FR 11139
Subpart C: Credits
241.130 | Clean Fuel Fleet Credit Program | 11/25/97 | 02/17/99, 64 FR 7788
241.131 | Credit Provisions | 09/11/95 | 03/19/96, 61 FR 11139
Subpart D: Recordkeeping and Reporting
241.140 | Reporting Requirements | 11/25/97 | 02/17/99, 64 FR 7788
241.141 | Recordkeeping Requirements | 09/11/95 | 03/19/96, 61 FR 11139
241.142 | Report of Credit Activities | 09/11/95 | 03/19/96, 61 FR 11139
241.Appendix A: | Emission Standards for Clean Fuel Vehicles | 09/11/95 | 03/19/96, 61 FR 11139
241.Appendix B: | Credit Values | 11/25/97 | 02/17/99, 64 FR 7788
Subchapter l: Air Quality Standards and Episodes
Part 243: Air Quality Standards
Subpart A: General Provisions
243.101 | Definitions | 07/29/13 | 05/20/15, 80 FR 28835
243.102 | Scope | 07/29/13 | 05/20/15, 80 FR 28835
243.103 | Applicability | 07/29/13 | 05/20/15, 80 FR 28835
243.104 | Nondegradation | 10/25/11 | 05/23/13, 78 FR 30770
243.105 | Air Quality Monitoring Data Influenced by Exceptional Events | 07/29/13 | 05/20/15, 80 FR 28835
243.106 | Monitoring | 04/14/72 | 02/21/80, 45 FR 11472
243.107 | Reference Conditions | 11/27/13 | 06/10/16, 81 FR 37517
243.108 | Incorporation by Reference | 06/09/14 | 06/10/16, 81 FR 37517
Subpart B: Standards and Measurement Methods
243.120 | PM10 and PM2.5 | 11/27/13 | 06/10/16, 81 FR 37517
243.122 | Sulfur Oxides (Sulfur Dioxide), and | 11/27/13 | 06/10/16, 81 FR 37517
243.123 | Carbon Monoxide | 07/29/13 | 05/20/15, 80 FR 28835
243.124 | Nitrogen Oxides (Nitrogen Dioxide as Indicator) | 07/29/13 | 05/20/15, 80 FR 28835
243.125 | Ozone | 07/29/13 | 05/20/15, 80 FR 28835
243.126 | Lead, and | 07/29/13 | 05/20/15, 80 FR 28835
243.TABLE A | Schedule of Exceptional Event Flagging and Documentation Submission for New or Revised NAAQS | 11/27/13 | 06/10/16, 81 FR 37517
Part 244: Episodes
Subpart A: Definitions and General Provisions
244.101 | Definitions | 05/15/92 | 01/12/93, 58 FR 3844
244.102 | Responsibility of the Agency | 08/18/72 | 02/21/80, 45 FR 11472 | Approved as Rule 402.
244.103 | Determination of Required Actions | 08/18/72 | 02/21/80, 45 FR 11472 | Approved as Rule 402.
244.104 | Determination of Atmospheric Conditions | 08/18/72 | 02/21/80, 45 FR 11472 | Approved as Rule 402.
244.105 | Determination of Expected Contaminant Emissions | 08/18/72 | 02/21/80, 45 FR 11472 | Approved as Rule 402.
244.106 | Monitoring | 05/15/92 | 01/12/93, 58 FR 3844
244.107 | Determination of Areas Affected | 05/15/92 | 01/12/93, 58 FR 3844
244.108 | Failure To Comply With Episode Requirements | 08/18/72 | 02/21/80, 45 FR 11472 | Approved as Rule 402.
244.109 | Sealing of Offenders | 08/18/72 | 02/21/80, 45 FR 11472 | Approved as Rule 402.
Subpart B: Local Agency Responsibilities
244.121 | Local Agency Responsibilities | 05/15/92 | 01/12/93, 58 FR 3844
Subpart C: Episode Action Plans
244.141 | Requirement for Plans | 08/18/72 | 02/21/80, 45 FR 11472 | Approved as Rule 404.
244.142 | Facilities for Which Action Plans Are Required | 08/18/72 | 02/21/80, 45 FR 11472 | Approved as Rule 404.
244.143 | Submission of Plans | 08/18/72 | 02/21/80, 45 FR 11472 | Approved as Rule 404.
244.144 | Contents of Plans | 08/18/72 | 02/21/80, 45 FR 11472 | Approved as Rule 404.
244.145 | Processing Procedures | 08/18/72 | 02/21/80, 45 FR 11472 | Approved as Rule 404.
Subpart D: Episode Stages
244.161 | Advisory, Alert and Emergency Levels | 05/15/92 | 01/12/93, 58 FR 3844
244.162 | Criteria for Declaring an Advisory | 05/15/92 | 01/12/93, 58 FR 3844
244.163 | Criteria for Declaring a Yellow Alert | 05/15/92 | 01/12/93, 58 FR 3844
244.164 | Criteria for Declaring a Red Alert | 08/18/72 | 02/21/80, 45 FR 11472 | Approved as Rule 405(e).
244.165 | Criteria for Declaring an Emergency | 08/18/72 | 02/21/80, 45 FR 11472 | Approved as Rule 405(e).
244.166 | Criteria for Terminating Advisory, Alert and Emergency | 05/15/92 | 01/12/93, 58 FR 3844
244.167 | Episode Stage Notification | 05/15/92 | 01/12/93, 58 FR 3844
244.168 | Contents of Episode Stage Notification | 05/15/92 | 01/12/93, 58 FR 3844
244.169 | Actions During Episode Stages | 05/15/92 | 01/12/93, 58 FR 3844
244.Appendix D: | Required Emission Reduction Actions | 05/15/92 | 01/12/93, 58 FR 3844
Chapter II: Environmental Protection Agency
Part 252: Public Participation in the Air Pollution Permit Program for Major Sources in Nonattainment Areas
Subpart A: Introduction
252.101 | Purpose | 06/01/84 | 09/25/85, 50 FR 38803
252.102 | Applicability | 06/01/84 | 09/25/85, 50 FR 38803
252.103 | Definitions | 06/01/84 | 09/25/85, 50 FR 38803
Subpart B: Procedures for Public Review
252.201 | Notice and Opportunity To Comment | 06/01/84 | 09/25/85, 50 FR 38803
252.202 | Draft Permit and Denial Letter | 06/01/84 | 09/25/85, 50 FR 38803
252.203 | Availability of Documents | 06/01/84 | 09/25/85, 50 FR 38803
252.204 | Opportunity for Public Hearing | 06/01/84 | 09/25/85, 50 FR 38803
Part 254: Annual Emissions Report
Subpart A: General Provisions
254.101 | Purpose | 07/17/01 | 05/15/02, 67 FR 34614
254.102 | Applicability | 04/20/12 | 07/03/13, 67 FR 40013
254.103 | Definitions | 07/17/01 | 05/15/02, 67 FR 34614
254.120 | Applicable Pollutants for Annual Emissions Reporting | 07/17/01 | 05/15/02, 67 FR 34614
254.132 | Failure To File a Complete Report | 07/17/01 | 05/15/02, 67 FR 34614
254.133 | Voluntary Submittal of Data | 05/14/93 | 05/15/02, 67 FR 34614
254.134 | Retention of Records | 07/17/01 | 05/15/02, 67 FR 34614
254.135 | Reporting of Errors | 07/17/01 | 05/15/02, 67 FR 34614
254.136 | Confidentiality and Trade Secret Protection | 07/17/01 | 05/15/02, 67 FR 34614
254.137 | Reporting Schedule | 07/17/01 | 05/15/02, 67 FR 34614
254.138 | Issuance of Source Inventory Report | 07/17/01 | 05/15/02, 67 FR 34614
Subpart B: Reporting Requirements for Large Sources
254.203 | Contents of Subpart B Annual Emissions Report | 07/17/01 | 05/15/02, 67 FR 34614
254.204 | Complete Reports | 07/17/01 | 05/15/02, 67 FR 34614
Subpart C: Reporting Requirements for Other Sources
254.303 | Contents of Subpart C Annual Emissions Report | 07/17/01 | 05/15/02, 67 FR 34614
254.306 | Complete Reports | 07/17/01 | 05/15/02, 67 FR 34614
Subpart E: Seasonal Emissions Report Under ERMS
254.501 | Contents of a Seasonal Emissions Report | 07/17/01 | 05/15/02, 67 FR 34614
Part 255: General Conformity: Criteria and Procedures
255.100 | Purpose | 03/06/97 | 12/23/97, 62 FR 67000
255.110 | Federal Requirement | 03/06/97 | 12/23/97, 62 FR 67000
255.120 | Applicability | 03/06/97 | 12/23/97, 62 FR 67000
255.140 | Definitions | 03/06/97 | 12/23/97, 62 FR 67000
255.150 | Abbreviations | 03/06/97 | 12/23/97, 62 FR 67000
255.160 | Incorporations by Reference | 03/06/97 | 12/23/97, 62 FR 67000
255.170 | Activities Exempt From Conformity Analysis | 03/06/97 | 12/23/97, 62 FR 67000
255.180 | Conformity Analysis | 03/06/97 | 12/23/97, 62 FR 67000
255.190 | Reporting Requirements | 03/06/97 | 12/23/97, 62 FR 67000
255.200 | Public Participation | 03/06/97 | 12/23/97, 62 FR 67000
255.210 | Frequency of Conformity Determinations | 03/06/97 | 12/23/97, 62 FR 67000
255.220 | Criteria for Determining Conformity of General Federal Actions | 03/06/97 | 12/23/97, 62 FR 67000
255.230 | Procedures for Conformity Determinations of General Federal Actions | 03/06/97 | 12/23/97, 62 FR 67000
255.240 | Mitigation of Air Quality Impacts | 03/06/97 | 12/23/97, 62 FR 67000
Part 276: Procedures To Be Followed in the Performance of Inspections of Motor Vehicle Emissions
Subpart A: General Provisions
276.101 | Purpose and Applicability | 06/28/11 | 08/13/14, 79 FR 47377
276.102 | Definitions | 01/30/12 | 08/13/14, 79 FR 47377
276.103 | Abbreviations | 06/28/11 | 08/13/14, 79 FR 47377
276.104 | Incorporations by Reference | 01/30/12 | 08/13/14, 79 FR 47377
276.105 | Sunset Provisions | 01/30/12 | 08/13/14, 79 FR 47377
Subpart B: Vehicle Emissions Inspection Procedures
276.201 | General Description of Vehicle Emissions Inspection Procedures | 01/30/12 | 08/13/14, 79 FR 47377
276.202 | Pollutants To Be Tested—Exhaust Test | 09/28/98 | 08/13/14, 79 FR 47377
276.203 | Dilution—Steady-State Idle Exhaust Test and Transient Loaded Mode Exhaust Test | 06/28/11 | 08/13/14, 79 FR 47377
276.204 | Steady-State Idle Exhaust Emissions Test Procedures | 06/28/11 | 08/13/14, 79 FR 47377
276.205 | Evaporative System Integrity Test Procedures | 06/28/11 | 08/13/14, 79 FR 47377
276.206 | Engine and Fuel Type Modifications | 06/14/96 | 08/13/14, 79 FR 47377
276.208 | On-Road Remote Sensing Test Procedures | 09/28/98 | 08/13/14, 79 FR 47377
276.209 | On-Board Diagnostic Test Procedures | 06/28/11 | 08/13/14, 79 FR 47377
276.210 | Visual Inspection Test Procedures | 01/30/12 | 08/13/14, 79 FR 47377 | 276.210
Subpart C: Sticker or Certificate Issuance, Display, and Possession
276.301 | General Requirements | 06/28/11 | 08/13/14, 79 FR 47377
276.302 | Determination of Affected Counties | 01/30/12 | 08/13/14, 79 FR 47377
276.303 | Emissions Inspection Sticker or Certificate Design and Content | 06/28/11 | 08/13/14, 79 FR 47377
Subpart D: Waiver and Economic Hardship Extension Requirements
276.401 | Waiver Requirements | 06/28/11 | 08/13/14, 79 FR 47377
276.403 | Denial or Issuance of Waiver | 01/30/12 | 08/13/14, 79 FR 47377
276.404 | Economic Hardship Extension Requirements | 01/30/12 | 08/13/14, 79 FR 47377
276.405 | Outside of Affected Counties Annual Exemption Requirements | 01/30/12 | 08/13/14, 79 FR 47377
Subpart E: Test Equipment Specifications
276.501 | General Requirements | 06/28/11 | 08/13/14, 79 FR 47377
276.502 | Steady-State Idle Exhaust Test Analysis Systems Functional Requirements | 06/28/11 | 08/13/14, 79 FR 47377
276.503 | Steady-State Idle Exhaust Test Analysis Systems Performance Criteria | 06/28/11 | 08/13/14, 79 FR 47377
276.504 | Evaporative System Integrity Test Functional Requirements and Performance Criteria | 06/28/11 | 08/13/14, 79 FR 47377
276.507 | On-Road Remote Sensing Test Systems Functional Requirements and Performance Criteria | 06/28/11 | 08/13/14, 79 FR 47377
276.508 | On-Board Diagnostic Test Systems Functional Requirements and Performance Criteria | 06/28/11 | 08/13/14, 79 FR 47377
Subpart F: Equipment Maintenance and Calibration
276.601 | Steady-State Idle Test Equipment Maintenance | 09/28/98 | 08/13/14, 79 FR 47377
276.602 | Steady-State Idle Test Equipment Calibration | 06/28/11 | 08/13/14, 79 FR 47377
276.603 | Evaporative System Integrity Test Maintenance and Calibration | 09/28/98 | 08/13/14, 79 FR 47377
276.604 | Record Keeping | 06/28/11 | 08/13/14, 79 FR 47377
276.606 | On-Road Remote Sensing Test Systems Maintenance and Calibration | 09/28/98 | 08/13/14, 79 FR 47377
276.607 | On-Board Diagnostic Test Systems Maintenance and Calibration | 09/28/98 | 08/13/14, 79 FR 47377
Subpart G: Fleet Self-Testing Requirements
276.701 | General Requirements | 06/28/11 | 08/13/14, 79 FR 47377
276.702 | Fleet Inspection Permit | 06/28/11 | 08/13/14, 79 FR 47377
276.703 | Fleet Inspection Permittee Operating Requirements | 06/28/11 | 08/13/14, 79 FR 47377
276.704 | Private Official Inspection Station Auditing and Surveillance | 06/28/11 | 08/13/14, 79 FR 47377
276.705 | Fleet Vehicle Inspection Procedures (Renumbered) | 06/14/96 | 08/13/14, 79 FR 47377
Subpart H: Grievance Procedure
276.801 | General Requirements | 06/14/96 | 08/13/14, 79 FR 47377
276.802 | Procedure for Filing Grievance | 06/28/11 | 08/13/14, 79 FR 47377
276.803 | Agency Investigation | 06/28/11 | 08/13/14, 79 FR 47377
276.804 | Review of Agency's Determination | 06/14/96 | 08/13/14, 79 FR 47377
Subpart I: Notices
276.901 | General Requirements | 06/28/11 | 08/13/14, 79 FR 47377
276.902 | Vehicle Emissions Test Notice | 06/28/11 | 08/13/14, 79 FR 47377
Subpart J: Reciprocity With Other Jurisdictions
276.1001 | Requirements for Vehicles Registered in Affected Counties and Located in Other Jurisdictions Requiring Vehicle Emissions Inspection | 06/28/11 | 08/13/14, 79 FR 47377
276.1002 | Requirements for Vehicles Registered in Other Jurisdictions Requiring Vehicle Emissions Inspection and Located in an Affected County | 06/28/11 | 08/13/14, 79 FR 47377
Subpart K: Repair Facility Performance Reporting
276.1101 | Requirements for Collecting and Reporting Data Pertaining to the Repair of Vehicles That Failed or Were Rejected From an Emissions Inspection | 06/28/11 | 08/13/14, 79 FR 47377
Part 283: General Procedures for Emissions Tests Averaging
Subpart A: Introduction
283.110 | Purpose | 09/11/00 | 05/09/03, 68 FR 24885
283.120 | Applicability | 09/11/00 | 05/09/03, 68 FR 24885
283.130 | Definitions | 09/11/00 | 05/09/03, 68 FR 24885
Subpart B: Procedures for Averaging of Test Results
283.210 | Criteria for Averaging Tests | 09/11/00 | 05/09/03, 68 FR 24885
283.220 | Test Plan Requirements | 09/11/00 | 05/09/03, 68 FR 24885
283.230 | Changes to the Test Plan | 09/11/00 | 05/09/03, 68 FR 24885
283.240 | Averaging Procedure | 09/11/00 | 05/09/03, 68 FR 24885
283.250 | Compliance Determination | 09/11/00 | 05/09/03, 68 FR 24885
State Statutes
20 ILCS 605/46.13a | Civil Administrative Code | 09/21/92 | 08/30/93, 58 FR 45448 | Subsection 46.13(a) [Approved Under Public Act 87-1177].
415 ILCS 5/9 | Illinois Environmental Protection Act | 06/21/96 | 05/29/02, 67 FR 37323 | Section 9(f) [Approved Under Public Act 89-491].
415 ILCS 5/9.1 | Illinois Environmental Protection Act | 09/17/91 | 12/17/92, 57 FR 59928 | (Ch. 111 1/2, par. 1009.1) par. 1009.1(a), (b), (c), (d) and (f). [Approved Under Public Act 87-555].
415 ILCS 5/9.9 | Illinois Environmental Protection Act | 07/01/01 | 11/08/2001, 66 FR 56454 | Section 9.9(f) [Approved Under Public Act 92-0012].
415 ILCS 5/39.5 | Illinois Environmental Protection Act | 09/26/92 | 08/30/93, 58 FR 45448 | Subsection 20 [Approved Under Public Act 87-1213].
625 ILCS 5/13B | Illinois Vehicle Code | 01/18/94 | 07/25/96, 61 FR 38582 | 625 ILCS 5/13B [Approved Under Public Act 88-533].

(d) EPA approved state source-specific requirements.

EPA-Approved Illinois Source-Specific Requirements
Name of source | Order/permit No. | State effective date | EPA approval date | Comments
Alumax Incorporated, Morris, IL | PCB AS 92-13 | 09/01/1994 | 02/01/1996, 61 FR 3575
Argonne National Laboratory | PCB AS 03-4 | 12/18/2003 | 07/28/2004, 69 FR 44967
Bema Film Systems, Incorporated, DuPage Co | PCB AS 00-11 | 01/18/2001 | 11/30/2001, 66 FR 59702
Central Can Company (CCC), Chicago, IL | PCB AS 94-18 | 08/06/98, eff. 7/01/91 | 03/18/1999, 64 FR 13346
Chase Products Company, Broadview (Cook Co.) | PCB AS 94-4 | 05/16/1996 | 06/09/1997, 62 FR 31341
City Water, Light & Power, City of Springfield | 9090046 | 06/23/2011 | 07/06/2012, 77 FR 39943 | Joint Construction and Operating Permit.
CP-D Acquisition Company, LLC. (formerly Cromwell-Phoenix, Inc) | PCB AS 03-05 | 11/20/2003 | 10/29/2008, 73 FR 64213
Ford Motor Company | PCB, AS 02-03 | 11/21/2002 | 03/22/2004, 69 FR 13239
Ford Motor Company Chicago Assembly Plant | PCB, AS 05-5 | 09/01/2005 | 09/06/2006, 71 FR 52464
Greif Packaging, LLC, Naperville, DuPage Co | PCB AS 2011-01 | 04/05/2012 | 10/22/2012, 77 FR 64422
IL Power Company's Baldwin Power Station | PCB 79-7 | 09/08/1983 | 04/18/1990, 55 FR 14419 | Emission limits within Paragraph 1 of Final Order.
IPH/Ameren Energy | PCB 14-10 | 11/21/2013 | 12/21/2015, 80 FR 79261 | Certificate of Acceptance, filed with the Illinois Pollution Control Board Clerk's Office 12/20/13.
Kincaid Generation, LLC | 9050022 | 06/24/2011 | 07/06/2012, 77 FR 39943 | Joint Construction and Operating Permit.
Laclede Steel Sulfur dioxide plan | 93070030 | 11/18/93 | 04/20/1994, 59 FR 18752 | FESOP for boilers and reheat furnaces.
Leisure Properties LLC/D/B/A Crownline Boats, West Frankfort, Illinois | PCB AS 04-01 | 07/22/2004 | 04/20/2012, 77 FR 23622 | Effective date identified in error as 07/22/02 in the document heading. Due to ownership change, the Board transferred the adjusted standard to Leisure Properties LLC D/B/A Crownline Boats by Board order AS04-l, effective 10/07/10.
Louis Berkman Company, d/b/a/ the Swenson Spreader Company's Lindenwood, Ogle Co | PCB, AS 97-5 | 05/07/1998 | 05/27/2004, 69 FR 30224
LTV Steel Company, Inc. | 98120091 | 05/14/1999 | 07/14/1999, 64 FR 37847 | Federally Enforceable State Operating Permit.
Midwest Generation, LLC | PCB 12-121 | 08/23/2012 | 07/20/2015, 80 FR 42726 | Certificate of Acceptance, dated 08/24/12, filed with the Illinois Pollution Control Board Clerk's Office 08/27/12.
Midwest Generation, LLC | PCB 13-24 | 04/04/2013 | 07/20/2015, 80 FR 42726 | Certificate of Acceptance, dated 05/16/13, filed with the Illinois Pollution Control Board Clerk's Office 05/17/13.
National Steel Corporation, Granite City Division | 95010005 | 10/21/1997 | 03/11/1998, 63 FR 11842 | Joint Construction and Operating Permit.
Quantum Chemical Corporation, Morris, Aux Sable Township, Grundy Co | PCB AS 92-14 | 10/07/1993 | 04/03/1995, 60 FR 16803 | adjusted standard.
Reynolds Metals Company's McCook Sheet and Plate Plant in McCook, IL (in Cook Co.) | PCB AS 91-8 | 09/21/1995 | 01/21/1997, 62 FR 2916
Royal Fiberglass Products, d/b/a Viking Pools | PCB AS 09-14 | 09/05/2013 | 07/14/2014, 79 FR 40673
Solar Corporation, Libertyville, IL | PCB AS 94-2 | 07/20/1995 | 02/23/1998, 63 FR 8855
Sun Chemical Corporation, Northlake, IL | PCB AS 99-4 | 05/20/1999 | 09/13/1999, 64 FR 49400
Vonco Products, Incorporated, Lake Co | PCB AS 00-12 | 01/18/2001 | 11/30/2001, 66 FR 59704

(e) EPA approved nonregulatory and quasi-regulatory provisions.

EPA-Approved Illinois Nonregulatory and Quasi-Regulatory Provisions
Name of SIP provision | Applicable geographic or nonattainment area | State submittal date | EPA approval date | Comments
Air quality surveillance network | State-wide | 12/20/79 | 03/04/1981, 46 FR 15137 |
Coal ban | Chicago Area | 10/22/73 | 03/02/1976, 41 FR 8956 |
Compliance schedules | State-wide | 03/13/73, 04/03/73, 05/03/73, 06/15/73, and 08/07/73 | 03/02/1976, 41 FR 8956 |
Regional haze plan | Statewide | 6/24/11 | 07/06/2012, 77 FR 39943 |
Small business stationary source technical and environmental compliance assistance program | State-wide | 11/12/92 | 08/30/1993, 58 FR 45451 |
Total Suspended Particulate Control Strategy analysis | State-wide | 10/01/81 | 09/30/1982, 47 FR 43054 |
Transportation control plan | Chicago Area | 04/17/73 | 03/02/1976, 41 FR 8956 |
Transportation control plan | Chicago Area | 04/30/80 | 01/27/1981, 46 FR 8472 |
Transportation control plan | Chicago Area | 08/20/80 and 03/20/81 | 11/16/1981, 46 FR 56196 |
Transportation control plan | Peoria Area | 10/15/80 | 11/16/1981, 46 FR 56196 |
Transportation control plan | St. Louis Area | 04/01/81 | 11/16/1981, 46 FR 56196 |
Transportation control plans | Chicago and St. Louis areas | 12/03/82 | 10/04/1990, 55 FR 40658 |
Attainment and Maintenance Plans
Carbon monoxide attainment demonstration | Chicago Area | 05/04/83 | 10/04/1990, 55 FR 40658 |
Lead (1978) attainment and maintenance plan | Granite City area | 09/30/83 | 07/24/1984, 49 FR 29790 |
Lead (2008)—Clean Data Determination | Chicago Area | N/A | 08/25/2015, 80 FR 51131 |
Ozone (1-hour) attainment demonstration | Chicago area | 12/26/00 | 11/13/2001, 66 FR 56904 |
Ozone (1-hour) attainment demonstration | St. Louis area | 11/15/99, 02/10/00, 04/13/01, and 04/30/01 | 6/26/2001, 66 FR 33996 | EPA is disapproving the request for an exemption from the NOX NSR and certain NOX conformity requirements for Madison, Monroe, and St. Clair Counties.
Ozone (1-hour) attainment plan revision | Chicago severe nonattainment area | 04/11/03 | 09/15/2003, 68 FR 53887 |
Ozone (1-hour) redesignation and maintenance plan | Jersey County | 11/12/93 | 03/14/1995, 60 FR 13634 |
Ozone (1-hour) redesignation and maintenance plan | St. Louis Area | 12/30/02 | 05/12/2003, 68 FR 25542 |
Ozone (1-hour revoked) finding of attainment | Chicago area | 01/30/07 | 12/30/2008, 73 FR 79652 |
Ozone (8-hour, 1997) Determination of Attainment | Chicago area | N/A | 07/08/2011, 76 FR 40262 | Correction to codification published on 03/12/10 at 75 FR 12088.
Ozone (8-hour, 1997) Determination of Attainment | St. Louis area | N/A | 06/09/2011, 76 FR 33647 |
Ozone (8-hour, 1997) maintenance plan revision | Chicago area | 03/28/14 | 10/06/2014, 79 FR 60073 | Revised VOC and NOX Motor Vehicle Emissions Budgets (MVEB) for the year 2025.
Ozone (8-hour, 1997) redesignation and maintenance plan | Chicago area | 07/23/09, and 09/16/11 | 08/13/2012, 77 FR 48062 |
Ozone (8-hour, 1997) redesignation and maintenance plan | St. Louis area | 05/26/10, and 09/16/11 | 06/12/2012, 77 FR 34819 |
Ozone (8-hour, 2008) Determination of Attainment | St. Louis area | N/A | 06/27/2016, 81 FR 41444 | determination that the area attained by the 07/20/2016 attainment date.
PM10 maintenance plan | Granite City area | 03/19/96, and 10/15/96 | 03/11/1998, 47 FR 11842 |
PM10 maintenance plan | Lake Calumet (Southeast Chicago), Cook County | 08/02/05, as supplemented on 09/08/05 | 09/22/2005, 70 FR 55545 |
PM10 maintenance plan | LaSalle County | 06/02/95, and 01/09/96 | 08/08/1996, 61 FR 41342 |
PM10 maintenance plan | Lyons Township (McCook), Cook County | 08/02/05 | 09/22/2005, 70 FR 55541 |
PM2.5 (1997)—Clean Data Determination | St. Louis area | N/A | 05/23/2011, 76 FR 29652 |
PM2.5 (1997)—Determination of Attainment | Chicago area | N/A | 11/27/2009, 74 FR 62243 |
PM2.5 (1997)—Determination of Attainment | St. Louis area | N/A | 06/27/2012, 77 FR 38184 |
PM2.5 (1997)—maintenance plan and motor vehicle emissions budgets | Chicago area | 10/15/10, supplemented on 09/16/11, and 05/06/13 | 10/02/2013, 78 FR 60704 |
Sulfur dioxide control strategy | Cincinnati, Pekin and Elm Grove Townships in Tazewell County and Logan and Limestone Townships in Peoria County | 03/24/83 and 05/03/83 | 08/08/1984, 49 FR 31685 | Correction to codification published on 02/09/94 at 59 FR 5955.
Sulfur dioxide maintenance plan | Peoria and Hollis Townships in Peoria County and Groveland Township in Tazewell County | 11/10/94 | 60 FR 17001, 4/4/1995 |
Emission Inventories
Emission inventory—1990 (1-hour ozone) | Chicago and St. Louis areas | 11/12/93 | 03/14/1995, 60 FR 13631 |
Emission inventories—2002 (NOX, primary PM2.5, SO2, ammonia, and VOC) | Chicago area | 10/15/10, supplemented on 05/06/13 | 10/02/2013, 78 FR 60704 |
Emissions inventory—2002 (1997 8-hour ozone) | St. Louis area | 05/26/10, supplemented on 09/16/11 | 06/12/2012, 77 FR 34819 |
Emissions inventory—2002 (1997 8-hour ozone) | Chicago area | 06/21/06, supplemented on 09/16/11 | 08/13/2012, 77 FR 48062 |
Emission inventory—2011 (2008 8-hour ozone) | Chicago and St. Louis areas | 09/03/14 | 03/07/2016, 81 FR 11671 |
Moderate Area & Above Ozone Requirements
15 percent rate-of-progress and 3 percent contingency plans | Chicago and St. Louis areas | 11/15/93 | 12/18/1997, 62 FR 66279 |
Negative declaration—Natural gas/gasoline processing plants | State-wide | 11/14/85 | 11/24/1986, 51 FR 42221 |
Negative declaration—Aerospace manufacturing and rework industry | Chicago and St. Louis areas | 10/11/96 | 02/11/1997, 62 FR 6127 |
Negative declaration—Industrial cleaning solvents category | St. Louis area | 10/02/98 | 01/06/1999, 64 FR 756 |
Negative declaration—Industrial cleaning solvents category | Chicago area | 12/23/99 | 02/07/2001, 66 FR 9206 |
Negative declaration—Industrial wastewater category | Chicago area | 12/23/99 | 04/27/2001, 66 FR 21096 |
Negative declaration—Industrial wastewater category | St. Louis area | 10/02/98 | 01/06/1999, 64 FR 756 |
Negative declaration—Shipbuilding and ship repair industry | Chicago and St. Louis areas | 10/11/96 | 02/11/1997, 62 FR 6126 |
NOX RACT waiver (1997 8-hour ozone) | Chicago and St. Louis areas | 07/29/10 | 02/22/2011, 76 FR 9655 |
NOX waiver—RACT, NSR, vehicle I/M, and general conformity | Chicago severe nonattainment area | 07/13/94 | 01/26/1996, 61 FR 2428 | does not cover the exemption of NOX transportation conformity requirements.
NOX waiver—transportation conformity requirements | Chicago severe nonattainment area | 06/20/95 | 02/12/1996, 61 FR 5291 |
Photochemical assessment ambient monitoring system (PAMS) |  | 11/04/93 | 02/25/1994, 59 FR 9091 |
Post-1996 Rate Of Progress Plan | Chicago area | 12/18/97, 12/17/99, 01/14/00, 01/21/00, and 02/17/00 | 12/18/2000, 65 FR 78961 | Includes Contingency measure plan and Transportation Control Measures (TCMs).
Transportation control measures as part of the 15 percent rate-of-progress and 3 percent contingency plans | St. Louis area | 11/15/93 | 12/18/1997, 62 FR 66279 | Work trip reductions; transit improvements; and traffic flow improvements.
Vehicle miles traveled (VMT) SIP and, transportation control measures (TCMs) as part of the 15 percent rate-of-progress plan | Chicago area | 07/14/1994 | 09/21/1995, 60 FR 48896 |
Section 110(a)(2) Infrastructure Requirements
1997 8-hour Ozone NAAQS Infrastructure Requirements | Statewide | 12/12/07 | 7/13/2011, 76 FR 41075 | CAA elements 110(a)(2)(A), (B), (C) with respect to enforcement, (D)(ii), (E) through (H), (J) except for prevention of significant deterioration (PSD), and (K) through (M) have been approved. CAA elements 110(a)(2)(C) and (J) with respect to PSD have been disapproved.
1997 PM2.5 NAAQS Infrastructure Requirements | Statewide | 12/12/07 | 7/13/2011, 76 FR 41075 | CAA elements 110(a)(2)(A), (B), (C) with respect to enforcement, (D)(ii), (E) through (H), (J) except for prevention of significant deterioration (PSD), and (K) through (M) have been approved. CAA elements 110(a)(2)(C) and (J) with respect to PSD have been disapproved.
2006 24-hour PM2.5 NAAQS Infrastructure Requirements | Statewide | 08/09/11, supplemented on 08/25/11, and 06/27/12 | 8/26/2015, 80 FR 51730 | CAA elements 110(a)(2)(A), (B), (C) with respect to enforcement, (D)(i)(II) with respect to visibility protection, (E)(i), (E)(iii), (F) through (H), (J) except for prevention of significant deterioration (PSD), and (K) through (M) have been approved. CAA elements 110(a)(2)(E)(ii), (D)(ii) and the PSD portions of (C), (D)(i)(II), and (J) have been disapproved.
2008 Lead NAAQS Infrastructure Requirements | Statewide | 12/31/12 | 7/16/2014, 79 FR 41439 | CAA elements 110(a)(2)(A), (B), (C) with respect to enforcement, (D)(i)(I), (D)(i)(II) with respect to visibility protection, (E)(i), (E)(iii), (F) through (H), (J) except for prevention of significant deterioration (PSD), and (K) through (M) have been approved. CAA elements 110(a)(2)(D)(ii) and the PSD portions of (C), (D)(i)(II), and (J) have been disapproved.
2008 Ozone NAAQS Infrastructure Requirements | Statewide | 12/31/12 | 8/26/2015, 80 FR 51730 | CAA elements 110(a)(2)(A), (B), (C) with respect to enforcement, (D)(i)(II) with respect to visibility protection, (E)(i), (E)(iii), (F) through (H), (J) except for prevention of significant deterioration (PSD), and (K) through (M) have been approved. CAA elements 110(a)(2)(D)(ii), (E)(ii), and the PSD portions of (C), (D)(i)(II), and (J) have been disapproved.
2010 NO2 NAAQS Infrastructure Requirements | Statewide | 12/31/12 | 5/22/2015, 80 FR 29535 | CAA elements 110(a)(2)(A), (B), (C) with respect to enforcement, (D)(i)(I), (D)(i)(II) with respect to visibility protection, (E)(i), (E)(iii), (F) through (H), (J) except for prevention of significant deterioration (PSD), and (K) through (M) have been approved. CAA elements 110(a)(2)(D)(ii) and the PSD portions of (C), (D)(i)(II), and (J) have been disapproved.
2010 SO2 NAAQS Infrastructure Requirements | Statewide | 12/31/12 | 5/22/2015, 80 FR 29535 | CAA elements 110(a)(2)(A), (B), (C) with respect to enforcement, (D)(i)(II) with respect to visibility protection, (E)(i), (E)(iii), (F) through (H), (J) except for prevention of significant deterioration (PSD), and (K) through (M) have been approved. CAA elements 110(a)(2)(D)(ii) and the PSD portions of (C), (D)(i)(II), and (J) have been disapproved.

§ 52.729 [Removed and reserved]

4. Remove and reserve § 52.729.

§ 52.745 [Removed and reserved]

5. Remove and reserve § 52.745.

§ 52.746 [Removed and reserved]

6. Remove and reserve § 52.746.

[FR Doc. 2017-13659 Filed 6-29-17; 8:45 am]

BILLING CODE 6560-50-P